DEPARTMENT OF HOUSING AND URBAN DEVELOPMENT

[Docket No. FR-4557-N-06]

Federal Property Suitable as Facilities to Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7262, Department of Housing and Urban Development, 451 Seventh Street, SW, Washington, DC 20410; telephone (202) 708-1234; TDD number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD reviewed in 1999 for suitability for use to assist the homeless. The properties were reviewed using information provided to HUD by Federal landholding agencies regarding unutilized and underutilized buildings and real property controlled by such agencies or by GSA regarding its inventory of excess or surplus Federal property.

In accordance with 24 CFR part 581.3(b) landholding agencies are required to notify HUD by December 31, 1999, the current availability status and classification of each property controlled by the Agencies that were published by HUD as suitable and available which remain available for application for use by the homeless.

Pursuant to 24 CFR part 581.8(d) and (e) HUD is required to publish a list of those properties reported by the Agencies and a list of suitable/unavailable properties including the reasons why they are not available.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 433-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For more information regarding particular properties identified in this Notice (i.e., acreage, floor plan, existing sanitary facilities, exact street address), providers should contact the appropriate landholding agencies at the following addresses: U.S. Army: Jeff Holste, CEMP-IP, U.S. Army Corps of Engineers, Installation Support Center, 7701 Telegraph Road, Alexandria, VA 22315-3862; (703) 428-6318; Corps of Engineers: Shirley Middlewarth, Army Corps of Engineers, Management and Disposal Division, Room 4224, 20 Massachusetts Ave. NW, Washington, DC 20314-1000; (202) 761-0515; U.S. Navy: Charles C. Cocks, Dept. of Navy, Real Estate Policy Division, Naval Facilities Engineering Command, Washington Navy Yard, 1322 Patterson Ave., SE, Suite 1000, Washington, DC 20374-5065; (202) 685-9200; U.S. Air Force: Barbara Jenkins, Air Force Real Estate Agency (Area/MI), Bolling AFB, 112 Luke Avenue, Suite 104, Washington, DC 20332-8020; (202) 767-4184; GSA: Brian K. Polly, Office of Property Disposal, GSA, 18th and F Streets NW, Washington, DC 20405; (202) 501-2059; Dept. of Veterans Affairs: Anatolij Kushnir, Asset & Enterprise Development Service, Dept. of Veterans Affairs, room 419, Lafayette Bldg., 811 Vermont Ave. NW, Washington, DC 20420; (202) 565-5941; Dept. of Energy: Tom Knox, Office of Contract & Resource Management, MA-53, Washington, DC 20585; (202) 586-8715; Dept. of Transportation: Rugene Spruill, Space Management, Transportation Administrative Service Center, DOT, 400 Seventh St. SW, room 2310, Washington, DC 20590; (202) 366-4246; Dept. of Interior: Al Barth, Property Management, Dept. of Interior, 1849 C St. NW, Mailstop 5512-MIB, Washington, DC 20240; (202) 208-7283; (These are not toll-free numbers).

Dated: February 3, 2000.
Fred Karnas, Jr.,
Deputy Assistant Secretary for Special Needs Assistance Programs.

TITLE V—PROPERTIES REPORTED IN YEAR 1999 WHICH ARE SUITABLE AND AVAILABLE

AIR FORCE

California

Building

Bldg. 604

Property #: 18199010237

Point Arena Air Force

Station

Co: Mendocino CA 95468-5000

Status: Unutilized

Comment: 1232 sq. ft.; stucco-wood frame; most recent use—housing.

Bldg. 605

Property #: 18199010238

Point Arena Air Force

Station

Co: Mendocino CA 95468-5000

Status: Unutilized

Comment: 1232 sq. ft.; stucco-wood frame; most recent use—housing.

Bldg. 612

Property #: 18199010239

Point Arena Air Force

Station

Co: Mendocino CA 95468-5000

Status: Unutilized

Comment: 1232 sq. ft.; stucco-wood frame; most recent use—housing.

Bldg. 611

Property #: 18199010240

Point Arena Air Force

Station

Co: Mendocino CA 95468-5000

Status: Unutilized

Comment: 1232 sq. ft.; stucco-wood frame; most recent use—housing.

Bldg. 613

Property #: 18199010241

Point Arena Air Force

Station

Co: Mendocino CA 95468-5000

Status: Unutilized

Comment: 1232 sq. ft.; stucco-wood frame; most recent use—housing.

Bldg. 614

Property #: 18199010242

Point Arena Air Force

Station

Co: Mendocino CA 95468-5000

Status: Unutilized

Comment: 1232 sq. ft.; stucco-wood frame; most recent use—housing.

Bldg. 615

Property #: 18199010243

Point Arena Air Force

Station

Co: Mendocino CA 95468-5000

Status: Unutilized

Comment: 1232 sq. ft.; stucco-wood frame; most recent use—housing.

Bldg. 616

Property #: 18199010244

Point Arena Air Force

Station

Co: Mendocino CA 95468-5000

Status: Unutilized

Comment: 1232 sq. ft.; stucco-wood frame; most recent use—housing.

Bldg. 617

Property #: 18199010245

Point Arena Air Force

Station

Co: Mendocino CA 95468-5000

Status: Unutilized

Comment: 1232 sq. ft.; stucco-wood frame; most recent use—housing.

Bldg. 618

Property #: 18199010246

Point Arena Air Force

Station

Co: Mendocino CA 95468-5000

Status: Unutilized

Comment: 1232 sq. ft.; stucco-wood frame; most recent use—rehab.

Colorado

Building

Bldg. 964

Property #: 18199930016

Former Lowry AFB

Denver Co: CO 80220-

Status: Unutilized

Comment: 14,495 sq. ft., local land use controls, most recent use—child care/kitchen facility.

Idaho

Building

Bldg. 516

Property #: 18199520004

Mountain Home Air Force Base

Mountain Home Co: Elmore ID 86348-

Status: Excess

Comment: 4928 sq. ft., 1 story wood frame, presence of lead paint and asbestos, most recent use—offices.

Bldg. 2201

Property #: 18199520005

Mountain Home Air Force Base

Mountain Home Co: Elmore ID 83648-

Status: Underutilized

Comment: 6804 sq. ft., 1 story wood frame, most recent use—temporary garage for base fire dept. vehicles, presence of lead paint and asbestos shingles.

Maine

Land

Irish Ridge NEXRAD Site

Property #: 18199640017

Loring AFB

Fort Fairfield Co: Aroostock ME 04742-

Status: Unutilized

Comment: 3.491 acres in fee simple.

Massachusetts

Building

Bldg. 001

Property #:18199940001

Air Natl Guard Station

50 Skyline Drive

Worcester Co: MA 01605-2898

Status: Excess

Comment: 37,557 sq. ft., most recent use—shops/vehicle maintenance

Bldg. 002

Property #:18199940002

Air Natl Guard Station

50 Skyline Drive

Worcester Co: MA 01605-2898

Status: Excess

Comment: 5,580 sq. ft., most recent use—office/shops

Bldg. 003

Property #:18199940003

Air Natl Guard Station

50 Skyline Drive

Worcester Co: MA 01605-2898

Status: Excess

Comment: 3,840 sq. ft., most recent use—warehouse

Bldg. 004

Property #:18199940004

Air Natl Guard Station

50 Skyline Drive

Worcester Co: MA 01605-2898

Status: Excess

Comment: 225 sq. ft., most recent use—shop

Bldg. 005

Property #:18199940005

Air Natl Guard Station

50 Skyline Drive

Worcester Co: MA 01605-2898

Status: Excess

Comment: 8000 sq. ft., most recent use—warehouse

Land

.07 acre

Property #:18199840007

Westover Air Reserve Base

Off Rte 33

Chicopee Co: Hampden MA 01022-

Status: Excess

Comment: land, no utilities

Nebraska

Building

Bldg. 20

Property #:18199610004

Offutt Communications Annex

4

Silver Creek Co: Nance NE 68663-

Status: Unutilized

Comment: 4714 sq. ft., most recent use—dormitoryneeds major repair

Land

Hastings Radar Bomb Scoring

Property #:18199810027

Hastings Co: Adams NE 68901-

Status: Unutilized

Comment: 11 acres

New York

Building

Bldg. 1452 & 297 acres

Property #:18199920030

AVA Test Annex

Town of Ava Co: Oneida NY 13303-

Status: Unutilized

Comment: 11,000 sq. ft. on 297 acres (67 acres of wetland), most recent use—electronic research testing, presence of asbestos/lead paint

Bldg. 1453

Property #:18199920031

AVA Test Annex

Town of Ava Co: Oneida NY 13303-

Status: Unutilized

Comment: 266 sq. ft., most recent use—generator bldg., presence of asbestos

Bldg. 1454

Property #:18199920032

AVA Test Annex

Town of Ava Co: Oneida NY 13303-

Status: Unutilized

Comment: 53 sq. ft., most recent use—switch station, presence of asbestos

South Dakota

Building

West Communications Annex

Property #:18199340051

Ellsworth Air Force Base

Ellsworth AFB Co: Meade SD 57706-

Status: Unutilized

Comment: 2 bldgs. on 2.37 acres, remote area, lacks infrastructure, road hazardous during winter storms, most recent use—industrial storage

ARMY

Alabama

Building

Bldg. 60101

Property #: 21199520152

Shell Army Heliport

Ft. Rucker Co: Dale AL 36362-5000

Status: Unutilized

Comment: 6082 sq. ft., 1-story, most recent use—airfield fire station, off-site use only

Bldg. 60103

Property #: 21199520154

Shell Army Heliport

Ft. Rucker Co: Dale AL 36362-5000

Status: Unutilized

Comment: 12516 sq. ft., 2-story, most recent use—admin., off-site use only

Bldg. 60110

Property #: 21199520155

Shell Army Heliport

Ft. Rucker Co: Dale AL 36362-5000

Status: Unutilized

Comment: 8319 sq. ft., 1-story, most recent use—admin., off-site use only

Bldg. 60113

Property #: 21199520156

Shell Army Heliport

Ft. Rucker Co: Dale AL 36362-5000

Status: Unutilized

Comment: 4000 sq. ft., 1-story, most recent use—admin., off-site use only

Alaska

Building

Bldgs. 420, 422, 426, 430

Property #: 21199740276

Fort Richardson

Anchorage AK 99505-6500

Status: Excess

Comment: 13,056 sq. ft., presence of asbestos/lead paint, most recent use—family housing, off-site use only

Bldg. 789

Property #: 21199910084

Fort Richardson

Anchorage Co: AK 99505-6500

Status: Excess

Comment: 19,001 sq. ft., concrete block, most recent use—vehicle maint., off-site use only

Bldg. 263

Property #: 21199930111

Fort Richardson

Ft. Richardson Co: AK 99505-

Status: Excess

Comment: 13056 sq. ft., most recent use—housing, off-site use only

Bldg. 636

Property #: 21199930112

Fort Richardson

Ft. Richardson Co: AK 99505-

Status: Excess

Comment: 33,726 sq. ft., concrete block, most recent use—library, off-site use only

Bldg. 736

Property #: 21199930113

Fort Richardson

Ft. Richardson Co: AK 99505-

Status: Excess

Comment: 7090 sq. ft., most recent use—admin., off-site use only

Bldg. 786

Property #: 21199930114

Fort Richardson

Ft. Richardson Co: AK 99505-

Status: Excess

Comment: 2242 sq. ft., most recent use—driver's testing facility, off-site use only

Bldg. 978

Property #: 21199930116

Fort Richardson

Ft. Richardson Co: AK 99505-

Status: Excess

Comment: 2411 sq. ft., concrete block, most recent use—training, off-site use only

Bldg. 980

Property #: 21199930117

Fort Richardson

Ft. Richardson Co: AK 99505-

Status: Excess

Comment: 11,651 sq. ft., concrete block, most recent use—vehicle maintenance, off-site use only

Bldg. 58780

Property #: 21199930118

Fort Richardson

Ft. Richardson Co: AK 99505-

Status: Excess

Comment: 3230 sq. ft., most recent use—admin., off-site use only

Arizona

Building

Bldg. 30012, Fort Huachuca

Property #: 21199310298

Sierra Vista Co: Cochise AZ 85635-

Status: Excess

Comment: 237 sq. ft., 1-story block, most recent use—storage

Bldg. S-306

Property #: 21199420346

Yuma Proving Ground

Yuma Co: Yuma/La Paz AZ 85365-9104

Status: Unutilized

Comment: 4103 sq. ft., 2-story, needs major rehab, off-site use only

Bldg. 503, Yuma Proving Ground

Property #: 21199520073

Yuma Co: Yuma AZ 85365-9104

Status: Underutilized

Comment: 3789 sq. ft., 2-story, major structural changes required to meet floor loading & fire code requirements, presence of asbestos, off-site use only

5 Bldgs.

Property #: 21199840129

Fort Huachuca

Sierra Vista Co: Cochise AZ 85635-

Location: 44101, 44102, 44124, 44125, 44201

Status: Excess

Comment: various sq. ft. & bdrm units, presence of asbestos/lead paint, most recent use—family housing, off-site use only

Bldgs. 87821, 90420

Property #: 21199910087

Fort Huachuca

Sierra Vista Co: Cochise AZ 85635-

Status: Excess

Comment: 377 and 5662 sq. ft., presence of asbestos/lead paint, most recent use—storage, off-site use only

Bldgs. 12521, 13572

Property #: 21199920183

Fort Huachuca

Sierra Vista Co: Cochise AZ 85635-

Status: Unutilized

Comment: 448 sq. ft. & 54 sq. ft., off-site use only

Bldgs. 43101-43109

Property #: 21199940001

Fort Huachuca

Sierra Vista Co: Cochise AZ 85635-

Status: Excess

Comment: 969 sq. ft. per unit, 2-units per bldg., wood/stucco, presence of asbestos/lead paint, most recent use—housing, off-site use only

California

Building

Bldg. 4282

Property #: 21199810378

Presidio of Monterey Annex

Seaside Co: Monterey CA 93944-

Status: Unutilized

Comment: 2283 sq. ft., presence of asbestos/lead paint, most recent use—office

Bldg. 4461

Property #: 21199810379

Presidio of Monterey Annex

Seaside Co: Monterey CA 93944-

Status: Unutilized

Comment: 992 sq. ft., presence of asbestos/lead paint, most recent use—storage

Bldg. 104

Property #: 21199910088

Presidio of Monterey

Monterey Co: CA 93944-

Status: Unutilized

Comment: 8039 sq. ft., presence of asbestos/lead paint, most recent use—office, off-site use only

Bldg. 106

Property #: 21199910089

Presidio of Monterey

Monterey Co: CA 93944-

Status: Unutilized

Comment: 1950 sq. ft., presence of asbestos/lead paint, most recent use—office/storage, off-site use only

Bldg. 125

Property #: 21199910090

Presidio of Monterey

Monterey Co: CA 93944-

Status: Unutilized

Comment: 371 sq. ft., presence of asbestos/lead paint, most recent use—office, off-site use only

Bldg. 339

Property #: 21199910092

Presidio of Monterey

Monterey Co: CA 93944-

Status: Unutilized

Comment: 5654 sq. ft., presence of asbestos/lead paint, most recent use—office, off-site use only

Bldg. 340

Property #: 21199910093

Presidio of Monterey

Monterey Co: CA 93944-

Status: Unutilized

Comment: 6500 sq. ft., presence of asbestos/lead paint, most recent use—office, off-site use only

Bldg. 341

Property #: 21199910094

Presidio of Monterey

Monterey Co: CA 93944-

Status: Unutilized

Comment: 371 sq. ft., presence of asbestos/lead paint, most recent use—office, off-site use only

Bldg. 4214

Property #: 21199910095

Presidio of Monterey

Monterey Co: CA 93944-

Status: Unutilized

Comment: 3168 sq. ft., presence of asbestos/lead paint, most recent use—office, off-site use only

Colorado

Building

Bldg. P-1008

Property #: 21199630127

Fort Carson

Ft. Carson Co: El Paso CO 80913-5023

Status: Unutilized

Comment: 3362 sq. ft., fair condition, possible asbestos/lead based paint, most recent use—service outlet, off-site use only

Bldg. P-1007

Property #: 21199730210

Fort Carson

Ft. Carson Co: El Paso CO 80913-

Status: Unutilized

Comment: 3818 sq. ft., needs repair, possible asbestos/lead paint, most recent use—health clinic, off-site use only

Bldg. T-1342

Property #: 21199730211

Fort Carson

Ft. Carson Co: El Paso CO 80913-

Status: Unutilized

Comment: 13,364 sq. ft., possible asbestos/lead paint, most recent use—instruction bldg.

Bldg. T-6005

Property #: 21199730213

Fort Carson

Ft. Carson Co: El Paso CO 80913-

Status: Unutilized

Comment: 19,015 sq. ft., possible asbestos/lead paint, most recent use—warehouse

Georgia

Building

Bldg. 2285

Property #: 21199011704

Fort Benning

Fort Benning Co: Muscogee GA 31905-

Status: Unutilized

Comment: 4574 sq. ft.; most recent use—clinic; needs substantial rehabilitation; 1 floor.

Bldg. 4491

Property #: 21199014916

Fort Benning Co: Muscogee GA 31905-

Status: Unutilized

Comment: 18240 sq. ft.; 1 story building; needs rehab; most recent use—Vehicle maintenance shop.

Bldg. 1252, Fort Benning

Property #: 21199220694

Ft. Benning Co: Muscogee GA 31905-

Status: Unutilized

Comment: 583 sq. ft., 1 story, most recent use—storehouse, needs major rehab, off-site removal only.

Bldg 4881, Fort Benning

Property #: 21199220707

Ft. Benning Co: Muscogee GA 31905-

Status: Unutilized

Comment: 2449 sq. ft., 1 story, most recent use—storehouse, need repairs, off-site removal only.

Bldg 4963, Fort Benning

Property #: 21199220710

Ft. Benning Co: Muscogee GA 31905-

Status: Unutilized

Comment: 6077 sq. ft., 1 story, most recent use—storehouse, need repairs, off-site removal only.

2396, Fort Benning

Property #: 21199220712

Ft. Benning Co: Muscogee GA 31905-

Status: Unutilized

Comment: 9786 sq. ft., 1 story, most recent use—dining facility, needs major rehab, off-site removal only.

Bldg. 4882, Fort Benning

Property #: 21199220727

Ft. Benning Co: Muscogee GA 31905-

Status: Unutilized

Comment: 6077 sq. ft., 1 story, most recent use—storage, need repairs, off-site removal only.

Bldg. 4967, Fort Benning

Property #: 21199220728

Ft. Benning Co: Muscogee GA 31905-

Status: Unutilized

Comment: 6077 sq. ft., 1 story, most recent use—storage, need repairs, off-site removal only.

Bldg. 4977, Fort Benning

Property #: 21199220736

Ft. Benning Co: Muscogee GA 31905-

Status: Unutilized

Comment: 192 sq. ft., 1 story, most recent use—offices, need repairs, off-site removal only.

Bldg. 4944, Fort Benning

Property #: 21199220747

Ft. Benning Co: Muscogee GA 31905-

Status: Unutilized

Comment: 6400 sq. ft., 1 story, most recent use—vehicle maintenance shop, need repairs, off-site removal only.

Bldg. 4960, Fort Benning

Property #: 21199220752

Ft. Benning Co: Muscogee GA 31905-

Status: Unutilized

Comment: 3335 sq. ft., 1 story, most recent use—vehicle maintenance shop, off-site removal only.

Bldg. 4969, Fort Benning

Property #: 21199220753

Ft. Benning Co: Muscogee GA 31905-

Status: Unutilized

Comment: 8416 sq. ft., 1 story, most recent use—vehicle maintenance shop, off-site removal only.

Bldg 4884, Fort Benning

Property #: 21199220762

Ft. Benning Co: Muscogee GA 31905-

Status: Unutilized

Comment: 2000 sq. ft., 1 story, most recent use—headquarters bldg., need repairs, off-site removal only.

Bldg. 4964, Fort Benning

Property #: 21199220763

Ft. Benning Co: Muscogee GA 31905-

Status: Unutilized

Comment: 2000 sq. ft., 1 story, most recent use—headquarters bldg., need repairs, off-site removal only.

Bldg. 4966, Fort Benning

Property #: 21199220764

Ft. Benning Co: Muscogee GA 31905-

Status: Unutilized

Comment: 2000 sq. ft., 1 story, most recent use—headquarters bldg., need repairs, off-site removal only.

Bldg. 4965, Fort Benning

Property #: 21199220769

Ft. Benning Co: Muscogee GA 31905-

Status: Unutilized

Comment: 7713 sq. ft., 1 story, most recent use—supply bldg., need repairs, off-site removal only.

Bldg. 4945, Fort Benning

Property #: 21199220779

Ft. Benning Co: Muscogee GA 31905-

Status: Unutilized

Comment: 220 sq. ft., 1 story, most recent use—gas station, needs major rehab, off-site removal only.

Bldg. 4979, Fort Benning

Property #: 21199220780

Ft. Benning Co: Muscogee GA 31905-

Status: Unutilized

Comment: 400 sq. ft., 1 story, most recent use—oil house, need repairs, off-site removal only.

Bldg. 4023, Fort Benning

Property #: 21199310461

Ft. Benning Co: Muscogee GA 31905-

Status: Unutilized

Comment: 2269 sq. ft., 1-story, needs rehab, most recent use—maintenance shop, off-site use only

Bldg. 4024, Fort Benning

Property #: 21199310462

Ft. Benning Co: Muscogee GA 31905-

Status: Unutilized

Comment: 3281 sq. ft., 1-story, needs rehab, most recent use—maintenance shop, off-site use only

Bldg. 4067, Fort Benning

Property #: 21199310465

Ft. Benning Co: Muscogee GA 31905-

Status: Unutilized

Comment: 4406 sq. ft., 1-story, needs rehab, most recent use—admin. off-site use only

Bldg. 10501

Property #: 21199410264

Fort Gordon

Fort Gordon Co: Richmond GA 30905-

Status: Unutilized

Comment: 2516 sq. ft.; 1 story; wood; needs rehab.; most recent use—office; off-site use only

Bldg. 11813

Property #: 21199410269

Fort Gordon

Fort Gordon Co: Richmond GA 30905-

Status: Unutilized

Comment: 70 sq. ft.; 1 story metal; needs rehab.; most recent use—storage; off-site use only

Bldg. 21314

Property #: 21199410270

Fort Gordon

Fort Gordon Co: Richmond GA 30905-

Status: Unutilized

Comment: 85 sq. ft.; 1 story; needs rehab.; most recent use—storage; off-site use only

Bldg. 12809

Property #: 21199410272

Fort Gordon

Fort Gordon Co: Richmond GA 30905-

Status: Unutilized

Comment: 2788 sq. ft.; 1 story; wood; needs rehab.; most recent use—maintenance shop; off-site use only

Bldg. 10306

Property #: 21199410273

Fort Gordon

Fort Gordon Co: Richmond GA 30905-

Status: Unutilized

Comment: 195 sq. ft.; 1 story; wood; most recent use—oil storage shed; off-site use only

Bldg. 4051, Fort Benning

Property #: 21199520175

Ft. Benning Co: Muscogee GA 31905-

Status: Unutilized

Comment: 967 sq. ft., 1-story, needs rehab, most recent use—storage, off-site use only

Bldg. 2141

Property #: 21199610655

Fort Gordon

Ft. Gordon Co: Richmond GA 30905-

Status: Unutilized

Comment: 2283 sq. ft., needs repair, most recent use—office, off-site use only

Bldg. 322

Property #: 21199720156

Fort Benning

Ft. Benning Co: Muscogee GA 31905-

Status: Unutilized

Comment: 9600 sq. ft., needs rehab, most recent use—admin., off-site use only

Bldg. 1737

Property #: 21199720161

Fort Benning

Ft. Benning Co: Muscogee GA 31905-

Status: Unutilized

Comment: 1500 sq. ft., needs rehab, most recent use—storage, off-site use only

Bldg. 2593

Property #: 21199720167

Fort Benning

Ft. Benning Co: Muscogee GA 31905-

Status: Unutilized

Comment: 13644 sq. ft., needs rehab, most recent use—parachute shop, off-site use only

Bldg. 2595

Property #: 21199720168

Fort Benning

Ft. Benning Co: Muscogee GA 31905-

Status: Unutilized

Comment: 3356 sq. ft., needs rehab, most recent use—chapel, off-site use only

Bldgs. 2865, 2869, 2872

Property #:21199720169

Fort Benning

Ft. Benning Co: Muscogee GA 31905-

Status: Unutilized

Comment: approx. 1100 sq. ft. each, needs rehab, most recent use—shower fac., off-site use only

Bldg. 4476

Property #: 21199720184

Fort Benning

Ft. Benning Co: Muscogee GA 31905-

Status: Unutilized

Comment: 3148 sq. ft., needs rehab, most recent use—vehicle maint. shop, off-site use only.

8 Bldgs.

Property #: 21199720189

Fort Benning

4700-4701, 4704-4707, 4710-4711

Ft. Benning Co: Muscogee GA 31905-

Status: Unutilized

Comment: 6433 sq. ft. each, needs rehab, most recent use—unaccompanied personnel housing, off-site use only.

Bldg. 4714

Property #: 21199720191

Fort Benning

Ft. Benning Co: Muscogee GA 31905-

Status: Unutilized

Comment: 1983 sq. ft., needs rehab, most recent use—battalion headquarters bldg., off-site use only.

Bldg. 4702

Property #: 21199720192

Fort Benning

Ft. Benning Co: Muscogee GA 31905-

Status: Unutilized

Comment: 3690 sq. ft., needs rehab, most recent use—dining facility off-site use only.

Bldgs. 4712-4713

Property #: 21199720193

Fort Benning

Ft. Benning Co: Muscogee GA 31905-

Status: Unutilized

Comment: 1983 sq. ft. and 10270 sq. ft., need rehab, most recent use—company headquarters bldg., off-site use only.

Bldg. 305

Property #: 21199810268

Fort Benning

Ft. Benning Co: Muscogee GA 31905-

Status: Unutilized

Comment: 4083 sq. ft., most recent use—recreation center, off-site use only.

Bldg. 318

Property #: 21199810269

Fort Benning

Ft. Benning Co: Muscogee GA 31905-

Status: Unutilized

Comment: 374 sq. ft., poor condition, most recent use—maint. shop, off-site use only.

Bldg. 1792

Property #: 21199810274

Fort Benning

Ft. Benning Co: Muscogee GA 31905-

Status: Unutilized

Comment: 10,200 sq. ft., most recent use—storage, off-site use only.

Bldg. 1836

Property #: 21199810276

Fort Benning

Ft. Benning Co: Muscogee GA 31905-

Status: Unutilized

Comment: 2998 sq. ft., most recent use—admin., off-site use only.

Bldg. 4373

Property #: 21199810286

Fort Benning

Ft. Benning Co: Muscogee GA 31905-

Status: Unutilized

Comment: 409 sq. ft., poor condition, most recent use—station bldg., off-site use only.

Bldg. 4628

Property #: 21199810287

Fort Benning

Ft. Benning Co: Muscogee GA 31905-

Status: Unutilized

Comment: 5483 sq. ft., most recent use—admin., off-site use only.

Bldg. 92

Property #: 21199830278

Fort Benning

Ft. Benning Co: Muscogee GA 31905-

Status: Unutilized

Comment: 637 sq. ft., needs rehab, most recent use—admin., off-site use only.

Bldg. 2445

Property #: 21199830279

Fort Benning

Fort Benning Co: Muscogee GA 31905-

Status: Unutilized

Comment: 2385 sq. ft., needs rehab, most recent use—fire station, off-site use only.

Bldg. 4232

Property #: 21199830291

Fort Benning

Fort Benning Co: Muscogee GA 31905-

Status: Unutilized

Comment: 3720 sq. ft., needs rehab, most recent use—maint. bay, off-site use only.

Bldg. 39720

Property #: 21199930119

Fort Gordon

Ft. Gordon Co: Richmond GA 30905-

Status: Unutilized

Comment: 1520 sq. ft., concrete block, possible asbestos/lead paint, most recent use—office, off-site use only.

Bldg. 492

Property #: 21199930120

Fort Benning

Ft. Benning Co: Muscogee GA 31905-

Status: Unutilized

Comment: 720 sq. ft., most recent use—admin/maint., off-site use only.

Bldg. 880

Property #: 21199930121

Fort Benning

Ft. Benning Co: Muscogee GA 31905-

Status: Unutilized

Comment: 57,110 sq. ft., most recent use—instruction, off-site use only

Bldg. 1370

Property #: 21199930122

Fort Benning

Ft. Benning Co: Muscogee GA 31905-

Status: Unutilized

Comment: 5204 sq. ft., most recent use—hdqts. bldg., off-site use only

Bldg. 2288

Property #: 21199930123

Fort Benning

Ft. Benning Co: Muscogee GA 31905-

Status: Unutilized

Comment: 2481 sq. ft., most recent use—admin., off-site use only

Bldg. 2290

Property #: 21199930124

Fort Benning

Ft. Benning Co: Muscogee GA 31905-

Status: Unutilized

Comment: 455 sq. ft., most recent use—storage, off-site use only

Bldg. 2293

Property #: 21199930125

Fort Benning

Ft. Benning Co: Muscogee GA 31905-

Status: Unutilized

Comment: 2600 sq. ft., most recent use—hdqts. bldg., off-site use only

Bldg. 2297

Property #: 21199930126

Fort Benning

Ft. Benning Co: Muscogee GA 31905-

Status: Unutilized

Comment: 5156 sq. ft., most recent use—admin., off-site use only

Bldg. 2505

Property #: 21199930127

Fort Benning

Ft. Benning Co: Muscogee GA 31905-

Status: Unutilized

Comment: 10,257 sq. ft., most recent use—repair shop, off-site use only

Bldg. 2508

Property #: 21199930628

Fort Benning

Ft. Benning Co: Muscogee GA 31905-

Status: Unutilized

Comment: 2434 sq. ft., most recent use—storage, off-site use only

Bldg. 2815

Property #: 21199930129

Fort Benning

Ft. Benning Co: Muscogee GA 31905-

Status: Unutilized

Comment: 2578 sq. ft., most recent use—hdqts. bldg., off-site use only

Bldg. 3815

Property #: 21199930130

Fort Benning

Ft. Benning Co: Muscogee GA 31905-

Status: Unutilized

Comment: 7575 sq. ft., most recent use—storage, off-site use only

Bldg. 3816

Property #: 21199930131

Fort Benning

Ft. Benning Co: Muscogee GA 31905-

Status: Unutilized

Comment: 7514 sq. ft., most recent use—storage, off-site use only

Bldg. 4555

Property #: 21199930132

Fort Benning

Ft. Benning Co: Muscogee GA 31905-

Status: Unutilized

Comment: 18,240 sq. ft., most recent use—maint. shop, off-site use only

Bldg. 5886

Property #: 21199930134

Fort Benning

Ft. Benning Co: Muscogee GA 31905-

Status: Unutilized

Comment: 67 sq. ft., most recent use—maint/storage, off-site use only

Bldg. 5974-5978

Property #: 21199930135

Fort Benning

Ft. Benning Co: Muscogee GA 31905-

Status: Unutilized

Comment: 400 sq. ft., most recent use—storage, off-site use only

Bldg. 5993

Property #: 21199930136

Fort Benning

Ft. Benning Co: Muscogee GA 31905-

Status: Unutilized

Comment: 960 sq. ft., most recent use—storage, off-site use only

Bldg. 5994

Property #: 21199930137

Fort Benning

Ft. Benning Co: Muscogee GA 31905-

Status: Unutilized

Comment: 2016 sq. ft., most recent use—storage, off-site use only

Land

Land (Railbed)

Property #: 21199440440

Fort Benning

Ft. Benning Co: Muscogee GA 31905-

Status: Unutilized

Comment: 17.3 acres extending 1.24 miles, no known utilities potential.

Hawaii

Building

P-88

Property #: 21199030324

Aliamanu Military

Reservation

Honolulu Co: Honolulu HI 96818-

Location: Approximately 600 feet from Main Gate on Aliamanu Drive.

Status: Unutilized

Comment: 45,216 sq. ft. underground tunnel complex, pres. of asbestos clean-up required of contamination, use of respirator required by those entering property, use limitations.

Bldg. T-675A

Property #: 21199640202

Schofield Barracks

Wahiawa HI 96786-

Status: Unutilized

Comment: 4365 sq. ft., most recent use—office, off-site use only.

Bldg. T-337

Property #: 21199640203

Fort Shafter

Honolulu Co: Honolulu HI 96819-

Status: Unutilized

Comment: 132 sq. ft., most recent use—storage, off-site use only

Illinois

Building

Bldg. 54

Property #: 21199620666

Rock Island Arsenal

Rock Island Co: Rock Island IL 61299-

Status: Unutilized

Comment: 2000 sq. ft., most recent use—oil storage, needs repair, off-site use only.

Bldgs. HP113, 114

Property #: 21199920186

Sheridan Army Reserve Complex

Sheridan Co: IL 60037-

Status: Unutilized

Comment: 2864 sq. ft. and 3458 sq. ft., most recent use—admin., off-site use only.

Bldgs. HP432-439

Property #: 21199920189

Sheridan Army Reserve Complex

Sheridan Co: IL 60037-

Status: Unutilized

Comment: 4845 sq. ft. each, presence of asbestos, most recent use—admin/storage, off-site use only.

Bldgs. HP459, 460

Property #: 21199920191

Sheridan Army Reserve Complex

Sheridan Co: IL 60037-

Status: Unutilized

Comment: 4848 sq. ft., presence of asbestos, most recent use—storage, off-site use only

Kansas

Building

Bldg. 166, Fort Riley

Property #: 21199410325

Ft. Riley Co: Geary K 66442-

Status: Unutilized

Comment:3803 sq. ft., 3-story brick residence, needs rehab, presence of asbestos, located within National Registered Historic District.

Bldg. 184, Fort Riley

Property #: 21199430146

Ft. Riley KS 66442-

Status: Unutilized

Comment: 1959 sq. ft., 1-story, needs rehab, presence of asbestos, most recent use—boiler plant, historic district.

Bldg. P-390

Property #: 2199740295

Fort Leavenworth

Leavenworth KS 66027-

Status: Unutilized

Comment: 4713 sq. ft., presence of lead based paint, most recent use—swine house, off-site use only.

Bldg. T-323

Property #: 21199810297

Fort Leavenworth

Leavenworth Co: Leavenworth KS 66027-

Status: Unutilized

Comment: 720 sq. ft., most recent use—boy scout bldg., off-site use only.

Bldg. T-688

Property #: 21199810298

Fort Leavenworth

Leavenworth Co: Leavenworth KS 66027-

Status: Unutilized

Comment: 832 sq. ft., possible lead paint, most recent use—girl scout bldg., off-site use only.

Bldg. T-895

Property #: 21199810299

Fort Leavenworth

Leavenworth Co: Leavenworth KS 66027-

Status: Unutilized

Comment: 228 sq. ft., possible lead paint, most recent use—storage, off-site use only.

Bldg. P-68

Property #: 21199820153

Fort Leavenworth

Leavenworth KS 66027-

Status: Unutilized

Comment: 2236 sq. ft., most recent use—vehicle storage, off-site use only.

Bldg. P-69

Property #: 21199820154

Fort Leavenworth

Leavenworth KS 66027-

Status: Unutilized

Comment: 224 sq. ft., most recent use—storage, off-site use only

Bldg. P-93

Property #: 21199820155

Fort Leavenworth

Leavenworth KS 66027-

Status: Unutilized

Comment: 63 sq. ft., concrete, most recent use—storage, off-site use only

Bldg. P-128

Property #: 21199820156

Fort Leavenworth

Leavenworth KS 66027-

Status: Unutilized

Comment: 79 sq. ft., concrete, most recent use—storage, off-site use only

Bldg. P-321

Property #: 21199820157

Fort Leavenworth

Leavenworth KS 66027-

Status: Unutilized

Comment: 600 sq. ft., most recent use—picnic shelter, off-site use only

Bldg. P-347

Property #: 21199820158

Fort Leavenworth

Leavenworth KS 66027-

Status: Unutilized

Comment: 2135 sq. ft., most recent use—bath house, off-site use only

Bldg. P-397

Property #: 21199820159

Fort Leavenworth

Leavenworth KS 66027-

Status: Unutilized

Comment: 80 sq. ft., most recent use—storage, off-site use only

Bldg. S-809

Property #: 21199820160

Fort Leavenworth

Leavenworth KS 66027-

Status: Unutilized

Comment: 39 sq. ft., most recent use—access control, off-site use only

Bldg. S-830

Property #: 21199820161

Fort Leavenworth

Leavenworth KS 66027-

Status: Unutilized

Comment: 5789 sq. ft., most recent use—underground storage, off-site use only

Bldg. S-831

Property #: 21199820162

Fort Leavenworth

Leavenworth KS 66027-

Status: Unutilized

Comment: 5789 sq. ft., most recent use—underground storage, off-site use only

Bldg. T-2360

Property #: 21199830310

Fort Riley

Ft. Riley KS

Status: Unutilized

Comment: 4534 sq. ft., needs major rehab, most recent use—aces. fac.

Bldgs. P-104, P-105, P-106

Property #: 21199830313

Fort Leavenworth

Leavenworth KS 66027-

Status: Unutilized

Comment: 81 sq. ft., most recent use—storage, off-site use only

Bldg. P-108

Property #: 21199830314

Fort Leavenworth

Leavenworth KS 66027-

Status: Unutilized

Comment: 138 sq. ft., most recent use—storage, off-site use only

Bldg. P-147

Property #: 21199830315

Fort Leavenworth

Leavenworth KS 66027-

Status: Unutilized

Comment: 378 sq. ft., most recent use—storage, off-site use only

Bldgs. P-163, P-169

Property #: 21199830316

Fort Leavenworth

Leavenworth KS 66027-

Status: Unutilized

Comment: 87 sq. ft., most recent use—storage, off-site use only

Bldg. P-164

Property #: 21199830317

Fort Leavenworth

Leavenworth KS 66027-

Status: Unutilized

Comment: 145 sq. ft., most recent use—storage, off-site use only

Bldg. P-171

Property #: 21199830318

Fort Leavenworth

Leavenworth KS 66027-

Status: Unutilized

Comment: 144 sq. ft., most recent use—storage, off-site use only

Bldg. P-172

Property #: 21199830319

Fort Leavenworth

Leavenworth KS 66027-

Status: Unutilized

Comment: 87 sq. ft., most recent use—storage, off-site use only

Bldgs. P-173, P-174

Property #: 21199830320

Fort Leavenworth

Leavenworth KS 66027-

Status: Unutilized

Comment: 120 sq. ft., most recent use—storage, off-site use only

Bldg. P-243

Property #: 21199830321

Fort Leavenworth

Leavenworth KS 66027-

Status: Unutilized

Comment: 242 sq. ft., most recent use—industrial, off-site use only

Bldg. P-146

Property #: 21199920198

Fort Leavenworth

Leavenworth Co: KS 66027-

Status: Unutilized

Comment: 196 sq. ft., most recent use—utility, off-site use only

Bldg. P-149

Property #: 21199920199

Fort Leavenworth

Leavenworth Co: KS 66027-

Status: Unutilized

Comment: 76 sq. ft., most recent use—utility, off-site use only

Bldg. P-150

Property #: 21199920200

Fort Leavenworth

Leavenworth Co: KS 66027-

Status: Unutilized

Comment: 96 sq. ft., most recent use—utility, off-site use only

Bldg. P-162

Property #: 21199920201

Fort Leavenworth

Leavenworth Co: KS 66027-

Status: Unutilized

Comment: 81 sq. ft., most recent use—utility, off-site use only

Bldg. P-242

Property #: 21199920202

Fort Leavenworth

Leavenworth Co: KS 66027-

Status: Unutilized

Comment: 4680 sq. ft., most recent use—storage, off-site use only

Bldg. T-71

Property #: 21199930139

Fort Leavenworth

Leavenworth Co: KS 66027-

Status: Unutilized

Comment: 180 sq. ft., most recent use—storage, off-site use only

Bldg. P-75

Property #: 21199930140

Fort Leavenworth

Leavenworth Co: KS 66027-

Status: Unutilized

Comment: 12,129 sq. ft., most recent use—storage, off-site use only

Bldg. P-76

Property #: 21199930141

Fort Leavenworth

Leavenworth Co: KS 66027-

Status: Unutilized

Comment: 180 sq. ft., most recent use—storage, off-site use only

Bldgs. P-26, P-97

Property #: 21199930142

Fort Leavenworth

Leavenworth Co: KS 66027-

Status: Unutilized

Comment: 84 sq. ft., most recent use—utility, off-site use only

Bldgs. P-110, P-114, P-115

Property #: 21199930143

Fort Leavenworth

Leavenworth Co: KS 66027-

Status: Unutilized

Comment: 85-92 sq. ft., most recent use—utility, off-site use only

Bldg. P-118

Property #: 21199930144

Fort Leavenworth

Leavenworth Co: KS 66027-

Status: Unutilized

Comment: 117 sq. ft., most recent use—storage, off-site use only

Bldgs. P-160, P-161, P-165

Property #: 21199930145

Fort Leavenworth

Leavenworth Co: KS 66027-

Status: Unutilized

Comment: 86—88 sq. ft., most recent use—utility, off-site use only

Bldg. P-223

Property #: 21199930146

Fort Leavenworth

Leavenworth Co: KS 66027-

Status: Unutilized

Comment: 7,174 sq. ft., most recent use—storage, off-site use only

Bldg. T-236

Property #: 21199930147

Fort Leavenworth

Leavenworth Co: KS 66027-

Status: Unutilized

Comment: 4563 sq. ft., most recent use—storage, off-site use only

Bldg. P-241

Property #: 21199930148

Fort Leavenworth

Leavenworth CO: KS 66027-

Status: Unutilized

Comment: 5920 sq. ft., most recent use—storage, off-site use only

Bldg. T-257

Property #: 21199930149

Fort Leavenworth

Leavenworth Co: KS 66027-

Status: Unutilized

Comment: 5920 sq. ft., most recent use—storage, off-site use only

Bldg. P-309

Property #: 21199930150

Fort Leavenworth

Leavenworth Co: KS 66027-

Status: Unutilized

Comment: 71 sq. ft., most recent use—storage, off-site use only

Bldg. T347

Property #: 21199940012

Fort Riley

Ft. Riley Co: Manhattan KS 66442-

Status: Unutilized

Comment: 2888 sq. ft., most recent use—storage, off-site use only

Louisiana

Building

Bldg. 8405, Fort Polk

Property #: 21199640524

Ft. Polk Co: Vernon Parish LA 71459-

Status: Underutilized

Comment: 1029 sq. ft., most recent use—office

Bldg. 8407, Fort Polk

Property #: 21199640525

Ft. Polk Co: Vernon Parish LA 71459-

Status: Underutilized

Comment: 2055 sq. ft., most recent use—admin.

Bldg. 8408, Fort Polk

Property #: 21199640526

Ft. Polk Co: Vernon Parish LA 71459-

Status: Underutilized

Comment: 2055 sq. ft., most recent use—admin.

Bldg. 8414, Fort Polk

Property #: 21199640527

Ft. Polk Co: Vernon Parish LA 71459-

Status: Underutilized

Comment: 4172 sq. ft., most recent use—barracks

Bldg. 8423, Fort Polk

Property #: 21199640528

Ft. Polk Co: Vernon Parish LA 71459-

Status: Underutilized

Comment: 4172 sq. ft., most recent use—barracks

Bldg. 8424, Fort Polk

Property #: 21199640529

Ft. Polk Co: Vernon Parish LA 71459-

Status: Underutilized

Comment: 4172 sq. ft., most recent use—barracks

Bldg. 8426, Fort Polk

Property #: 21199640530

Ft. Polk Co: Vernon Parish LA 71459-

Status: Underutilized

Comment: 4172 sq. ft., most recent use—barracks

Bldg. 8427, Fort Polk

Property #: 21199640531

Ft. Polk Co: Vernon Parish LA 71459-

Status: Underutilized

Comment: 4172 sq. ft., most recent use—barracks

Bldg. 8428, Fort Polk

Property #: 21199640532

Ft. Polk Co: Vernon Parish LA 71459-

Status: Underutilized

Comment: 4172 sq. ft., most recent use—barracks

Bldg. 8429, Fort Polk

Property #: 21199640533

Ft. Polk Co: Vernon Parish LA 71459-

Status: Underutilized

Comment: 4172 sq. ft., most recent use—barracks

Bldg. 8430, Fort Polk

Property #: 21199640534

Ft. Polk Co: Vernon Parish LA 71459-

Status: Underutilized

Comment: 4172 sq. ft., most recent use—barracks

Bldg. 8431, Fort Polk

Property #: 21199640535

Ft. Polk Co: Vernon Parish LA 71459-

Status: Underutilized

Comment: 4172 sq. ft., most recent use—barracks

Bldg. 8432, Fort Polk

Property #: 21199640536

Ft. Polk Co: Vernon Parish LA 71459-

Status: Underutilized

Comment: 4172 sq. ft., most recent use—barracks

Bldg. 8433, Fort Polk

Property #: 21199640537

Ft. Polk Co: Vernon Parish LA 71459-

Status: Underutilized

Comment: 4172 sq. ft., most recent use—barracks

Bldg. 8446, Fort Polk

Property #: 21199640538

Ft. Polk Co: Vernon Parish LA 71459-

Status: Underutilized

Comment: 2093 sq. ft., most recent use—admin.

Bldg. 8449, Fort Polk

Property #: 21199640539

Ft. Polk Co: Vernon Parish LA 71459-

Status: Underutilized

Comment: 2093 sq. ft., most recent use—office

Bldg. 8450, Fort Polk

Property #: 21199640540

Ft. Polk Co: Vernon Parish LA 71459-

Status: Underutilized

Comment: 2093 sq. ft., most recent use—admin.

Bldg. 8458, Fort Polk

Property #: 21199640542

Ft. Polk Co: Vernon Parish LA 71459-

Status: Underutilized

Comment: 4172 sq. ft., most recent use—barracks

Bldg. 8459, Fort Polk

Property #: 21199640543

Ft. Polk Co: Vernon Parish LA 71459-

Status: Underutilized

Comment: 4172 sq. ft., most recent use—barracks

Bldg. 8460, Fort Polk

Property #: 21199640544

Ft. Polk Co: Vernon Parish LA 71459-

Status: Underutilized

Comment: 4172 sq. ft., most recent use—barracks

Bldg. 8461, Fort Polk

Property #: 21199640545

Ft. Polk Co: Vernon Parish LA 71459-

Status: Underutilized

Comment: 4172 sq. ft., most recent use—barracks

Bldg. 8462, Fort Polk

Property #: 21199640546

Ft. Polk Co: Vernon Parish LA 71459-

Status: Underutilized

Comment: 4172 sq. ft., most recent use—barracks

Bldg. 8463, Fort Polk

Property #: 21199640547

Ft. Polk Co: Vernon Parish LA 71459-

Status: Underutilized

Comment: 4172 sq. ft., most recent use—barracks

Bldg. 8501, Fort Polk

Property #: 21199640548

Ft. Polk Co: Vernon Parish LA 71459-

Status: Underutilized

Comment: 1687 sq. ft., most recent use—office

Bldg. 8502, Fort Polk

Property #: 21199640549

Ft. Polk Co: Vernon Parish LA 71459-

Status: Underutilized

Comment: 1029 sq. ft., most recent use—office

Bldg. 8541, Fort Polk

Property #: 21199640551

Ft. Polk Co: Vernon Parish LA 71459-

Status: Underutilized

Comment: 4172 sq. ft., most recent use—barracks

Bldg. 8542, Fort Polk

Property #: 21199640552

Ft. Polk Co: Vernon Parish LA 71459-

Status: Underutilized

Comment: 4172 sq. ft., most recent use—barracks

Bldg. 8543, Fort Polk

Property #: 21199640553

Ft. Polk Co: Vernon Parish LA 71459-

Status: Underutilized

Comment: 4172 sq. ft., most recent use—barracks.

Bldg. 8544, Fort Polk

Property #: 21199640554

Ft. Polk Co: Vernon Parish LA 71459-

Status: Underutilized

Comment: 4172 sq. ft., most recent use—barracks.

Bldg. 8545, Fort Polk

Property #: 21199640555

Ft. Polk Co: Vernon Parish LA 71459-

Status: Underutilized

Comment: 4172 sq. ft., most recent use—barracks.

Bldg. 8546, Fort Polk

Property #: 21199640556

Ft. Polk Co: Vernon Parish LA 71459-

Status: Underutilized

Comment: 4172 sq. ft., most recent use—barracks.

Bldg. 8547, Fort Polk

Property #: 21199640557

Ft. Polk Co: Vernon Parish LA 71459-

Status: Underutilized

Comment: 4172 sq. ft., most recent use—barracks.

Bldg. 8548, Fort Polk

Property #: 21199640558

Ft. Polk Co: Vernon Parish LA 71459-

Status: Underutilized

Comment: 4172 sq. ft., most recent use—barracks.

Bldg. 8549, Fort Polk

Property #: 21199640559

Ft. Polk Co: Vernon Parish LA 71459-

Status: Underutilized

Comment: 4172 sq. ft., most recent use—barracks.

Bldg. 4960 A-F

Property #: 21199940013

Fort Polk

Ft. Polk Co: Vernon Parish LA 71459-

Status: Underutilized

Comment: 4412 sq. ft., most recent use—housing, off-site use only.

Bldg. 5143 A-D

Property #: 21199940014

Fort Polk

Ft. Polk Co: Vernon Parish LA 71459-

Status: Underutilized

Comment: 4109 sq. ft., most recent use—housing, off-site use only.

Bldg. 5179 A-F

Property #: 21199940015

Fort Polk

Ft. Polk Co: Vernon Parish LA 71459—

Status: Underutilized

Comment: 8969 sq. ft., most recent use—housing, off-site only.

Bldg. 5253 A-D

Property #: 21199940016

Fort Polk

Ft. Polk Co: Vernon Parish LA 71459—

Status: Underutilized

Comment: 4109 sq. ft., most recent use—housing, off-site use only.

Bldg. 5846 A-E

Property #: 21199940017

Fort Polk

Ft. Polk Co: Vernon Parish LA 71459-

Status: Underutilized

Comment: 3919 sq. ft., most recent use—housing, off-site use only.

Bldg. 5903 A-F

Property #: 21199940018

Fort Polk

Ft. Polk Co: Vernon Parish LA 71459-

Status: Underutilized

Comment: 5719 sq. ft., most recent use—housing, off-site use only.

Bldg. 5909 A-B

Property #: 21199940019

Fort Polk

Ft. Polk Co: Vernon Parish LA 71459-

Status: Underutilized

Comment: 2025 sq. ft., most recent use—housing, off-site use only.

Bldg. 6169 A-D

Property #: 21199940020

Fort Polk

Ft. Polk Co: Vernon Parish LA 71459-

Status: Underutilized

Comment: 2850 sq. ft., most recent use—housing, off-site use only.

Bldg. 6475 A-B

Property #: 21199940021

Fort Polk

Ft. Polk Co: Vernon Parish LA 71459-

Status: Underutilized

Comment: 5100 sq. ft., most recent use—housing, off-site use only.

Bldg. 6477 A-D

Property #: 21199940022

Fort Polk

Ft. Polk Co: Vernon Parish LA 71459-

Status: Unutilized

Comment: 5972 sq. ft., most recent use—housing, off-site use only.

Bldg. 6704 A-D

Property #: 21199940023

Fort Polk

Ft. Polk Co: Vernon Parish LA 71459-

Status: Unutilized

Comment: 5972 sq. ft., most recent use—housing, off-site use only.

Bldg. 6810 A-D

Property #: 21199940024

Fort Polk

Ft. Polk Co: Vernon Parish LA 71459-

Status: Unutilized

Comment: 6193 sq. ft., most recent use—housing, off-site use only.

Maryland

Building

Bldg. 370

Property #: 21199730256

Fort Meade

Ft. Meade Co: Anne Arundel MD 20755-5115

Status: Unutilized

Comment: 19,583 sq. ft., most recent use—NCO club, possible abestos/lead paint.

Bldg. 2446

Property #: 21199740305

Fort George G. Meade

Ft. Meade Co: Anne Arundel MD 20755-5115

Status: Unutilized

Comment: 4720 sq. ft., presence of asbestos/lead paint, most recent use—admin., off-site use only.

Bldg. 2472

Property #: 21199740306

Fort George G. Meade

Ft. Meade Co: Anne Arundel MD 20755-5115

Status: Unutilized

Comment: 7670 sq. ft., presence of asbestos/lead paint, most recent use—admin., off-site use only.

Bldg. 4700

Property #: 21199740309

Fort George G. Meade

Ft. Meade Co: Anne Arundel MD 20755-5115

Status: Unutilized

Comment: 36,619 sq. ft., presence of asbestos/lead paint, most recent use—admin., off-site use only.

Bldg. 6294

Property #: 21199810302

Fort Meade

Ft. Meade Co: Anne Arundel MD 20755-5115

Status: Unutilized

Comment: 4720 sq. ft., needs rehab, presence of asbestos/lead paint, most recent use—custodial, off-site use only.

Bldg. 3176

Property #: 21199810303

Fort Meade

Ft. Meade Co: Anne Arundel MD 20755-5115

Status: Unutilized

Comment: 7670 sq. ft., needs rehab, presence of asbestos/lead paint, most recent use—admin., off-site use only.

Bldg. E5813

Property #: 21199830326

Aberdeen Proving Ground

Co: Harford MD 21005-5001

Status: Unutilized

Comment: 69 sq. ft., presence of asbestos/lead paint, most recent use—storage.

Bldg. 00307

Property #: 21199930152

Aberdeen Proving Ground

Aberdeen Co: Harford MD 21005-

Status: Unutilized

Comment: 4071 sq. ft., most recent use—admin., off-site use only.

Bldg. 00646

Property #: 21199930153

Aberdeen Proving Gound

Aberdeen Co: Harford MD 21005-

Status: Unutilized

Comment: 880 sq. ft., presence of asbestos/lead paint, most recent use—storage, off-site use only.

Bldg. 01110

Property #: 21199930154

Aberdeen Proving Gound

Aberdeen Co: Harford MD 21005-

Status: Unutilized

Comment: 396 sq. ft., most recent use—magazine, off-site use only.

Bldg. 01195

Property #: 21199930115

Aberdeen Proving Gound

Aberdeen Co: Harford MD 21005-

Status: Unutilized

Comment: 120 sq. ft., most recent use—storage, off-site use only.

Bldg. E3264

Property #: 21199930156

Aberdeen Proving Gound

Aberdeen Co: Harford MD 21005-

Status: Unutilized

Comment: 64 sq. ft., most recent use—access control facility, off-site use only.

Bldg. E3333

Property #: 21199930157

Aberdeen Proving Gound

Aberdeen Co: Harford MD 21005-

Status: Unutilized

Comment: 64 sq. ft., most recent use—access control facility, off-site use only.

Bldgs. 2454-2457

Property #: 21199940025

Fort George G. Meade

Ft. Meade Co: Anne Arundel MD 20755-5115

Status: Unutilized

Comment: 4720 sq. ft., needs rehab, presence of asbestos, most recent use—admin./health clinics, off-site use only.

Bldg. 2478

Property #: 21199940026

Fort George G. Meade

Ft. Meade Co: Anne Arundel MD 20755-5115

Status: Unutilized

Comment: 2534 sq. ft., needs rehab, presence of asbestos, most recent use—health clinic, off-site use only.

Bldg. 2845

Property #: 21199940027

Fort George G. Meade

Ft. Meade Co: Anne Arundel MD 20755-5115

Status: Unutilized

Comment: 6104 sq. ft., needs rehab, presence of asbestos/lead paint, most recent use—admin., off-site use only.

Land

13 acres

Property #: 21199930151

West side of Rt 175

Fort George G. Meade

Ft. Meade Co: Anne Arundel MD 20755-5111

Status: Underutilized

Comment: small paved area, remainder wooded.

Missouri

Building

Bldg. T599

Property #: 21199230260

Fort Leonard Wood

Ft. Leonard Wood Co: Pulaski MO 65473-5000

Status: Underutilized

Comment: 18270 sq. ft., 1-story, presence of asbestos, most recent use—storehouse, off-site use only.

Bldg. T2171

Property #: 21199340212

Fort Leonard Wood

Ft. Leonard Wood Co: Pulaski MO 65473-5000

Status: Unutilized

Comment: 1296 sq. ft., 1-story wood frame, most recent use—administrative, no handicap fixtures, lead base paint, off-site use only.

Bldg. T6822

Property #: 21199340219

Fort Leonard Wood

Ft. Leonard Wood Co: Pulaski MO 65473-5000

Status: Underutilized

Comment: 4000 sq. ft., 1-story wood frame, most recent use—storage, no handicap fixtures, off-site use only.

Bldg. T1497

Property #: 21199420441

Fort Leonard Wood

Ft. Leonard Wood Co: Pulaski MO 65473-5000

Status: Underutilized

Comment: 4720 sq. ft., 2-story, presence of lead base paint, most recent use—admin/gen. purpose, off-site use only.

Bldg. T2139

Property #: 21199420446

Fort Leonard Wood

Ft. Leonard Wood Co: Pulaski MO 65473-5000

Status: Underutilized

Comment: 3663 sq. ft., 1-story, presence of lead base paint, most recent use—admin/gen. purpose, off-site use only.

Bldg. T2191

Property #: 21199440334

Fort Leonard Wood

Ft. Leonard Wood Co: Pulaski MO 65473-5000

Status: Excess

Comment: 4720 sq. ft., 2-story wood frame, off-site removal only, to be vacated 8/95, lead based paint, most recent use—barracks.

Bldg. T2197

Property #: 21199440335

Fort Leonard Wood

Ft. Leonard Wood Co: Pulaski MO 65473-5000

Status: Excess

Comment: 4720 sq. ft., 2 story wood frame, off-site removal only, to be vacated 8/95, lead based paint, most recent use—barracks.

Bldg. T590

Property #: 21199510110

Fort Leonard Wood

Ft. Leonard Wood Co: Pulaski MO 65473-

Status: Excess

Comment: 3263 sq. ft., 1-story, wood frame, most recent use—admin., to be vacated 8/95, off-site use only.

Bldg. T2385

Property #: 21199510115

Fort Leonard Wood

Ft. Leonard Wood Co: Pulaski MO 65473-

Status: Excess

Comment: 3158 sq. ft., 1-story, wood frame, most recent use—admin., to be vacated 8/95, off-site use only.

Bldgs. T2340 thru T2343

Property #: 21199710138

Fort Leonard Wood

Ft. Leonard Wood Co: Pulaski MO 65473-5000

Status: Underutilized

Comment: 9267 sq. ft. each, most recent use—storage/general purpose.

Bldg. 1226

Property #: 21199730275

Fort Leonard Wood

Ft. Leonard Wood Co: Pulaski MO 65473-5000

Status: Unutilized

Comment: 1600 sq. ft., presence of asbestos/lead paint, most recent use—admin., off-site use only.

Bldg. 1271

Property #: 21199730276

Fort Leonard Wood

Ft. Leonard Wood Co: Pulaski MO 65473-5000

Status: Unutilized

Comment: 2360 sq. ft., presence of asbestos/lead paint, most recent use—storage, off-site use only.

Bldg. 1280

Property #: 21199730277

Fort Leonard Wood

Ft. Leonard Wood Co: Pulaski MO 65473-5000

Status: Unutilized

Comment: 1144 sq. ft., presence of asbestos/lead paint, most recent use—classroom, off-site use only.

Bldg. 1281

Property #: 21199730278

Fort Leonard Wood

Ft. Leonard Wood Co: Pulaski MO 65473-5000

Status: Unutilized

Comment: 2360 sq. ft., presence of asbestos/lead paint, most recent use—classroom, off-site use only.

Bldg. 1282

Property #: 21199730279

Fort Leonard Wood

Ft. Leonard Wood Co: Pulaski MO 65473-5000

Status: Unutilized

Comment: 4720 sq. ft., presence of asbestos/lead paint, most recent use—barracks, off-site use only.

Bldg. 1283

Property #: 21199730280

Fort Leonard Wood

Ft. Leonard Wood Co: Pulaski MO 65473-5000

Status: Unutilized

Comment: 1296 sq. ft., presence of asbestos/lead paint, most recent use—storage, off-site use only.

Bldg. 1284

Property #: 21199730281

Fort Leonard Wood

Ft. Leonard Wood Co: Pulaski MO 65473-5000

Status: Unutilized

Comment: 4720 sq. ft., presence of asbestos/lead paint, most recent use—admin., off-site use only.

Bldg. 1285

Property #: 21199730282

Fort Leonard Wood

Ft. Leonard Wood Co: Pulaski MO 65473-5000

Status: Unutilized

Comment: 4720 sq. ft., presence of asbestos/lead paint, most recent use—barracks, off-site use only.

Bldg. 1286

Property #: 21199730283

Fort Leonard Wood

Ft. Leonard Wood Co: Pulaski MO 65473-5000

Status: Unutilized

Comment: 1296 sq. ft., presence of asbestos/lead paint, most recent use—admin., off-site use only.

Bldg. 1287

Property #: 21199730284

Fort Leonard Wood

Ft. Leonard Wood Co: Pulaski MO 65473-5000

Status: Unutilized

Comment: 4720 sq. ft., presence of asbestos/lead paint, most recent use—barracks, off-site use only.

Bldg. 1288

Property #: 21199730285

Fort Leonard Wood

Ft. Leonard Wood Co: Pulaski MO 65473-5000

Status: Unutilized

Comment: 2360 sq. ft., presence of asbestos/lead paint, most recent use—dining facility, off-site use only.

Bldg. 1289

Property #: 21199730286

Fort Leonard Wood

Ft. Leonard Wood Co: Pulaski MO 65473-5000

Status: Unutilized

Comment: 1144 sq. ft., presence of asbestos/lead paint, most recent use—classroom, off-site use only.

Bldg. 430

Property #: 21199810305

Fort Leonard Wood

Ft. Leonard Wood Co: Pulaski MO 65473-5000

Status: Unutilized

Comment: 4100 sq. ft., presence of asbestos/lead paint, most recent use—Red Cross facility, off-site use only.

Bldg. 758

Property #: 21199810306

Fort Leonard Wood

Ft. Leonard Wood Co: Pulaski MO 65473-5000

Status: Unutilized

Comment: 2400 sq. ft., presence of asbestos/lead paint, most recent use—classroom, off-site use only.

Bldg. 759

Property #: 21199810307

Fort Leonard Wood

Ft. Leonard Wood Co: Pulaski MO 65473-5000

Status: Unutilized

Comment: 2400 sq. ft., presence of asbestos/lead paint, most recent use—classroom, off-site use only.

Bldg. 760

Property #: 21199810308

Fort Leonard Wood

Ft. Leonard Wood Co: Pulaski MO 65473-5000

Status: Unutilized

Comment: 2400 sq. ft., presence of asbestos/lead paint, off-site use only.

Bldgs. 761-766

Property #: 21199810309

Fort Leonard Wood

Ft. Leonard Wood Co: Pulaski MO 65473-5000

Status: Unutilized

Comment: 2400 sq. ft. each, presence of asbestos/lead paint, most recent use—classroom, off-site use only.

Bldg. 1650

Property #: 21199810311

Fort Leonard Wood

Ft. Leonard Wood Co: Pulaski MO 65473-5000

Status: Unutilized

Comment: 1676 sq. ft., presence of asbestos/lead paint, most recent use—union hall, off-site use only.

Bldg. 2111

Property #: 21199810312

Fort Leonard Wood

Ft. Leonard Wood Co: Pulaski MO 65473-5000

Status: Unutilized

Comment: 1600 sq. ft., presence of asbestos/lead paint, most recent use—union hall, off-site use only.

Bldg. 2170

Property #: 21199810313

Fort Leonard Wood

Ft. Leonard Wood Co: Pulaski MO 65473-5000

Status: Unutilized

Comment: 1296 sq. ft., presence of asbestos/lead paint, most recent use—admin., off-site use only.

Bldg. 2204

Property #: 21199810315

Fort Leonard Wood

Ft. Leonard Wood Co: Pulaski MO 65473-5000

Status: Unutilized

Comment: 3525 sq. ft., presence of asbestos/lead paint, most recent use—admin., off-site use only.

Bldg. 2225

Property #: 21199810316

Fort Leonard Wood

Ft. Leonard Wood Co: Pulaski MO 65473-5000

Status: Unutilized

Comment: 820 sq. ft., presence of lead paint, most recent use—storage, off-site use only.

Bldg. 2271

Property #: 21199810317

Fort Leonard Wood

Ft. Leonard Wood Co: Pulaski MO 65473-5000

Status: Unutilized

Comment: 256 sq. ft., presence of lead paint, most recent use—storage, off-site use only.

Bldg. 2275

Property #: 21199810318

Fort Leonard Wood

Ft. Leonard Wood Co: Pulaski MO 65473-5000

Status: Unutilized

Comment: 225 sq. ft., presence of lead paint, most recent use—storage, off-site use only.

Bldg. 2291

Property #: 21199810319

Fort Leonard Wood

Ft. Leonard Wood Co: Pulaski MO 65473-5000

Status: Unutilized

Comment: 510 sq. ft., presence of lead paint, most recent use—storage, off-site use only.

Bldg. 2318

Property #: 21199810322

Fort Leonard Wood

Ft. Leonard Wood Co: Pulaski MO 65473-5000

Status: Unutilized

Comment: 9267 sq. ft., presence of asbestos/lead paint, most recent use—storage, off-site use only.

Bldg. 2579

Property #: 21199810325

Fort Leonard Wood

Ft. Leonard Wood Co: Pulaski MO 65473-5000

Status: Unutilized

Comment: 176 sq. ft., presence of asbestos/lead paint, most recent use—storage, off-site use only.

Bldg. 2580

Property #: 21199810326

Fort Leonard Wood

Ft. Leonard Wood Co: Pulaski MO 65473-5000

Status: Unutilized

Comment: 200 sq. ft., presence of asbestos/lead paint, most recent use—generator plant, off-site use only.

Bldg. 4199

Property #: 21199810327

Fort Leonard Wood

Ft. Leonard Wood Co: Pulaski MO 65473-5000

Status: Unutilized

Comment: 2400 sq. ft., presence of asbestos/lead paint, most recent use—storage, off-site use only.

Bldg. 386

Property #: 21199820163

Fort Leonard Wood

Ft. Leonard Wood Co: Pulaski MO 65473-5000

Status: Unutilized

Comment: 4902 sq. ft., presence of asbestos/lead paint, most recent use—fire station, off-site use only.

Bldg. 401

Property #: 21199820164

Fort Leonard Wood

Ft. Leonard Wood Co: Pulaski MO 65473-5000

Status: Unutilized

Comment: 9567 sq. ft., presence of asbestos/lead paint, most recent use—admin., off-site use only.

Bldg. 856

Property #: 21199820166

Fort Leonard Wood

Ft. Leonard Wood Co: Pulaski MO 65473-5000

Status: Unutilized

Comment: 2400 sq. ft., presence of asbestos/lead paint, most recent use—storage, off-site use only

Bldg. 859

Property #: 21199820167

Fort Leonard Wood

Ft. Leonard Wood Co: Pulaski MO 65473-5000

Status: Unutilized

Comment: 2400 sq. ft., presence of asbestos/lead paint, most recent use—storage, off-site use only.

Bldg. 1242

Property #: 21199820168

Fort Leonard Wood

Ft. Leonard Wood Co: Pulaski MO 65473-5000

Status: Unutilized

Comment: 2360 sq. ft., presence of asbestos/lead paint, most recent use—storage, off-site use only.

Bldg. 1265

Property #: 21199820169

Fort Leonard Wood

Ft. Leonard Wood Co: Pulaski MO 65473-5000

Status: Unutilized

Comment: 2360 sq. ft., presence of asbestos/lead paint, most recent use—storage, off-site use only.

Bldg. 1267

Property #: 21199820170

Fort Leonard Wood

Ft. Leonard Wood Co: Pulaski MO 65473-5000

Status: Unutilized

Comment: 1144 sq. ft., presence of asbestos/lead paint, most recent use—admin., off-site use only.

Bldg. 1272

Property #: 21199820171

Fort Leonard Wood

Ft. Leonard Wood Co: Pulaski MO 65473-5000

Status: Unutilized

Comment: 1144 sq. ft., presence of asbestos/lead paint, most recent use—admin., off-site use only.

Bldg. 1277

Property #: 21199820172

Fort Leonard Wood

Ft. Leonard Wood Co: Pulaski MO 65473-5000

Status: Unutilized

Comment: 1144 sq. ft., presence of asbestos/lead paint, most recent use—admin., off-site use only.

Bldgs. 2142, 2145, 2151-2153

Property #: 21199820174

Fort Leonard Wood

Ft. Leonard Wood Co: Pulaski MO 65473-5000

Status: Unutilized

Comment: 4720 sq. ft., presence of asbestos/lead paint, most recent use—barracks, off-site use only.

Bldg. 2150

Property #: 21199820175

Fort Leonard Wood

Ft. Leonard Wood Co: Pulaski MO 65473-5000

Status: Unutilized

Comment: 2892 sq. ft., presence of asbestos/lead paint, most recent use—dayroom, off-site use only.

Bldg. 2155

Property #: 21199820176

Fort Leonard Wood

Ft. Leonard Wood Co: Pulaski MO 65473-5000

Status: Unutilized

Comment: 1296 sq. ft., presence of asbestos/lead paint, most recent use—admin., off-site use only.

Bldgs. 2156, 2157, 2163, 2164

Property #: 21199820177

Fort Leonard Wood

Ft. Leonard Wood Co: Pulaski MO 65473-5000

Status: Unutilized

Comment: 4720 sq. ft., presence of asbestos/lead paint, most recent use—barracks, off-site use only.

Bldg. 2165

Property #: 21199820178

Fort Leonard Wood

Ft. Leonard Wood Co: Pulaski MO 65473-5000

Status: Unutilized

Comment: 2892 sq. ft., presence of asbestos/lead paint, most recent use—dayroom, off-site use only.

Bldg. 2167

Property #: 21199820179

Fort Leonard Wood

Ft. Leonard Wood Co: Pulaski MO 65473-5000

Status: Unutilized

Comment: 1296 sq. ft., presence of asbestos/lead paint, most recent use—admin., off-site use only.

Bldgs. 2169, 2181, 2182, 2183

Property #: 21199820180

Fort Leonard Wood

Ft. Leonard Wood Co: Pulaski MO 65473-5000

Status: Unutilized

Comment: 4720 sq. ft., presence of asbestos/lead paint, most recent use—barracks, off-site use only.

Bldg. 2186

Property #: 21199820181

Fort Leonard Wood

Ft. Leonard Wood Co: Pulaski MO 65473-5000

Status: Unutilized

Comment: 1296 sq. ft., presence of asbestos/lead paint, most recent use—admin., off-site use only.

Bldg. 2187

Property #: 21199820182

Fort Leonard Wood

Ft. Leonard Wood Co: Pulaski MO 65473-5000

Status: Unutilized

Comment: 2892 sq. ft., presence of asbestos/lead paint, most recent use—dayroom, off-site use only.

Bldgs. 2192, 2196, 2198

Property #: 21199820183

Fort Leonard Wood

Ft. Leonard Wood Co: Pulaski MO 65473-5000

Status: Unutilized

Comment: 4720 sq. ft., presence of asbestos/lead paint, most recent use—barracks, off-site use only.

Bldgs. 2304, 2306

Property #: 21199820184

Fort Leonard Wood

Ft. Leonard Wood Co: Pulaski MO 65473-5000

Status: Unutilized

Comment: 1625 sq. ft., presence of asbestos/lead paint, most recent use—storage, off-site use only.

Bldg. 12651

Property #: 21199820186

Fort Leonard Wood

Ft. Leonard Wood Co: Pulaski MO 65473-5000

Status: Unutilized

Comment: 240 sq. ft., presence of lead paint, off-site use only.

Bldg. 1448

Property #: 21199830327

Fort Leonard Wood

Co: Pulaski MO 65473-5000

Status: Unutilized

Comment: 8450 sq. ft., presence of asbestos/lead paint, most recent use—training, off-site use only.

Bldg. 2210

Property #: 21199830328

Fort Leonard Wood

Co: Pulaski MO 65473-5000

Status: Unutilized

Comment: 808 sq. ft., concrete, presence of asbestos/lead paint, most recent use—storage, off-site use only.

Bldg. 2270

Property #: 21199830329

Fort Leonard Wood

Co: Pulaski MO 65473-5000

Status: Unutilized

Comment: 256 sq. ft., concrete, presence of asbestos/lead paint, most recent use—storage, off-site use only.

Bldg. 6036

Property #: 21199910101

Fort Leonard Wood

Pulaski Co: MO 65473-8994

Status: Underutilized

Comment: 240 sq. ft., off-site use only.

Bldg. 9110

Property #: 21199910108

Fort Leonard Wood

Pulaski Co: MO 65473-8994

Status: Underutilized

Comment: 6498 sq. ft., presence of asbestos/lead paint, most recent use—family quarters, off-site use only.

Bldgs. 9113, 9115, 9117

Property #: 21199910109

Fort Leonard Wood

Pulaski Co: MO 65473-8994

Status: Underutilized

Comment: 4332 sq. ft., presence of asbestos/lead paint, most recent use—family quarters, off-site use only.

Bldg. 493

Property #: 21199930158

Fort Leonard Wood

Ft. Leonard Wood Co: Pulaski MO 65473-

Status: Unutilized

Comment: 26936 sq. ft., concrete, presence of asbestos/lead paint, most recent use—store, off-site use only.

Nevada

Land

Parcel A

Property #: 21199012049

Hawthorne Army Ammunition

Plant

Hawthorne Co: Mineral NV 89415-

Location: At foot of Eastern slope of Mount Grant in Wassuk Range & S.W. edge of Walker Lane

Status: Unutilized

Comment: 160 acres, road and utility easements, no utility hookup, possible flooding problem.

Parcel B

Property #: 21199012056

Hawthorne Army Ammunition

Plant

Hawthorne Co: Mineral NV 89415-

Location: At foot of Eastern slope of Mount Grant in Wassuk Range & S.W. edge of Walker Lane

Status: Unutilized

Comment: 1920 acres; road and utility easements; no utility hookup; possible flooding problem.

Parcel C

Property #: 21199012057

Hawthorne Army Ammunition

Plant

Hawthorne Co: Mineral NV 89415-

Location: South-southwest of Hawthorne along HWAAP's South Magazine Area at Western edge of State Route 359

Status: Unutilized

Comment: 85 acres; road & utility easements; no utility hookup.

Parcel D

Property #: 21199012058

Hawthorne Army Ammunition

Plant

Hawthorne Co: Mineral NV 89415-

Location: South-southwest of Hawthorne along HWAAP'S South Magazine Area at western edge of State Route 359.

Status: Unutilized

Comment: 955 acres; road & utility easements; no utility hookup.

New Jersey

Building

Bldg. 22

Property #: 21199740311

Armament R&D Engineering

Center

Picatinny Arsenal Co: Morris NJ 07806-5000

Status: Unutilized

Comment: 4220 sq. ft., needs rehab, most recent use—machine shop, off-site use only.

Bldg. 178

Property #: 21199740312

Armament R&D Engineering

Center

Picatinny Arsenal Co: Morris NJ 07806-5000

Status: Unutilized

Comment: 2067 sq. ft., most recent use—research, off-site use only.

Bldg. 642

Property #: 21199740314

Armament R&D Engineering

Center

Picatinny Arsenal Co: Morris NJ 07806-5000

Status: Unutilized

Comment: 280 sq. ft., most recent use—explosives testing, off-site use only.

Bldg. 732

Property #: 21199740315

Armament R&D Engineering

Center

Picatinny Arsenal Co: Morris NJ 07806-5000

Status: Unutilized

Comment: 9077 sq. ft., needs rehab, most recent use—storage, off-site use only.

Bldg. 1604

Property #: 21199740321

Armament R&D Engineering

Center

Picatinny Arsenal Co: Morris NJ 07806-5000

Status: Unutilized

Comment: 8519 sq. ft., most recent use—loading facility, off-site use only.

Bldg. 3117

Property #: 21199740322

Armament R&D Engineering

Center

Picatinny Arsenal Co: Morris NJ 07806-5000

Status: Unutilized

Comment: 100 sq. ft., most recent use—sentry station, off-site use only.

Bldg. 3201

Property #: 21199740324

Armament R&D Engineering

Center

Picatinny Arsenal Co: Morris NJ 07806-5000

Status: Unutilized

Comment: 1360 sq. ft., most recent use—water treatment plant, off-site use only.

Bldg. 3202

Property #: 21199740325

Armament R&D Engineering

Center

Picatinny Arsenal Co: Morris NJ 07806-5000

Status: Unutilized

Comment: 96 sq. ft., most recent use—snack bar, off-site use only.

Bldg. 3219

Property #: 21199740326

Armament R&D Engineering

Center

Picatinny Arsenal Co: Morris NJ 07806-5000

Status: Unutilized

Comment: 288 sq. ft., most recent use—snack bar, off-site use only.

New Mexico

Building

68 Housing Units

Property #: 21199940028

White Sands Missile Range

White Sands Co: Dona Ana NM 88002-

Status: Unutilized

Comment: 1269 sq. ft. ea., needs major repair, presence of asbestos, most recent use—housing, off-site use only.

Facility 11230

Property #: 21199940029

White Sands Missile Range

White Sands Co: Dona Ana NM 88002-

Status: Unutilized

Comment: 1620 sq. ft., needs major repair, presence of asbestos, most recent use—housing unit, off-site use only.

3 Facilities

Property #: 21199940030

White Sands Missile Range

#00651, 00637, 00716

White Sands Co: Dona Ana NM 88002-

Status: Unutilized

Comment: 1509 sq. ft. ea., needs major repair, presence of asbestos, most recent use—housing units, off-site use only.

17 Garages

Property #: 21199940031

White Sands Missile Range

White Sands Co: Dona Ana NM 88002-

Status: Unutilized

Comment: 598 sq. ft., needs major repair, presence of asbestos, most recent use—garages, off-site use only.

37 Garages

Property #: 21199940032

White Sands Missile Range

White Sands Co: Dona Ana NM 88002-

Status: Unutilized

Comment: 312 sq. ft., needs major repair, presence of asbestos, most recent use—garages, off-site use only.

New York

Building

4 Bldgs.

Property #: 21199830336

Stewart Army Subpost

United States Military

Academy

New Windsor Co: Orange NY 12553-

Location:

#2000, 2002, 2004, 2006

Status: Unutilized

Comment: 35,356 sq. ft., fair possible asbestos/lead paint, most recent use—lodging.

7 Bldgs.

Property #: 21199830339

Stewart Army Subpost

United States Military

Academy

New Windsor Co: Orange NY 12553-

Location:

#2400, 2402, 2404, 2500, 2506, 2514, 2516

Status: Unutilized

Comment: 21,972 sq. ft., poor, possible asbestos/lead paint, most recent use—storage/admin.

Bldg. T-35

Property #: 21199840143

Fort Drum

Co: Jefferson NY 13602-

Status: Unutilized

Comment: 1296 sq. ft., most recent use—admin., off-site use only.

Bldg. S-149

Property #: 21199840144

Fort Drum

Co: Jefferson NY 13602-

Status: Unutilized

Comment: 2488 sq. ft., most recent use—admin., off-site use only.

Bldg. T-250

Property #: 21199840145

Fort Drum Co: Jefferson NY 13602-

Status: Unutilized

Comment: 2360 sq. ft., most recent use—storage, off-site use only.

Bldg. T-254

Property #: 21199840146

Fort Drum Co: Jefferson NY 13602-

Status: Unutilized

Comment: 4720 sq. ft., most recent use—barracks, off-site use only.

Bldg. T-260

Property #: 21199840147

Fort Drum Co: Jefferson NY 13602-

Status: Unutilized

Comment: 2371 sq. ft., most recent use—HQ bldg., off-site use only.

Bldg. T-261

Property #: 21199840148

Fort Drum Co: Jefferson NY 13602-

Status: Unutilized

Comment: 1144 sq. ft., most recent use—HQ bldg., off-site use only.

Bldg. T-262

Property #: 21199840149

Fort Drum Co: Jefferson NY 13602-

Status: Unutilized

Comment: 1144 sq. ft., most recent use—HQ bldg., off-site use only.

Bldg. T-340

Property #: 21199840150

Fort Drum Co: Jefferson NY 13602-

Status: Unutilized

Comment: 2360 sq. ft., most recent use—storage, off-site use only.

Bldg. T-392

Property #: 21199840151

Fort Drum Co: Jefferson NY 13602-

Status: Unutilized

Comment: 2740 sq. ft., most recent use—storage, off-site use only.

Bldg. T-413

Property #: 21199840152

Fort Drum Co: Jefferson NY 13602-

Status: Unutilized

Comment: 3663 sq. ft., most recent use—admin., off-site use only.

Bldg. T-415

Property #: 21199840153

Co: Jefferson NY 13602-

Status: Unutilized

Comment: 1676 sq. ft., most recent use—HQ bldg., off-site use only.

Bldg. T-530

Property #: 21199840154

Fort Drum Co: Jefferson NY 13602-

Status: Unutilized

Comment: 2588 sq. ft., most recent use—HQ bldg., off-site use only.

Bldg. T-840

Property #: 21199840155

Fort Drum Co: Jefferson NY 13602-

Status: Unutilized

Comment: 2803 sq. ft., most recent use—dining, off-site use only.

Bldg. T-892

Property #: 21199840156

Fort Drum Co: Jefferson NY 13602-

Status: Unutilized

Comment: 2740 sq. ft., most recent use—HQ bldg., off-site use only.

Bldg. T-991

Property #: 21199840157

Fort Drum Co: Jefferson NY 13602-

Status: Unutilized

Comment: 2740 sq. ft., most recent use—HQ bldg., off-site use only.

Bldg. P-996

Property #: 21199840158

Fort Drum Co: Jefferson NY 13602-

Status: Unutilized

Comment: 9602 sq. ft., most recent use—storage, off-site use only.

Bldg. S-998

Property #: 21199840159

Fort Drum Co: Jefferson NY 13602-

Status: Unutilized

Comment: 1432 sq. ft., most recent use—storage, off-site use only.

Bldg. T-2159

Property #: 21199840160

Fort Drum Co: Jefferson NY 13602-

Status: Unutilized

Comment: 1948 sq ft., off-site use only.

Bldg. T-2329

Property #: 21199840163

Fort Drum Co: Jefferson NY 13602-

Status: Unutilized

Comment: 2027 sq. ft., most recent use—museum, off-site use only.

Bldg. P-2415

Property #: 21199840164

Fort Drum Co: Jefferson NY 13602-

Status: Unutilized

Comment: 214 sq. ft., most recent use—incinerator, off-site use only.

Bldg. P-21572

Property #: 21199840167

Fort Drum Co: Jefferson NY 13602-

Status: Unutilized

Comment: 240 sq. ft., most recent use—bunker, off-site use only.

Bldg. P-87

Property #: 21199920203

Fort Drum

Ft. Drum Co: Jefferson NY 13602-

Status: Unutilized

Comment: 360 sq. ft., needs rehab, most recent use—admin., off-site use only.

Land

Land—6.965 Acres

Property #: 21199540018

Dix Avenue

Queensbury Co: Warren NY 12801-

Status: Unutilized

Comment: 6.96 acres of vacant land, located in industrial area, potential utilities.

Ohio

Building

15 Units

Property #: 21199230354

Military Family Housing

Ravenna Army Ammunition Plant

Ravenna Co: Portage OH 44266-9297

Status: Excess

Comment: 3 bedroom (7 units)—1,824 sq. ft. each, 4 bedroom 8 units)—2,430 sq. ft. each, 2-story wood frame, presence of asbestos, off-site use only.

7 Units

Property #: 21199230355

Military Family Housing

Garages

Ravenna Army Ammunition

Plant

Ravenna Co: Portage OH 44266-9297

Status: Excess

Comment: 1—4 stall garage and 6—3 stall garages, presence of asbestos, off-site use only.

Oklahoma

Building

Bldg. T-2606

Property #: 21199011273

Fort Sill

2606 Currie Road

Lawton Co: Comanche OK 73503-5100

Status: Unutilized

Comment: 2722 sq. ft.; possible asbestos, one floor wood frame; most recent use—Headquarters Bldg.

Bldg. T-838, Fort Sill

Property #: 21199220609

838 Macomb Road

Lawton Co: Comanche OK 73503-5100

Status: Unutilized

Comment: 151 sq. ft., wood frame, 1 story, off-site removal only, most recent use—vet facility (quarantine stable).

Bldg. T-954, Fort Sill

Property #: 21199240659

954 Quinette Road

Lawton Co: Comanche OK 73503-5100

Status: Unutilized

Comment: 3571 sq. ft., 1 story wood frame, needs rehab, off-site use only, most recent use—motor repair shop.

Bldg. T-4050 Fort Sill

Property #: 21199240676

4050 Pitman Street

Lawton Co: Comanche OK 73503-5100

Status: Unutilized

Comment: 3177 sq. ft., 1 story wood frame, needs rehab, off-site use only, most recent use—storage.

Bldg. T-3325, Fort Sill

Property #: 21199240681

3325 Naylor Road

Lawton Co: Comanche OK 73503-5100

Status: Unutilized

Comment: 8832 sq. ft., 1 story wood frame, needs rehab, off-site use only, most recent use—warehouse.

Bldg. T1652, Fort Sill

Property #: 21199330380

Lawton Co: Comanche OK 73503-5100

Status: Unutilized

Comment: 1505 sq. ft., 1-story wood, possible asbestos, most recent use—storage, off-site use only.

Bldg. T5637 Fort Sill

Property #: 21199330419

Lawton Co: Comanche OK 73503-5100

Status: Unutilized

Comment: 1606 sq. ft., 1 story, possible asbestos, most recent use—storage, off-site use only.

Bldg. T-4226

Property #: 21199440384

Fort Sill

Lawton Co: Comanche OK 73503-

Status: Unutilized

Comment: 114 sq. ft., 1-story wood frame, possible asbestos and lead paint, most recent use—storage, off-site use only.

Bldg. P-1015, Fort Sill

Property #: 21199520197

Lawton Co: Comanche OK 73501-5100

Status: Unutilized

Comment: 15402 sq. ft., 1-story, most recent use—storage, off-site use only.

Bldg. P-366, Fort Sill

Property #: 21199610740

Lawton Co: Comanche OK 73503-

Status: Unutilized

Comment: 482 sq. ft., possible asbestos, most recent use—storage, off-site use only.

Bldg. P-1800,

Property #: 21199710033

Fort Sill

Lawton Co: Comanche OK 73503-5100

Status: Unutilized

Comment: 2,545 sq. ft., possible asbestos and leadpaint, most recent use—military equipment, off-site use only.

Building T-2952

Property #: 21199710047

Fort Sill

Lawton Co: Comanche OK 73503-5100

Status: Unutilized

Comment: 4,327 sq. ft., possible asbestos and leadpaint, most recent use—motor repair shop, off-site use only.

Building P-5042

Property #: 21199710066

Fort Sill

Lawton Co: Comanche OK 73503-5100

Status: Unutilized

Comment: 119 sq. ft., possible asbestos and leadpaint, most recent use—heatplant, off-site use only.

6 Buildings

Property #: 21199710085

Fort Sill

Lawton Co: Comanche OK 73503-5100

Location: P-6449, S-6451, T-6452, P-6460, P-6463, S-6450

Status: Unutilized

Comment: various sq. ft., possible asbestos and leadpaint, most recent use—range support, off-site use only.

4 Buildings

Property #: 21199710086

Fort Sill

Lawton Co: Comanche OK 73503-5100

Location: T-6465, T-6466, T-6467, T-6468

Status: Unutilized

Comment: various sq. ft., possible asbestos and leadpaint, most recent use—range support, off-site use only.

Building P-6539

Property #: 21199710087

Fort Sill

Lawton Co: Comanche OK 73503-5100

Status: Unutilized

Comment: 1,483 sq. ft., possible asbestos and leadpaint, most recent use—office, off-site use only.

Bldg. T-208

Property #: 21199730344

Fort Sill

Lawton Co: Comanche OK 73503-5100

Status: Unutilized

Comment: 20525 sq. ft., possible asbestos/lead paint, most recent use—training center, off-site use only.

Bldg. T-214

Property #: 21199730346

Fort Sill

Lawton Co: Comanche OK 73503-5100

Status: Unutilized

Comment: 6332 sq. ft., possible asbestos/lead paint, most recent use—training center, off-site use only.

Bldgs. T-215, T-216

Property #: 21199730347

Fort Sill

Lawton Co: Comanche OK 73503-5100

Status: Unutilized

Comment: 6300 sq. ft. each, possible asbestos/lead paint, most recent use—storage, off-site use only.

Bldg. T-217

Property #: 21199730348

Fort Sill

Lawton Co: Comanche OK 73503-5100

Status: Unutilized

Comment: 6394 sq. ft., possible asbestos/lead paint, most recent use—training center, off-site use only.

Bldg. T-810

Property #: 21199730350

Fort Sill

Lawton Co: Comanche OK 73503-5100

Status: Unutilized

Comment: 7205 sq. ft., possible asbestos/lead paint, most recent use—hay storage, off-site use only.

Bldgs. T-837, T-839

Property #: 21199730351

Fort Sill

Lawton Co: Comanche OK 73503-5100

Status: Unutilized

Comment: approx. 100 sq. ft. each, possible asbestos/lead paint, most recent use—storage, off-site use only.

Bldg. P-934

Property #: 21199730353

Fort Sill

Lawton Co: Comanche OK 73503-5100

Status: Unutilized

Comment: 402 sq. ft., possible asbestos/lead paint, most recent use—storage, off-site use only.

Bldg. T-1177

Property #: 21199730356

Fort Sill

Lawton Co: Comanche OK 73503-5100

Status: Unutilized

Comment: 183 sq. ft., possible asbestos/lead paint, most recent use—snack bar, off-site use only.

Bldgs. T-1468, T-1469

Property #: 21199730357

Fort Sill

Lawton Co: Comanche OK 73503-5100

Status: Unutilized

Comment: 114 sq. ft., possible asbestos/lead paint, most recent use—storage, off-site use only.

Bldgs. T-1470

Property #: 21199730358

Fort Sill

Lawton Co: Comanche OK 73503-5100

Status: Unutilized

Comment: 3120 sq. ft., possible asbestos/lead paint, most recent use—storage, off-site use only.

Bldgs. T-1940

Property #: 21199730360

Fort Sill

Lawton Co: Comanche OK 73503-5100

Status: Unutilized

Comment: 1400 sq. ft., possible asbestos/lead paint, most recent use—storage, off-site use only.

Bldgs. T-1954, T-2022

Property #: 21199730362

Fort Sill

Lawton Co: Comanche OK 73503-5100

Status: Unutilized

Comment: approx. 100 sq. ft. each, possible asbestos/lead paint, most recent use—storage, off-site use only.

Bldgs. T-2180

Property #: 21199730363

Fort Sill

Lawton Co: Comanche OK 73503-5100

Status: Unutilized

Comment: possible asbestos/lead paint, most recentuse—vehicle maint. facility, off-site use only.

Bldgs. T-2184

Property #: 21199730364

Fort Sill

Lawton Co: Comanche OK 73503-5100

Status: Unutilized

Comment: 454 sq. ft., possible asbestos/lead paint, most recent use—storage, off-site use only.

Bldg. T-2185

Property #: 21199730365

Fort Sill

Lawton Co: Comanche OK 73503-5100

Status: Unutilized

Comment: 151 sq. ft., possible asbestos/lead paint, most recent use—storage, off-site use only.

Bldgs. T-2186, T-2188, T-2189

Property #: 21199730366

Fort Sill

Lawton Co: Comanche OK 73503-5100

Status: Unutilized

Comment: 1656—3583 sq. ft., possible asbestos/lead paint, most recent use—vehicle maint. shop, off-site use only.

Bldg. T-2187

Property #: 21199730367

Fort Sill

Lawton Co: Comanche OK 73503-5100

Status: Unutilized

Comment: 1673 sq. ft., possible asbestos/lead paint, most recent use—storage, off-site use only.

Bldg. T-2209

Property #: 21199730368

Fort Sill

Lawton Co: Comanche OK 73503-5100

Status: Unutilized

Comment: 1257 sq. ft., possible asbestos/lead paint, most recent use—storage, off-site use only.

Bldgs. T-2240, T-2241

Property #: 21199730369

Fort Sill

Lawton Co: Comanche OK 73503-5100

Status: Unutilized

Comment: approx. 9500 sq. ft., possible asbestos/lead paint, most recent use—storage, off-site use only.

Bldgs. T-2262, T-2263

Property #: 21199730370

Fort Sill

Lawton Co: Comanche OK 73503-5100

Status: Unutilized

Comment: approx. 3100 sq. ft., possible asbestos/lead paint, most recent use—maint. shop, off-site use only.

Bldgs. T-2271, T-2272

Property #: 21199730371

Fort Sill

Lawton Co: Comanche OK 73503-5100

Status: Unutilized

Comment: 232 sq. ft., possible asbestos/lead paint, most recent use—storage, off-site use only.

Bldgs. T-2291, T-2296

Property #: 21199730372

Fort Sill

Lawton Co: Comanche OK 73503-5100

Status: Unutilized

Comment: 400 sq. ft. each, possible asbestos/lead paint, most recent use—storage, off-site use only.

5 Bldgs.

Property #: 21199730373

Fort Sill

T-2300, T-2301, T-2303, T-2306, T-2307

Lawton Co: Comanche OK 73503-5100

Status: Unutilized

Comment: various sq. ft., possible asbestos/lead paint, most recent use—storage, off-site use only.

Bldg. T-2406

Property #: 21199730374

Fort Sill

Lawton Co: Comanche OK 73503-5100

Status: Unutilized

Comment: 114 sq. ft., possible asbestos/lead paint, most recent use—storage, off-site use only.

3 Bldgs.

Property #: 21199730376

Fort Sill

#T-2430, T-2432, T-2435

Lawton Co: Comanche OK 73503-5100

Status: Unutilized

Comment: approx. 8900 sq. ft., possible asbestos/lead paint, most recent use—office, off-site use only.

Bldg. T-2434

Property #: 21199730377

Fort Sill

Lawton Co: Comanche OK 73503-5100

Status: Unutilized

Comment: 8997 sq. ft., possible asbestos/lead paint, most recent use—vehicle maint. shop, off-site use only.

Bldgs. T-3001, T-3006

Property #: 21199730383

Fort Sill

Lawton Co: Comanche OK 73503-5100

Status: Unutilized

Comment: approx. 9300 sq. ft., possible asbestos/lead paint, most recent use—storage, off-site use only.

Bldg. T-3025

Property #: 21199730384

Fort Sill

Lawton Co: Comanche OK 73503-5100

Status: Unutilized

Comment: 5259 sq. ft., possible asbestos/lead paint, most recent use—museum, off-site use only.

Bldg. T-3314

Property #: 21199730385

Fort Sill

Lawton Co: Comanche OK 73503-5100

Status: Unutilized

Comment: 229 sq. ft., possible asbestos/lead paint, most recent use—office, off-site use only.

Bldg. T-3323

Property #: 21199730387

Fort Sill

Lawton Co: Comanche OK 73503-5100

Status: Unutilized

Comment: 8832 sq. ft., possible asbestos/lead paint, most recent use—office, off-site use only.

Bldgs. T-4021, T-4022

Property #: 21199730389

Fort Sill

Lawton Co: Comanche OK 73503-5100

Status: Unutilized

Comment: 442—869 sq. ft., possible asbestos/lead paint, most recent use—storage, off-site use only.

Bldg. T-4065

Property #: 21199730390

Fort Sill

Lawton Co: Comanche OK 73503-5100

Status: Unutilized

Comment: 3145 sq. ft., possible asbestos/lead paint, most recent use—maint. shop, off-site use only.

Bldg. T-4067

Property #: 21199730391

Fort Sill

Lawton Co: Comanche OK 73503-5100

Status: Unutilized

Comment: 1032 sq. ft., possible asbestos/lead paint, most recent use—storage, off-site use only.

Bldg. T-4281

Property #: 21199730392

Fort Sill

Lawton Co: Comanche OK 73503-5100

Status: Unutilized

Comment: 9405 sq. ft., possible asbestos/lead paint, most recent use—storage, off-site use only.

Bldgs. T-4401, T-4402

Property #: 21199730393

Fort Sill

Lawton Co: Comanche OK 73503-5100

Status: Unutilized

Comment: 2260 sq. ft., possible asbestos/lead paint, most recent use—office, off-site use only.

Bldg. T-4407

Property #: 21199730395

Fort Sill

Lawton Co: Comanche OK 73503-5100

Status: Unutilized

Comment: 3070 sq. ft., possible asbestos/lead paint, most recent use—dining facility, off-site use only.

4 Bldgs.

Property #: 21199730396

Fort Sill

#T-4410, T-4414, T-4415,

T-4418

Lawton Co: Comanche OK 73503-5100

Status: Unutilized

Comment: 1311 sq. ft., possible asbestos/lead paint, most recent use—office, off-site use only.

5 Bldgs.

Property #: 21199730397

Fort Sill

#T-4411 thru T-4413, T-4416

thru T-4417

Lawton Co: Comanche OK 73503-5100

Status: Unutilized

Comment: 1244 sq. ft., possible asbestos/lead paint, most recent use—showers, off-site use only.

Bldg. T-4421

Property #: 21199730398

Fort Sill

Lawton Co: Comanche OK 73503-5100

Status: Unutilized

Comment: 3070 sq. ft. possible asbestos/lead paint, most recent use—dining, off-site use only.

10 Bldgs.

Property #: 21199730399

Fort Sill

#T-4422 thru T-4427, T-4431

thru T-4434

Lawton Co: Comanche OK 73503-5100

Status: Unutilized

Comment: 2263 sq. ft., possible asbestos/lead paint, most recent use—barracks, off-site use only.

6 Bldgs.

Property # :21199730400

Fort Sill

Lawton Co: Comanche OK 73503-5100

Location: #T-4436, T-4440, T-4444, T-4445, T-4448, T-4449

Status: Unutilized

Comment: 1311-2263 sq. ft., possible asbestos/lead paint, most recent use—office, off-site use only.

5 Bldgs.

Property #: 21199730401

Fort Sill

Lawton Co: Comanche OK 73503-5100

Location: #T-4441, T-4442, T-4443, T-4446, T-4447

Status: Unutilized

Comment: 1244 sq. ft., possible asbestos/lead paint, most recent use—showers, off-site use only.

Bldg. T-5041

Property #: 21199730409

Fort Sill

Lawton Co: Comanche OK 73503-5100

Status: Unutilized

Comment: 763 sq. ft., possible asbestos/lead paint, most recent use—storage, off-site use only.

Bldgs. T-5044, T-5045

Property #: 21199730410

Fort Sill

Lawton Co: Comanche OK 73503-5100

Status: Unutilized

Comment: 1798/1806 sq. ft., possible asbestos/lead paint, most recent use—class rooms, off-site use only.

4 Bldgs.

Property #: 21199730411

Fort Sill

Lawton Co: Comanche OK 73503-5100

Location: #T-5046, T-5047, T-5048, T-5049

Status: Unutilized

Comment: various sq. ft., possible asbestos/lead paint, most recent use—office, off-site use only.

Bldg. T-5420

Property #: 21199730414

Fort Sill

Lawton Co: Comanche OK 73503-5100

Status: Unutilized

Comment: 189 sq. ft., possible asbestos/lead paint, most recent use—fuel storage, off-site use only.

Bldg. T-5639

Property #: 21199730416

Fort Sill

Lawton Co: Comanche OK 73503-5100

Status: Unutilized

Comment: 10,720 sq. ft., possible asbestos/lead paint, most recent use—office, off-site use only.

Bldgs. T-7290, T-7291

Property #: 21199730417

Fort Sill

Lawton Co: Comanche OK 73503-5100

Status: Unutilized

Comment: 224/840 sq. ft., possible asbestos/lead paint, most recent use—kennel, off-set use only.

Bldg. T-7775

Property #: 21199730419

Fort Sill

Lawton Co: Comanche OK 73503-5100

Status: Unutilized

Comment: 1452 sq. ft., possible asbestos/lead paint, most recent use—private club, off-site use only.

Bldg. T-207

Property #: 21199910130

Fort Sill

Lawton Co: Comanche OK 73503-5100

Status: Unutilized

Comment: 19,531 sq. ft., possible asbestos/lead paint, most recent use—office, off-site use only.

Bldgs. P-364, P-584, P-588

Property #: 21199910131

Fort Sill

Lawton Co: Comanche OK 73503-5100

Status: Unutilized

Comment: 106 sq. ft., possible asbestos/lead paint, most recent use—utility plant, off-site use only.

Bldg. P-599

Property #: 21199910132

Fort Sill

Lawton Co: Comanche OK 73503-5100

Status: Unutilized

Comment: 1400 sq. ft., possible asbestos/lead paint, most recent use—clubhouse, off-site use only.

4 Bldgs.

Property #: 21199910133

Fort Sill

P-617, P-1114, P-1386

P-1608

Lawton Co: Comanche OK 73503-5100

Status: Unutilized

Comment: 106 sq. ft., possible asbestos/lead paint, most recent use—utility plant, off-site use only.

Bldg. P-746

Property #: 21199910135

Fort Sill

Lawton Co: Comanche OK 73503-5100

Status: Unutilized

Comment: 6299 sq. ft., possible asbestos/lead paint, most recent use—admin., off-site use only.

Bldgs. P-1908, P-2078

Property #: 21199910136

Fort Sill

Lawton Co: Comanche OK 73503-5100

Status: Unutilized

Comment: 106 & 131 sq ft., possible asbestos/lead paint, most recent use-utility plant, off-site use only.

Bldg. T-2183

Property #: 21199910139

Fort Sill

Lawton Co: Comanche OK 73503-5100

Status: Unutilized

Comment: 14,530 sq. ft., possible asbestos/lead paint, most recent use—repair shop, off-site use only.

Bldgs. P-2581, P-2773

Property #: 21199910140

Fort Sill

Lawton Co: Comanche OK 73503-5100

Status: Unutilized

Comment: 4093 and 4129 sq. ft., possible asbestos/lead paint, most recent use—office, off-site use only.

Bldg. P-2582

Property #: 21199910141

Fort Sill

Lawton Co: Comanche OK 73503-5100

Status: Unutilized

Comment: 3672 sq. ft., possible asbestos/lead paint, most recent use—admin., off-site use only.

Bldgs. S-2790, P-2906

Property #: 21199910142

Fort Sill

Lawton Co: Comanche OK 73503-5100

Status: Unutilized

Comment: 1602 and 1390 sq. ft., possible asbestos/lead paint, most recent use—storage, off-site use only.

Bldg. P-2909

Property #: 21199910143

Fort Sill

Lawton Co: Comanche OK 73503-5100

Status: Unutilized

Comment: 1236 sq. ft., possible asbestos/lead paint, most recent use—classroom, off-site use only.

Bldgs. P-2912, P-2944

Property #: 21199910144

Fort Sill

Lawton Co: Comanche OK 73503-5100

Status: Unutilized

Comment: 1390 sq. ft., possible asbestos/lead paint, most recent use—office, off-site use only.

Bldg. S-3169

Property #: 21199910145

Fort Sill

Lawton Co: Comanche OK 73503-5100

Status: Unutilized

Comment: 6437 sq. ft., possible asbestos/lead paint, most recent use—office, off-site use only.

Bldg. P-2914

Property #: 21199910146

Fort Sill

Lawton Co: Comanche OK 73503-5100

Status: Unutilized

Comment: 1236 sq. ft., possible asbestos/lead paint, most recent use—storage, off-site use only.

Bldg. P-3469

Property #: 21199910147

Fort Sill

Lawton Co: Comanche OK 73503-5100

Status: Unutilized

Comment: 3930 sq. ft., possible asbestos/lead paint, most recent use—car wash, off-site use only.

Bldg. S-3559

Property #: 21199910148

Fort Sill

Lawton Co: Comanche OK 73503-5100

Status: Unutilized

Comment: 9462 sq. ft., possible asbestos/lead paint, most recent use—classroom, off-site use only.

Bldg. S-4064

Property #: 21199910149

Fort Sill

Lawton Co: Comanche OK 73503-5100

Status: Unutilized

Comment: 1389 sq. ft., possible asbestos/lead paint, off-site use only.

Bldg. T-4748

Property #: 21199910151

Fort Sill

Lawton Co: Comanche OK 73503-5100

Status: Unutilized

Comment: 1896 sq. ft., possible asbestos/lead paint, most recent use—classroom, off-site use only.

Bldg. S-5086

Property #: 21199910152

Fort Sill

Lawton Co: Comanche OK 73503-5100

Status: Unutilized

Comment: 6453 sq. ft., possible asbestos/lead paint, most recent use—maintenance shop, off-site use only.

Bldg. P-5101

Property #: 21199910153

Fort Sill

Lawton Co: Comanche OK 73503-5100

Status: Unutilized

Comment: 82 sq. ft., possible asbestos/lead paint, most recent use—gas station, off-site use only.

Bldg. P-5638

Property #: 21199910155

Fort Sill

Lawton Co: Comanche OK 73503-5100

Status: Unutilized

Comment: 300 sq. ft., possible asbestos/lead paint, most recent use—storage, off-site use only.

Bldg. S-6430

Property #: 21199910156

Fort Sill

Lawton Co: Comanche OK 73503-5100

Status: Unutilized

Comment: 2080 sq. ft., possible asbestos/lead paint, most recent use—range support, off-site use only.

Bldg. T-6461

Property #: 21199910157

Fort Sill

Lawton Co: Comanche OK 73503-5100

Status: Unutilized

Comment: 200 sq. ft., possible asbestos/lead paint, most recent use—range support, off-site use only.

Bldg. T-6462

Property #: 21199910158

Fort Sill

Lawton Co: Comanche OK 73503-5100

Status: Unutilized

Comment: 64 sq. ft., possible asbestos/lead paint, most recent use—control tower, off-site use only.

Bldg. P-7230

Property #: 21199910159

Fort Sill

Lawton Co: Comanche OK 73503-5100

Status: Unutilized

Comment: 160 sq. ft., possible asbestos/lead paint, most recent use—transmitter bldg., off-site use only.

Bldg. S-7960

Property #: 21199930159

Fort Sill

Lawton Co: Comanche OK 73503-

Status: Unutilized

Comment: 120 sq. ft., possible asbestos/lead paint, most recent use—storage, off-site use only.

Bldg. S-7961

Property #: 21199930160

Fort Sill

Lawton Co: Comanche OK 73503-

Status: Unutilized

Comment: 36 sq. ft., possible asbestos/lead paint, most recent use—storage, off-site use only.

Pennsylvania

Building

Bldg. T884

Property #: 21199940039

Carlisle Barracks

Carlisle Co: Cumberland PA 17013-

Status: Unutilized

Comment: 1500 sq. ft., needs major repair, presence of asbestos, most recent use—storehouse, off-site use only.

Bldg. T889

Property #: 21199940040

Carlisle Barracks

Carlisle Co: Cumberland PA 17013-

Status: Unutilized

Comment: 1500 sq. ft., needs major repair, presence of asbestos, most recent use—storehouse, off-site use only.

Bldg. T894

Property #: 21199940041

Carlisle Barracks

Carlisle Co: Cumberland PA 17013-

Status: Unutilized

Comment: 1555 sq. ft., needs major repair, presence of asbestos, most recent use—maint. facility, off-site use only.

Bldg. T879

Property #: 21199940042

Carlisle Barracks

Carlisle Co: Cumberland PA 17013-

Status: Unutilized

Comment: 1850 sq. ft., needs major repair,presence of asbestos, most recent use—storehouse, off-site use only.

Bldg. T895

Property #: 21199940043

Carlisle Barracks

Carlisle Co: Cumberland PA 17013-

Status: Unutilized

Comment: 1500 sq. ft., needs major repair, presence of asbestos, most recent use—maint. facility, off-site use only.

South Carolina

Building

Bldg. 3499

Property #: 21199730310

Fort Jackson

Ft. Jackson Co: Richland SC 29207-

Status: Unutilized

Comment: 3724 sq. ft., needs repair, most recent use—admin.

Bldg. 2441

Property #: 21199820187

Fort Jackson

Ft. Jackson Co: Richland SC 29207-

Status: Unutilized

Comment: 2160 sq. ft., needs repair, most recent use—admin.

Bldg. 3605

Property #: 21199820188

Fort Jackson

Ft. Jackson Co: Richland SC 29207-

Status: Unutilized

Comment: 711 sq. ft., needs repair, most recent use—storage.

Texas

Building

Bldg. P-377, Fort Sam Houston

Property #: 21199330444

San Antonio Co: Bexar TX 78234-5000

Status: Unutilized

Comment: 74 sq. ft., 1-story brick, needs rehab, most recent use—scale house, located in National Historic District, off-site use only.

Bldg. T-5901

Property #: 21199330486

Fort Sam Houston

San Antonio Co: Bexar TX 78234-5000

Status: Unutilized

Comment: 742 sq. ft., 1-story wood frame, most recent use—admin., off-site use only.

Bldg. 4480, Fort Hood

Property #: 21199410322

Ft. Hood Co: Bell TX 76544-

Status: Unutilized

Comment: 2160 sq. ft., 1-story, most recent use—storage, off-site use only.

Bldg. P-6615

Property #: 21199440454

Fort Sam Houston

San Antonio Co: Bexar TX 78234-5000

Status: Excess

Comment: 400 sq. ft., 1 story concrete frame, off-site removal only, most recent use—detached garage.

Bldg. 4201, Fort Hood

Property #: 21199520201

Ft. Hood Co: Bell TX 76544-

Status: Unutilized

Comment: 9000 sq. ft., 1-story, off-site use only.

Bldg. 4202, Fort Hood

Property #: 21199520202

Ft. Hood Co: Bell TX 76544-

Status: Unutilized

Comment: 5400 sq. ft., 1-story, most recent use—storage, off-site use only.

Bldg. P-197

Property #: 21199640220

Fort Sam Houston

San Antonio Co: Bexar TX 78234-5000

Status: Unutilized

Comment: 13819 sq. ft., presence of asbestos/lead paint, most recent use—admin., off-site use only.

Bldg. T-230

Property #: 21199640221

Fort Sam Houston

San Antonio Co: Bexar TX 78234-5000

Status: Unutilized

Comment: 18102 sq. ft., presence of asbestos/lead paint, most recent use—printing plant and shop, off-site use only.

Bldg. S-3898

Property #: 21199640235

Fort Sam Houston

San Antonio Co: Bexar TX 78234-5000

Status: Unutilized

Comment: 4200 sq. ft., presence of asbestos/lead paint, most recent use—classroom, off-site use only.

Bldg. S-3899

Property #: 21199640236

Fort Sam Houston

San Antonio Co: Bexar TX 78234-5000

Status: Unutilized

Comment: 4200 sq. ft., presence of asbestos/lead paint, most recent use—classroom, off-site use only.

Bldg. P-5126

Property #: 21199640240

Fort Sam Houston

San Antonio Co: Bexar TX 78234-5000

Status: Unutilized

Comment: 189 sq. ft., off-site use only.

Bldg. P-6201

Property #: 21199640241

Fort Sam Houston

San Antonio Co: Bexar TX 78234-5000

Status: Unutilized

Comment: 3003 sq. ft., presence of asbestos/lead paint, most recent use—officers family quarters, off-site use only.

Bldg. P-6202

Property #: 21199640242

Fort Sam Houston

San Antonio Co: Bexar TX 78234-5000

Status: Unutilized

Comment: 1479 sq. ft., presence of lead paint, most recent use—officers family quarters, off-site use only.

Bldg. P-6203

Property #: 21199640243

Fort Sam Houston

San Antonio Co: Bexar TX 78234-5000

Status: Unutilized

Comment: 1381 sq. ft., presence of lead paint, most recent use—military family quarters, off-site use only.

Bldg. P-6204

Property #: 21199640244

Fort Sam Houston

San Antonio Co: Bexar TX 78234-5000

Status: Unutilized

Comment: 1454 sq. ft., presence of asbestos/lead paint, most recent use—military family quarters, off-site use only.

Bldg. 7137, Fort Bliss

Property #: 21199640564

El Paso Co: El Paso TX 79916-

Status: Unutilized

Comment: 35,736 sq. ft., 3-story, most recent use—housing, off-site use only.

Building 4630

Property #: 21199710088

Fort Hood

Fort Hood Co: Bell TX 76544-

Status: Unutilized

Comment: 21,833 sq. ft., most recent use—Admin., off-site use only.

Bldg. T-330

Property #: 21199730315

Fort Sam Houston

San Antonio Co: Bexar TX 78234-5000

Status: Unutilized

Comment: 59,149 sq. ft., presence of asbestos/lead paint, historical category, most recent use—laundry, off-site use only.

Bldgs. P-605A & P-606A

Property #: 21199730316

Fort Sam Houston

San Antonio Co: Bexar TX 78234-5000

Status: Unutilized

Comment: 2418 sq. ft., poor condition, presence of asbestos/lead paint, historical category, most recent use—indoor firing range, off-site use only.

Bldg. S-1150

Property #: 21199730317

Fort Sam Houston

San Antonio Co: Bexar TX 78234-5000

Status: Unutilized

Comment: 8629 sq. ft., presence of asbestos/lead paint, most recent use—instruction bldg., off-site use only.

Bldgs. S-1440—S-1446, S-1452

Property #: 21199730318

Fort Sam Houston

San Antonio Co: Bexar TX 78234-5000

Status: Unutilized

Comment: 4200 sq. ft., presence of lead, most recent use—instruction bldgs., off-site use only.

4 Bldgs.

Property #: 21199730319

Fort Sam Houston

#S-1447, S-1449, S-1450, S-1451

San Antonio Co: Bexar TX 78234-5000

Status: Unutilized

Comment: 4200 sq. ft., presence of asbestos/lead paint, most recent use—instruction bldgs., off-site use only.

Bldg. P-4115

Property #: 21199730327

Fort Sam Houston

San Antonio Co: Bexar TX 78234-5000

Status: Unutilized

Comment: 529 sq. ft., presence of asbestos/lead paint historic bldg., most recent use—admin., off-site use only.

Bldg. 4205

Property #: 21199730328

Fort Sam Houston

San Antonio Co: Bexar TX 78234-5000

Status: Unutilized

Comment: 24,573 sq. ft., presence of asbestos/lead paint, most recent use—warehouse, off-site use only.

Bldg. T-5113

Property #: 21199730330

Fort Sam Houston

San Antonio Co: Bexar TX 78234-5000

Status: Unutilized

Comment: 2550 sq. ft., presence of asbestos/lead paint, historical bldg., most recent use—medical clinic, off-site use only.

Bldg. T-5122

Property #: 21199730331

Fort Sam Houston

San Antonio Co: Bexar TX 78234-5000

Status: Unutilized

Comment: 3602 sq. ft., presence of asbestos/lead paint, historical category, most recent use—instruction bldg., off-site use only.

Bldg. T-5903

Property #: 21199730332

Fort Sam Houston

San Antonio Co: Bexar TX 78234-5000

Status: Unutilized

Comment: 5200 sq. ft., presence of asbestos/lead paint, historical category, most recent use—admin., off-site use only.

Bldg. T-5907

Property #: 21199730333

Fort Sam Houston

San Antonio Co: Bexar TX 78234-5000

Status: Unutilized

Comment: 570 sq. ft., presence of asbestos/lead paint, historical category, most recent use—admin., off-site use only.

Bldg. T-6284

Property #: 21199730335

Fort Sam Houston

San Antonio Co: Bexar TX 78234-5000

Status: Unutilized

Comment: 120 sq. ft., presence of lead paint, most recent use—pump station, off-site use only.

Bldg. T-5906

Property #: 21199730420

Fort Sam Houston

San Antonio Co: Bexar TX 78234-5000

Status: Unutilized

Comment: 570 sq. ft., presence of asbestos/lead paint, most recent use—admin., off-site only.

Bldg. P-1382

Property #: 21199810365

Fort Sam Houston

San Antonio Co: Bexar TX 78234-5000

Status: Unutilized

Comment: 30,082 sq. ft., presence of asbestos/lead paint, most recent use—housing, off-site use only.

Bldg. P-2014

Property #: 21199810367

Fort Sam Houston

San Antonio Co: Bexar TX 78234-5000

Status: Unutilized

Comment: 10,990 sq. ft., historical property, presence of asbestos/lead paint, most recent use—instruction, off-site use only.

Bldg. P-2015

Property #: 21199810368

Fort Sam Houston

San Antonio Co: Bexar TX 78234-5000

Status: Unutilized

Comment: 11,333 sq. ft., historical property, presence of asbestos/lead paint, most recent use—admin., off-site use only.

Bldg. P-2016

Property #: 21199810369

Fort Sam Houston

San Antonio Co: Bexar TX 78234-5000

Status: Unutilized

Comment: 11,517 sq. ft., historical property, presence of asbestos/lead paint, most recent use—admin., off-site use only.

Bldg. P-2017

Property #: 21199810370

Fort Sam Houston

San Antonio Co: Bexar TX 78234-5000

Status: Unutilized

Comment: 10,990 sq. ft., historical property, presence of asbestos/lead paint, most recent use—admin., off-site use only.

Bldg. S-3897

Property #: 21199810371

Fort Sam Houston

San Antonio Co: Bexar TX 78234-5000

Status: Unutilized

Comment: 4,200 sq. ft., presence of asbestos/lead paint, most recent use—instruction, off-site use only.

Bldg. S-1155

Property #: 21199830347

Fort Sam Houston

San Antonio Co: Bexar TX 78234-5000

Status: Unutilized

Comment: 2100 sq. ft., good, hazard abatement required, most recent use—instruction bldg., off-site use only.

Bldg. S-3896

Property #: 21199830349

Fort Sam Houston

San Antonio Co: Bexar TX 78234-5000

Status: Unutilized

Comment: 4200 sq. ft., fair, hazard abatement required, most recent use—training, off-site use only.

Bldg. T-5123

Property #: 21199830350

Fort Sam Houston

San Antonio Co: Bexar TX 78234-5000

Status: Unutilized

Comment: 2596 sq. ft., fair, hazard abatement required, most recent use—instruction, off-site use only, historical significance.

Bldg. P-6150

Property #: 21199830351

Fort Sam Houston

San Antonio Co: Bexar TX 78234-5000

Status: Unutilized

Comment: 48 sq. ft., fair, hazard abatement required, most recent use—pumphouse, off-site use only.

Bldgs. P-6331, P-6335, P-6495

Property #: 21199830353

Fort Sam Houston

San Antonio Co: Bexar TX 78234-5000

Status: Unutilized

Comment: 36 sq. ft., fair, hazard abatement required, most recent use—pumping station, off-site use only.

Bldg. P-8000

Property #: 21199830354

Fort Sam Houston

San Antonio Co: Bexar TX 78234-5000

Status: Unutilized

Comment: 1776 sq. ft., fair, hazard abatement required, most recent use—housing, off-site use only.

9 Bldgs.

Property #: 21199830355

Fort Sam Houston

San Antonio Co: Bexar TX 78234-5000

Location: #P8001, P8008, 8014, 8027, 8033, 8035, 8127, 8229, 8265

Status: Unutilized

Comment: 2456 sq. ft., fair, hazard abatement required, most recent use—housing, off-site use only.

11 Bldgs.

Property #: 21199830356

Fort Sam Houston

San Antonio Co: Bexar TX 78234-5000

Location: #P8003, P8011, 8012, 8043, 8202, 8204, 8216, 8235, 8241, 8261

Status: Unutilized

Comment: 2358 sq. ft., fair, hazard abatement required, most recent use—housing, off-site use only.

Bldgs. P-8003C, P-8220C

Property #: 21199830357

Fort Sam Houston

San Antonio Co: Bexar TX 78234-5000

Status: Unutilized

Comment: 1174 sq. ft., fair, hazard abatement required, most recent use—detached garage, off-site use only.

Bldg. P-8004

Property #: 21199830358

Fort Sam Houston

San Antonio Co: Bexar TX 78234-5000

Status: Unutilized

Comment: 2243 sq. ft., fair, hazard abatement required, most recent use—housing, off-site use only.

7 Bldgs.

Property #: 21199830359

Fort Sam Houston

San Antonio Co: Bexar TX 78234-5000

Location: #P8005, P8101, 8107, 8141, 8146, 8150

Status: Unutilized

Comment: 1804 sq. ft., fair, hazard abatement required, most recent use—housing, off-site use only.

15 Bldgs.

Property #: 21199830360

Fort Sam Houston

San Antonio Co: Bexar TX 78234-5000

Location: #P8006, P8007, 8010, 8013, 8015, 8017, 8020, 8029, 8103, 8105, 8201, 8208, 8218, 8225, 8234

Status: Unutilized

Comment: 1703 sq. ft., fair, hazard abatement required, most recent use—housing, off-site use only.

7 Bldgs.

Property #: 31199830361

Fort Sam Houston

San Antonio Co: Bexar TX 78234-5000

Location: #P8009, 8024, 8207, 8214, 8217, 8226, 8256

Status: Unutilized

Comment: 2253 sq. ft., fair, hazard abatement required, most recent use—housing, off-site use only.

4 Bldgs.

Property #: 21199830362

Fort Sam Houston

San Antonio Co: Bexar TX 78234-5000

Location: #P8009C, 8027C, 8248C, 8256C

Status: Unutilized

Comment: 681 sq. ft., fair, hazard abatement required, most recent use—detached garage, off-site use only.

3 Bldgs.

Property #: 21199830363

Fort Sam Houston

San Antonio Co: Bexar TX 78234-5000

Location: #P8012C, 8039C, 8224C

Status: Unutilized

Comment: 1185 sq. ft., fair, hazard abatement required, most recent use—detached garage, off-site use only.

Bldg. P8016

Property #: 21199830364

Fort Sam Houston

San Antonio Co: Bexar TX 78234-5000

Status: Unutilized

Comment: 2347 sq. ft., fair, hazard abatement required, most recent use—housing, off-site use only.

8 Bldgs.

Property #: 21199830365

Fort Sam Houston

San Antonio Co: Bexar TX 78234-5000

Location: #P8021, 8211, 8244, 8270, 8213, 8223, 8243, 8226

Status: Unutilized

Comment: 246 sq. ft., fair, hazard abatement required, most recent use—housing, off-site use only.

Bldg. P-8022

Property #: 21199830366

Fort Sam Houston

San Antonio Co: Bexar TX 78234-5000

Status: Unutilized

Comment: 1849 sq. ft., fair, hazard abatement required, most recent use—housing, off-site use only.

5 Bldgs.

Property #: 21199830367

Fort Sam Houston

San Antonio Co: Bexar TX 78234-5000

Location: #P8022C, 8023C, 8106C, 8127C, 8206C

Status: Unutilized

Comment: 513 sq. ft., fair, hazard abatement required, most recent use—detached garage, off-site use only.

Bldgs. P8026, P8028

Property #: 21199830369

Fort Sam Houston

San Antonio Co: Bexar TX 78234-5000

Status: Unutilized

Comment: approx. 1850 sq. ft., fair, hazard abatement required, most recent use—housing, off-site use only.

3 Bldgs.

Property #: 21199830370

Fort Sam Houston

San Antonio Co: Bexar TX 78234-5000

Location: #P8028C, P8143C, P8150C

Status: Unutilized

Comment: 838 sq. ft., fair, hazard abatement required, most recent use—detached garage, off-site use only.

3 Bldgs.

Property #: 21199830372

Fort Sam Houston

San Antonio Co: Bexar TX 78234-5000

Location: #P8035C, P8104C, 8236C

Status: Unutilized

Comment: 1017 sq. ft., fair, hazard abatement required, most recent use—detached garage, off-site use only.

3 Bldgs.

Property #: 21199830375

Fort Sam Houston

San Antonio Co: Bexar TX 78234-5000

Location: #P8102, 8106, 8108

Status: Unutilized

Comment: approx. 2700 sq. ft., fair, hazard abatement required, most recent use—housing, off-site use only.

Bldgs. P8109, P8137

Property #: 21199830376

Fort Sam Houston

San Antonio Co: Bexar TX 78234-5000

Status: Unutilized

Comment: 1540 sq. ft., fair, hazard abatement required, most recent use—housing, off-site use only.

Bldgs. P8112, P8228

Property #: 21199830378

Fort Sam Houston

San Antonio Co: Bexar TX 78234-5000

Status: Unutilized

Comment: 1807 sq. ft., fair, hazard abatement required, most recent use—housing, off-site use only.

3 Bldgs.

Property #: 21199830380

Fort Sam Houston

San Antonio Co: Bexar TX 78234-5000

Location: #P8116, 8151, 8158

Status: Unutilized

Comment: 1691 sq. ft., fair, hazard abatement required, most recent use—housing, off-site use only.

Bldg. P8117

Property #: 21199830381

Fort Sam Houston

San Antonio Co: Bexar TX 78234-5000

Status: Unutilized

Comment: 1581 sq. ft., fair, hazard abatement required, most recent use—housing, off-site use only.

8 Bldgs.

Property #: 21199830382

Fort Sam Houston

San Antonio Co: Bexar TX 78234-5000

Location: #P8118, 8121, 8125, 8153, 8119, 8120, 8124, 8168

Status: Unutilized

Comment: various sq. ft., fair, hazard abatement required, most recent use—housing, off-site use only.

Bldgs. P8122, P8123

Property #: 21199830383

Fort Sam Houston

San Antonio Co: Bexar TX 78234-5000

Status: Unutilized

Comment: approx. 1400 sq. ft., fair, hazard abatement required, most recent use—housing, off-site use only.

Bldg. P8126

Property #: 21199830384

Fort Sam Houston

San Antonio Co: Bexar TX 78234-5000

Status: Unutilized

Comment: 1331 sq. ft., fair, hazard abatement required, most recent use—housing, off-site use only.

8 Bldgs.

Property #: 21199830386

Fort Sam Houston

San Antonio Co: Bexar TX 78234-5000

Location: #P8131C, 8139C, 8203C, 8221C, 8231C, 8243C, 8249C, 8261C

Status: Unutilized

Comment: 849 sq. ft., fair, hazard abatement required, most recent use—detached garage, off-site use only.

Bldgs. P8133, P8134

Property #: 21199830387

Fort Sam Houston

San Antonio Co: Bexar TX 78234-5000

Status: Unutilized

Comment: 2000 sq. ft., fair, hazard abatement required, most recent use—housing, off-site use only.

Bldgs. P8135, P8136

Property #: 21199830388

Fort Sam Houston

San Antonio Co: Bexar TX 78234-5000

Status: Unutilized

Comment: approx. 1500 sq. ft., fair hazard abatement required, most recent use—housing, off-site use only.

4 Bldgs.

Property #: 21199830389

Fort Sam Houston

San Antonio Co: Bexar TX 78234-5000

Location:

#P8144, 8267, 8148, 8149

Status: Unutilized

Comment: approx. 2200 sq. ft., fair hazard abatement required, most recent use—housing, off-site use only.

Bldg. P8171

Property #: 21199830392

Fort Sam Houston

San Antonio Co: Bexar TX 78234-5000

Status: Unutilized

Comment: 1289 sq. ft., fair hazard abatement required, most recent use—housing, off-site use only.

Bldg. P8172

Property #: 21199830393

Fort Sam Houston

San Antonio Co: Bexar TX 78234-5000

Status: Unutilized

Comment: 1597 sq. ft., fair hazard abatement required, most recent use—housing, off-site use only.

Bldgs. P8173, P8174

Property #: 21199830394

Fort Sam Houston

San Antonio Co: Bexar TX 78234-5000

Status: Unutilized

Comment: approx. 2200 sq. ft., fair hazard abatement required, most recent use—housing, off-site use only.

Bldg. P8174C

Property #: 21199830395

Fort Sam Houston

San Antonio Co: Bexar TX 78234-5000

Status: Unutilized

Comment: 670 sq. ft., fair hazard abatement required, most recent use—detached garage, off-site use only.

Bldg. P8175

Property #: 21199830396

Fort Sam Houston

San Antonio Co: Bexar TX 78234-5000

Status: Unutilized

Comment: 2220 sq. ft., fair hazard abatement required, most recent use—housing, off-site use only.

Bldg. P8200

Property #: 21199830397

Fort Sam Houston

San Antonio Co: Bexar TX 78234-5000

Status: Unutilized

Comment: 892 sq. ft., fair hazard abatement required, most recent use—officers quarters, off-site use only.

Bldg P8200C,

Property #: 21199830398

Fort Sam Houston

San Antonio Co: Bexar TX 78234-5000

Status: Unutilized

Comment: 924 sq. ft., fair hazard abatement required, most recent use—detached garage, off-site use only.

Bldg. P8205

Property #: 21199830399

Fort Sam Houston

San Antonio Co: Bexar TX 78234-5000

Status: Unutilized

Comment: 1745 sq. ft., fair hazard abatement required, most recent use—housing, off-site use only.

3 Bldgs.

Property #: 21199830400

Fort Sam Houston

San Antonio Co: Bexar TX 78234-5000

Location: #P8206, 8232, 8233

Status: Unutilized

Comment: approx. 2400 sq. ft., fair hazard abatement required, most recent use—housing, off-site use only.

Bldg P8245

Property #: 21199830401

Fort Sam Houston

San Antonio Co: Bexar TX 78234-5000

Status: Unutilized

Comment: 2876 sq. ft., fair hazard abatement required, most recent use—housing, off-site use only.

Bldgs. P8262C, 8271C

Property #: 21199830403

Fort Sam Houston

San Antonio Co: Bexar TX 78234-5000

Status: Unutilized

Comment: 1006 sq. ft., fair hazard abatement required, most recent use—detached garage, off-site use only.

Bldg. P8269

Property #: 21199830404

Fort Sam Houston

San Antonio Co: Bexar TX 78234-5000

Status: Unutilized

Comment: 2396 sq. ft., fair hazard abatement required, most recent use—housing, off-site use only.

20 Bldgs.

Property #: 21199830405

Fort Sam Houston

San Antonio Co: Bexar TX 78234-5000

Location: #P8271, 8002, 8018, 8025, 8037, 8100, 8130, 8132, 8138, 8140, 8142, 8145, 8147, 8210, 8212, 8221, 8242, 8247, 8264, 8257

Status: Unutilized

Comment: 2777 sq. ft., fair hazard abatement required, most recent use—housing, off-site use only.

Bldg. P-1374

Property #: 21199840169

Fort Sam Houston

San Antonio Co: Bexar TX 78234-5000

Status: Unutilized

Comment: 111,448 sq. ft., presence of asbestos/lead paint, hazard abatement responsibility, most recent use—barracks, off-site use only.

Bldg. P-1980

Property #: 21199840170

Fort Sam Houston

San Antonio Co: Bexar TX 78234-5000

Status: Unutilized

Comment: 2989 sq. ft., presence of asbestos/lead paint, hazard abatement responsibility, most recent use—radio system, off-site use only.

Bldg. P-1981

Property #: 21199840171

Fort Sam Houston

San Antonio Co: Bexar TX 78234-5000

Status: Unutilized

Comment: 200 sq. ft., presence of asbestos/lead paint, hazard abatement responsibility, most recent use—generator plant, off-site use only.

Bldg. P-2396

Property #: 21199840173

Fort Sam Houston

San Antonio Co: Bexar TX 78234-5000

Status: Unutilized

Comment: 1080 sq. ft., presence of asbestos/lead paint, hazard abatement responsibility, most recent use—generator plant, off-site use only.

Bldg. P-4226

Property #: 21199840172

Fort Sam Houston

San Antonio Co: Bexar TX 78234-5000

Status: Unutilized

Comment: 1809 sq. ft., presence of asbestos/lead paint, hazard abatement responsibility, most recent use—storage, off-site use only.

Bldg. 2842

Property #: 21199840177

Fort Hood

Ft. Hood TX 76544-

Status: Unutilized

Comment: 2650 sq. ft., most recent use—admin., off-site use only.

Bldg. 2843

Property #: 21199840178

Fort Hood

Ft. Hood TX 76544-

Status: Unutilized

Comment: 8043 sq. ft., most recent use—admin., off-site use only.

Bldg. 2845

Property #: 21199840180

Fort Hood

Ft. Hood TX 76544-

Status: Unutilized

Comment: 8043 sq. ft., most recent use—admin., off-site use only.

Bldg. 2846

Property #: 21199840181

Fort Hood

Ft. Hood TX 76544-

Status: Unutilized

Comment: 8043 sq. ft., most recent use—admin., off-site use only.

Bldg. 36

Property #: 21199920204

Fort Hood

Ft. Hood Co: Coryell TX 76544-

Status: Unutilized

Comment: 2250 sq. ft., needs repair,most recent use—ACS center, off-site use only.

Bldg. 37

Property #: 21199920205

Fort Hood

Ft. Hood Co: Coryell TX 76544-

Status: Unutilized

Comment: 2220 sq. ft., needs repair, most recent use—storage, off-site use only.

Bldg. 38

Property #: 21199920206

Fort Hood

Ft. Hood Co: Coryell TX 76544-

Status: Unutilized

Comment: 2700 sq. ft., needs repair, most recent use—gen. inst., off-site use only.

Bldg. 39

Property #: 21199920207

Fort Hood

Ft. Hood Co: Coryell TX 76544-

Status: Unutilized

Comment: 2220 sq. ft., needs repair, most recent use—storage, off-site use only.

Bldg. 41

Property #: 21199920208

Fort Hood

Ft. Hood Co: Coryell TX 76544-

Status: Unutilized

Comment: 1750 sq. ft., needs repair, most recent use—admin., off-site use only.

Bldgs. 43-44

Property #: 21199920209

Fort Hood

Ft. Hood Co: Coryell TX 76544-

Status: Unutilized

Comment: 2750 sq. ft., needs repair, most recent use—admin., off-site use only.

Bldgs. 209-212

Property #: 21199920210

Fort Hood

Ft. Hood Co: Coryell TX 76544-

Status: Unutilized

Comment: 8043 sq. ft., needs repair, most recent use—admin., off-site use only.

Bldg. 213

Property #: 21199920211

Fort Hood

Ft. Hood Co: Coryell TX 76544-

Status: Unutilized

Comment: 7670 sq. ft., needs repair, most recent use—operations, off-site use only.

Bldg. 919

Property #: 21199920212

Fort Hood

Ft. Hood Co: Coryell 76544-

Status: Unutilized

Comment: 11,800 sq. ft., needs repair, most recent use—Bde. Hq. Bldg., off-site use only.

Bldg. 923

Property #: 21199920213

Fort Hood

Ft. Hood Co: Coryell TX 76544-

Status: Unutilized

Comment: 4440 sq. ft., needs repair, most recent use—admin., off-site use only.

Bldg. 924

Property #: 21199920214

Fort Hood

Ft. Hood Co: Coryell TX 76544-

Status: Unutilized

Comment: 3500 sq. ft., needs repair, most recent use—admin., off-site use only.

Bldgs. 3949-3950

Property #: 21199920219

Fort Hood

Ft. Hood Co: Coryell TX 76544-

Status: Unutilized

Comment: 5310 sq. ft., needs repair, most recent use—Bn. Hq. Bldg., off-site use only.

Bldg. 3951

Property #: 21199920220

Fort Hood

Ft. Hood Co: Coryell TX 76544-

Status: Unutilized

Comment: 2500 sq. ft., needs repair, most recent use—admin., off-site use only.

Bldgs. 3952-3953

Property #: 21199920221

Fort Hood

Ft. Hood Co: Coryell TX 76544-

Status: Unutilized

Comment: 3100 sq. ft., needs repair, most recent use—admin., off-site use only.

Bldgs. 3954-3957

Property #: 21199920222

Fort Hood

Ft. Hood Co: Coryell TX 76544-

Status: Unutilized

Comment: 5310 sq. ft., needs repair, most recent use—admin., off-site use only.

Bldg. 3958

Property #: 21199920223

Fort Hood

Ft. Hood Co: Coryell TX 76544-

Status: Unutilized

Comment: 3241 sq. ft., needs repair, most recent use—admin., off-site use only.

Bldg. 3959

Property #: 21199920224

Fort Hood

Ft. Hood Co: Coryell TX 76544-

Status: Unutilized

Comment: 3373 sq. ft., needs repair, most recent use—admin., off-site use only.

Bldgs. 3960-3962

Property #: 21199920225

Fort Hood

Ft. Hood Co: Coryell TX 76544-

Status: Unutilized

Comment: 5310 sq. ft., needs repair, most recent use—admin., off-site use only.

Bldgs. 3964-3965

Property #: 21199920226

Fort Hood

Ft. Hood Co: Coryell TX 76544-

Status: Unutilized

Comment: 3100 sq. ft., needs repair, most recent use—Bn. Hq., Bldg., off-site use only.

Bldg. 3966

Property #: 21199920227

Fort Hood

Ft. Hood Co: Coryell TX 76544-

Status: Unutilized

Comment: 2741 sq. ft., needs repair, most recent use—Co. Hq. Bldg., off-site use only.

Bldgs. 3967-3969

Property #: 21199920228

Fort Hood

Ft. Hood Co: Coryell TX 76544-

Status: Unutilized

Comment: 5310 sq. ft., needs repair, most recent use—admin., off-site use only.

Bldgs. 3970-3971

Property #: 21199920229

Fort Hood

Ft. Hood Co: Coryell TX 76544-

Status: Unutilized

Comment: 3241 sq. ft., needs repair, most recent use—admin., off-site use only.

Land

Old-Camp Bullis Road

Property #: 21199420461

Fort Sam Houston

San Antonio Co: Bexar 78234-5000

Status: Unutilized

Comment: 7.16 acres, rural gravel road.

Castner Range

Property #: 21199610788

Fort Bliss

El Paso Co: El Paso TX 79916-

Status: Unutilized

Comment: approx. 56.81 acres, portion in floodway, most recent use—recreation picnic park.

Virginia

Building

Bldg. 178

Property #: 21199940046

Fort Monroe

Ft. Monroe Co: VA 23651-

Status: Unutilized

Comment: 1180 sq. ft., needs repair, most recent use—storage, off-site use only.

Bldg. T246

Property #: 21199940047

Fort Monroe

Ft. Monroe Co: VA 23651-

Status: Unutilized

Comment: 756 sq. ft., needs repair, possible lead paint, most recent use—scout meetings, off-site use only.

Washington

Building

13 Bldgs., Fort Lewis

Property #: 21199630199

A0402, CO723, CO726, CO727, CO902

CO907, CO922, CO923, CO926, CO927

Ft. Lewis Co: Pierce WA 98433-9500

Status: Unutilized

Comment: 2360 sq. ft., possible asbestos/lead paint, most recent use—barracks, off-site use only.

7 Bldgs., Fort Lewis

Property #: 21199630200

A0438, A0439, C0901, C0910, C0911

Ft. Lewis Co: Pierce WA 98433-9500

Status: Unutilized

Comment: 1144 sq. ft., possible asbestos/lead paint, most recent use—dayroom bldgs., off-site use only.

6 Bldgs., Fort Lewis

Property #: 21199630204

C0908, C0728, C0921, C0928, C1008

Ft. Lewis Co: Pierce WA 98433-9500

Status: Unutilized

Comment: 2207 sq. ft., possible asbestos/lead paint, most recent use—dining, off-site use only.

Bldg. C0909, Fort Lewis

Property #: 21199630205

Ft. Lewis Co: Pierce WA 98433-9500

Status: Unutilized

Comment: 1984 sq. ft., possible asbestos/lead paint, most recent use—admin., off-site use only.

Bldg. C0920, Fort Lewis

Property #: 21199630206

Ft. Lewis Co: Pierce WA 98433-9500

Status: Unutilized

Comment: 1984 sq. ft., possible asbestos/lead paint, most recent use—admin., off-site use only.

Bldg. C1249, Fort Lewis

Property #: 21199630207

Ft. Lewis Co: Pierce WA 98433-9500

Status: Unutilized

Comment: 992 sq. ft., possible asbestos/lead paint, most recent use—storage, off-site use only.

Bldg. 1164, Fort Lewis

Property #: 21199630213

Ft. Lewis Co: Pierce WA 98433-9500

Status: Unutilized

Comment: 230 sq. ft., possible asbestos/lead paint, most recent use—storehouse, off-site use only.

Bldg. 1307, Fort Lewis

Property #: 21199630216

Ft. Lewis Co: Pierce WA 98433-9500

Status: Unutilized

Comment: 1092 sq. ft., possible asbestos/lead paint, most recent use—storage., off-site use only.

Bldg. 1309, Fort Lewis

Property #: 21199630217

Ft. Lewis Co: Pierce WA 98433-9500

Status: Unutilized

Comment: 1092 sq. ft., possible asbestos/lead paint, most recent use—storage., off-site use only.

Bldg. 2167, Fort Lewis

Property #: 21199630218

Ft. Lewis Co: Pierce WA 98433-9500

Status: Unutilized

Comment: 288 sq. ft., possible asbestos/lead paint, most recent use—warehouse, off-site use only.

Bldg. 4078, Fort Lewis

Property #: 21199630219

Ft. Lewis Co: Pierce WA 98433-9500

Status: Unutilized

Comment: 10200 sq. ft., needs rehab, possible asbestos/lead paint, most recent use—warehouse, off-site use only.

Bldg. 9599, Fort Lewis

Property #: 21199630220

Ft. Lewis Co: Pierce WA 98433-9500

Status: Unutilized

Comment: 12366 sq. ft., possible asbestos/lead paint, most recent use—warehouse, off-site use only.

Bldg. A1404, Fort Lewis

Property #: 21199640570

Ft. Lewis Co: Pierce WA 98433-

Status: Unutilized

Comment: 557 sq. ft., needs rehab, most recent use—storage, off-site use only.

Bldg. A1419, Fort Lewis

Property #: 21199640571

Ft. Lewis Co: Pierce WA 98433-

Status: Unutilized

Comment: 1307 sq. ft., needs rehab, most recent use—storage, off-site use only.

11 Buildings

Property #: 21199710143

Fort Lewis

Fort Lewis Co: Pierce WA 98433-

Location: #EO103-EO106, EO306, EO315-EO316, EO343-EO344 EO353-EO354

Status: Unutilized

Comment: 2360 sq. ft., possible asbestos/lead paint, most recent use—officer's quarters, off-site use only.

Bldgs, EO109, EO350

Property #: 21199710144

Fort Lewis

Fort Lewis Co: Pierce WA 98433-

Status: Unutilized

Comment: 1165 sq. ft., possible asbestos/lead paint, most recent use—dayroom, off-site use only.

Bldgs. EO120, EO321, EO338

Property #: 21199710145

Fort Lewis

Fort Lewis Co: Pierce WA 98433-

Status: Unutilized

Comment: 3810 sq. ft., possible asbestos/lead paint, most recent use—officer's quarters, off-site use only.

5 Bldgs.

Property #: 21199710146

Fort Lewis

Fort Lewis Co: Pierce WA 98433-

Location: #EO127, EO136, EO302, EO204, EO330

Status: Unutilized

Comment: 2284 sq. ft., possible asbestos/lead paint, most recent use—offices, off-site use only.

Bldg. EO136

Property #: 21199710147

Fort Lewis

Fort Lewis Co: Pierce WA 98433-

Status: Unutilized

Comment: 3885 sq. ft., possible asbestos/lead paint, most recent use—officer's quarters, off-site use only.

Bldgs. EO158, EO303

Property #: 21199710148

Fort Lewis

Fort Lewis Co: Pierce WA 98433-

Status: Unutilized

Comment: 1675 sq. ft., possible asbestos/lead paint, most recent use—office, off-site use only.

Bldg. EO202

Property #: 21199710149

Fort Lewis

Fort Lewis Co: Pierce WA 98433-

Status: Unutilized

Comment: 992 sq. ft., possible asbestos/lead paint, most recent use—office, off-site use only.

Bldg. EO312

Property #: 21199710150

Fort Lewis

Fort Lewis Co: Pierce WA 98433-

Status: Unutilized

Comment: 3885 sq. ft., possible asbestos/lead paint, most recent use—officer's quarters, off-site use only.

Bldg. EO322

Property #: 21199710151

Fort Lewis

Fort Lewis Co: Pierce WA 98433-

Status: Unutilized

Comment: 2250 sq. ft., possible asbestos/lead paint, most recent use—storage, off-site use only.

Bldg. EO325

Property #: 21199710152

Fort Lewis

Fort Lewis Co: Pierce WA 98433-

Status: Unutilized

Comment: 3336 sq. ft., possible asbestos/lead paint, most recent use—officer's quarters, off-site use only.

Bldg. EO329

Property #: 21199710153

Fort Lewis

Fort Lewis Co: Pierce WA 98433-

Status: Unutilized

Comment: 1843 sq. ft., possible asbestos/lead paint, most recent use—office, off-site use only.

Bldg. EO334

Property #: 21199710154

Fort Lewis

Fort Lewis Co: Pierce WA 98433-

Status: Unutilized

Comment: 3779 sq. ft., possible asbestos/lead paint, most recent use—recreation, off-site use only.

Bldg. EO355

Property #: 21199710155

Fort Lewis

Fort Lewis Co: Pierce WA 98433-

Status: Unutilized

Comment: 2207 sq. ft., possible asbestos/lead paint, most recent use—dining facility, off-site use only.

Bldg. EO347

Property #: 21199710156

Fort Lewis

Fort Lewis Co: Pierce WA 98433-

Status: Unutilized

Comment: 1800 sq. ft., possible asbestos/lead paint, most recent use—office, off-site use only.

Bldgs. EO349, EO110

Property #: 21199710157

Fort Lewis

Fort Lewis Co: Pierce WA 98433-

Status: Unutilized

Comment: 1296 sq. ft., possible asbestos/lead paint, most recent use-office, off-site use only.

4 Bldgs.

Property #: 21199710158

Fort Lewis

Fort Lewis Co: Pierce WA 98433-

Location: #EO351, EO308, EO207, EO108

Status: Unutilized

Comment: 1144 sq. ft., possible asbestos/lead paint, most recent use—dayroom, off-site use only.

Bldgs. EO352, EO307

Property #: 21199710159

Fort Lewis

Ft. Lewis Co: Pierce WA 98433-

Status: Unutilized

Comment: 992 sq. ft., possible asbestos/lead paint, most recent use—office, off-site use only.

Bldg. EO355

Property #: 21199710160

Fort Lewis

Ft. Lewis Co: Pierce WA 98433-

Status: Unutilized

Comment: 2360 sq. ft., possible asbestos/lead paint, most recent use—training facility, off-site use only.

Bldg. B1008, Fort Lewis

Property #: 21199720216

Ft. Lewis Co: Pierce WA 98433-

Status: Unutilized

Comment: 7387 sq. ft., 2-story, needs rehab, possible asbestos/lead paint, most recent use—medical clinic, off-site use only.

Bldgs. B1011-B1012, Fort Lewis

Property #: 21199720217

Ft. Lewis Co: Pierce WA 98433-

Status: Unutilized

Comment: 992 sq. ft. and 114 sq. ft., needs rehab, possible asbestos/lead paint, most recent use—office, off-site use only.

Bldgs. CO509, CO709, CO720

Property #: 21199810372

Fort Lewis

Ft. Lewis Co: Pierce WA 98433-

Status: Unutilized

Comment: 1984 sq. ft., possible asbestos/lead paint, needs rehab, most recent use—storage, off-site use only.

4 Bldgs.

Property #: 21199810373

Fort Lewis

CO511, CO710, CO711, CO719

Ft. Lewis Co: Pierce WA 98433-

Status: Unutilized

Comment: 1,144 sq. ft., possible asbestos/lead paint, needs rehab, most recent use—dayrooms, off-site use only.

11 Bldgs.

Property #: 21199810374

Fort Lewis

Ft. Lewis Co: Pierce WA 98433-

Location: CO528, CO701, CO708, CO721, CO526, CO527, CO702, CO703, CO706, CO707, CO722

Status: Unutilized

Comment: 2207 sq. ft., possible asbestos/lead paint, needs rehab, most recent use—dining, off-site use only.

Bldg. 1021

Property #: 21199830418

Fort Lewis

Ft. Lewis Co: Pierce WA 98433-

Status: Unutilized

Comment: 3724 sq. ft., needs repair, presence of asbestos/lead paint, most recent use—carport, off-site use only.

Bldg. 5162

Property #: 21199830419

Fort Lewis

Ft. Lewis Co: Pierce WA 98433-

Status: Unutilized

Comment: 2360 sq. ft., needs repair, presence of asbestos/lead paint, most recent use—office, off-site use only.

Bldg. A0631

Property #: 21199830422

Fort Lewis

Ft. Lewis Co: Pierce WA 98433-

Status: Unutilized

Comment: 2207 sq. ft., needs repair, presence of asbestos/lead paint, most recent use—dayroom, off-site use only.

Bldg. C1246

Property #: 21199830426

Fort Lewis

Ft. Lewis Co: Pierce WA 98433-

Status: Unutilized

Comment: 7670 sq. ft., needs repair, presence of asbestos/lead paint, most recent use—office, off-site use only.

Bldg. B0813

Property #: 21199830427

Fort Lewis

Ft. Lewis Co: Pierce WA 98433-

Status: Unutilized

Comment: 1144 sq. ft., needs repair, presence of asbestos/lead paint, most recent use—office, off-site use only.

Bldg. B0812

Property #: 21199830428

Fort Lewis

Ft. Lewis Co: Pierce WA 98433-

Status: Unutilized

Comment: 1144 sq. ft., needs repair, presence of asbestos/lead paint, most recent use—dayroom, off-site use only.

Bldg. B0228

Property #: 21199830429

Fort Lewis

Ft. Lewis Co: Pierce WA 98433-

Status: Unutilized

Comment: 2739 sq. ft., needs repair, presence of asbestos/lead paint, most recent use—storage, off-site use only.

Bldg. C0409

Property #: 21199830431

Fort Lewis

Ft. Lewis Co: Pierce WA 98433-

Status: Unutilized

Comment: 1948 sq. ft., needs repair, presence of asbestos/lead paint, most recent use—storage, off-site use only.

Bldg. 9575

Property #: 21199830432

Fort Lewis

Ft. Lewis Co: Pierce WA 98433-

Status: Unutilized

Comment: 17,217 sq. ft., needs repair, presence of asbestos/lead paint, most recent use—veh. maint., off-site use only.

Bldg. 5224

Property #: 21199830433

Fort Lewis

Ft. Lewis Co: Pierce WA 98433-

Status: Unutilized

Comment: 2360 sq. ft., needs repair, presence of asbestos/lead paint, most recent use—educ. fac., off-site use only.

Bldg. 9794

Property #: 21199830435

Fort Lewis

Ft. Lewis Co: Pierce WA 98433-

Status: Unutilized

Comment: 210 sq. ft., needs repair, presence of asbestos/lead paint, most recent use—vet. fac., off-site use only.

Bldg. 4540

Property #: 21199840183

Fort Lewis

Co: Pierce WA 98433-

Status: Unutilized

Comment: 1200 sq. ft., needs rehab, presence of asbestos/lead paint, most recent use—office, off-site use only.

Bldg. 4541

Property #: 21199840184

Fort Lewis

Co: Pierce WA 98433-

Status: Unutilized

Comment: 880 sq. ft., needs rehab, presence of asbestos/lead paint, most recent use—storage, off-site use only.

Bldg. 4542

Property #: 21199840185

Fort Lewis

Co: Pierce WA 98433-

Status: Unutilized

Comment: 112 sq. ft., needs rehab, presence of asbestos/lead paint, most recent use—heat plant, off-site use only.

Bldg. 4549

Property #: 21199840186

Fort Lewis

Co: Pierce WA 98433-

Status: Unutilized

Comment: 26220 sq. ft., needs rehab, presence of asbestos/lead paint, most recent use—green house heat plant, off-site use only.

Bldg. U001B

Property #: 21199920237

Fort Lewis

Ft. Lewis Co: Pierce WA 98433-

Status: Excess

Comment: 54 sq. ft., needs repair, presence of asbestos/lead paint, most recent use—control tower, off-site use only.

Bldg. U001C

Property #: 21199920238

Fort Lewis

Ft. Lewis Co: Pierce WA 98433-

Status: Unutilized

Comment: 960 sq. ft., needs repair, presence of asbestos/lead paint, most recent use—supply, off-site use only.

10 Bldgs.

Property #: 21199920239

Fort Lewis

Ft. Lewis Co: Pierce WA 98433-

Location: U002B, U002C, U005C, U015I, U016E, U019C, U022A, U028B, 0091A, U093C

Status: Excess

Comment: 600 sq. ft., needs repair, presence of asbestos/lead paint, most recent use—range house, off-site use only.

6 Bldgs.

Property #: 21199920240

Fort Lewis

Ft. Lewis Co: Pierce WA 98433-

Location: U003A, U004B, U006C, U015B, U016B, U019B

Status: Unutilized

Comment: 54 sq. ft., needs repair, presence of asbestos/lead paint, most recent use—control tower, off-site use only.

Bldg. U004D

Property #: 21199920241

Fort Lewis

Ft. Lewis Co: Pierce WA 98433-

Status: Unutilized

Comment: 960 sq. ft., needs repair, presence of asbestos/lead paint, most recent use—supply, off-site use only.

Bldg. U005A

Property #: 21199920242

Fort Lewis

Ft. Lewis Co: Pierce WA 98433-

Status: Unutilized

Comment: 360 sq. ft., needs repair, presence of asbestos/lead paint, most recent use—control tower, off-site use only.

Bldg. U006A, U024A

Property #: 21199920243

Fort Lewis

Ft Lewis Co: Pierce WA 98433-

Status: Excess

Comment: 100 sq. ft., needs repair, presence of asbestos/lead paint, most recent use—shelter, off-site use only.

Bldg. U007A, U021A

Property #: 21199920244

Fort Lewis

Ft. Lewis Co: Pierce WA 98433-

Status: Excess

Comment: 100 sq. ft., needs repair, presence of asbestos/lead paint, most recent use—control tower, off-site use only.

7 Bldgs.

Property #: 21199920245

Fort Lewis

Ft. Lewis Co: Pierce WA 98433-

Location: U014A, U022B, U023A, U043B, U059B, U060A, U101A

Status: Excess

Comment: needs repair, presence of asbestos/lead paint, most recent use—ofc/tower/support, off-site use only.

Bldg. U015J

Property #: 21199920246

Fort Lewis

Ft. Lewis Co: Pierce WA 98433-

Status: Excess

Comment: 144 sq. ft., needs repair, presence of asbestos/lead paint, most recent use—tower, off-site use only.

Bldg. U018B

Property #: 21199920247

Fort Lewis

Ft. Lewis Co: Pierce WA 98433-

Status: Unutilized

Comment: 121 sq. ft., needs repair, presence of asbestos/lead paint, most recent use—range house, off-site use only.

Bldg. U018C

Property #: 21199920248

Fort Lewis

Ft. Lewis Co: Pierce WA 98433-

Status: Unutilized

Comment: 48 sq. ft., needs repair, presence of asbestos/lead paint, off-site use only.

Bldg. U024B

Property #: 21199920249

Fort Lewis

Ft. Lewis Co: Pierce WA 98433-

Status: Unutilized

Comment: 168 sq. ft., needs repair, presence of asbestos/lead paint, most recent use—control tower, off-site use only.

Bldg. U024D

Property #: 21199920250

Fort Lewis

Ft. Lewis Co: Pierce WA 98433-

Status: Unutilized

Comment: 120 sq. ft., needs repair, presence of asbestos/lead paint, most recent use—ammo bldg., off-site use only.

Bldg. U027A

Property #: 21199920251

Fort Lewis

Ft. Lewis Co: Pierce WA 98433-

Status: Excess

Comment: 64 sq. ft., needs repair, presence of asbestos/lead paint, most recent use—tire house, off-site use only.

Bldg. U028A-U032A

Property #: 21199920252

Fort Lewis

Ft. Lewis Co: Pierce WA 98433-

Status: Unutilized

Comment: 72 sq. ft., needs repair, presence of asbestos/lead paint, most recent use—control tower, off-site use only.

Bldg. U031A

Property #: 21199920253

Fort Lewis

Ft. Lewis Co: Pierce WA 98433-

Status: Excess

Comment: 3456 sq. ft., needs repair, presence of asbestos/lead paint, most recent use—line shed, off-site use only.

Bldg. U031C

Property #: 21199920254

Fort Lewis

Ft. Lewis Co: Pierce WA 98433-

Status: Unutilized

Comment: 32 sq. ft., needs repair, presence of asbestos/lead paint off-site use only.

Bldg. U040D

Property #: 21199920255

Fort Lewis

Ft. Lewis Co: Pierce WA 98433-

Status: Excess

Comment: 800 sq. ft., needs repair, presence of asbestos/lead paint, most recent use—range house, off-site use only.

Bldg. U052C,UO52H

Property #: 21199920256

Fort Lewis

Ft. Lewis Co: Pierce WA 98433-

Status: Excess

Comment: various sq. ft., needs repair, presence of asbestos/lead paint, most recent use—range house, off-site use only.

Bldg. U035A, U035B

Property #: 21199920257

Fort Lewis

Ft. Lewis Co: Pierce WA 98433-

Status: Excess

Comment: 192 sq. ft., needs repair, presence of asbestos/lead paint, most recent use—shelter, off-site use only.

Bldg. U035C

Property #: 21199920258

Fort Lewis

Ft. Lewis Co: Pierce WA 98433-

Status: Excess

Comment: 242 sq. ft., needs repair, presence of asbestos/lead paint, most recent use—range house, off-site use only.

Bldg. U039A

Property #: 21199920259

Fort Lewis

Ft. Lewis Co: Pierce WA 98433-

Status: Excess

Comment: 36 sq. ft., needs repair, presence of asbestos/lead paint, most recent use—control tower, off-site use only.

Bldg. U039B

Property #: 21199920260

Fort Lewis

Ft. Lewis Co: Pierce WA 98433-

Status: Excess

Comment: 1600 sq. ft., needs repair, presence of asbestos/lead paint, most recent use—grandstand/bleachers, off-site use only.

Bldg. U039C

Property #: 21199920261

Fort Lewis

Ft. Lewis Co: Pierce WA 98433-

Status: Excess

Comment: 600 sq. ft., needs repair, presence of asbestos/lead paint, most recent use—support, off-site use only.

Bldg. U043A

Property #: 21199920262

Fort Lewis

Ft. Lewis Co: Pierce WA 98433-

Status: Excess

Comment: 132 sq. ft., needs repair, presence of asbestos/lead paint, most recent use—range house, off-site use only.

Bldg. U052A

Property #: 21199920263

Fort Lewis

Ft. Lewis Co: Pierce WA 98433-

Status: Excess

Comment: 69 sq. ft., needs repair, presence of asbestos/lead paint, most recent use—tower, off-site use only.

Bldg. U052E

Property #: 21199920264

Fort Lewis

Ft. Lewis Co: Pierce WA 98433-

Status: Excess

Comment: 600 sq. ft., needs repair, presence of asbestos/lead paint, most recent use—storage, off-site use only.

Bldg. U052G

Property #: 21199920265

Fort Lewis

Ft. Lewis Co: Pierce WA 98433-

Status: Excess

Comment: 1600 sq. ft., needs repair, presence of asbestos/lead paint, most recent use—shelter, off-site use only.

3 Bldgs.

Property #: 21199920266

Fort Lewis

Ft. Lewis Co: Pierce WA 98433-

Location: U0558A, U103A, U018A

Status: Excess

Comment: 36 sq. ft., needs repair, presence of asbestos/lead paint, most recent use—control tower, off-site use only.

Bldg. U059A

Property #: 21199920267

Fort Lewis

Ft. Lewis Co: Pierce WA 98433-

Status: Excess

Comment: 16 sq. ft., needs repair, presence of asbestos/lead paint, most recent use—tower, off-site use only.

Bldg. U093B

Property #: 21199920268

Fort Lewis

Ft. Lewis Co: Pierce WA 98433-

Status: Excess

Comment: 680 sq. ft., needs repair, presence of asbestos/lead paint, most recent use—range house, off-site use only.

4 Bldgs.

Property #: 21199920269

Fort Lewis

Ft. Lewis Co: Pierce WA 98433-

Location: U101B, U101C, U507B, U557A

Status: Excess

Comment: 400 sq. ft., needs repair, presence of asbestos/lead paint, off-site use only.

Bldg. U102B

Property #: 21199920270

Fort Lewis

Ft. Lewis Co: Pierce WA 98433-

Status: Excess

Comment: 1058 sq. ft., needs repair, presence of asbestos/lead paint, most recent use—shelter, off-site use only.

Bldg. U108A

Property #: 21199920271

Fort Lewis

Ft. Lewis Co: Pierce WA 98433-

Status: Excess

Comment: 31,320 sq. ft., needs repair, presence of asbestos/lead paint, most recent use—line shed, off-site use only.

Bldg. U110B

Property #: 21199920272

Fort Lewis

Ft. Lewis Co: Pierce WA 98433-

Status: Excess

Comment: 138 sq. ft., needs repair, presence of asbestos/lead paint, most recent use—support, off-site use only.

6 Bldgs.

Property #: 21199920273

Fort Lewis

Ft. Lewis Co: Pierce WA 98433-

Location: U111A, U015A, U024E, U052F, U109A, U110A

Status: Excess

Comment: 1000 sq. ft., needs repair, presence of asbestos/lead paint, most recent use—support/shelter/mess, off-site use only.

Bldg. U112A

Property #: 21199920274

Fort Lewis

Ft. Lewis Co: Pierce WA 98433-

Status: Excess

Comment: 1600 sq. ft., needs repair, presence of asbestos/lead paint, most recent use—shelter, off-site use only.

Bldg. U115A

Property #: 21199920275

Fort Lewis

Ft. Lewis Co: Pierce WA 98433-

Status: Excess

Comment: 36 sq. ft., needs repair, presence of asbestos/lead paint, most recent use—tower, off-site use only.

Bldg. U507A

Property #: 21199920276

Fort Lewis

Ft. Lewis Co: Pierce WA 98433-

Status: Excess

Comment: 400 sq. ft., needs repair, presence of asbestos/lead paint, most recent use4—support, off-site use only.

Bldg. U516B

Property #: 21199920277

Fort Lewis

Ft. Lewis Co: Pierce WA 98433-

Status: Excess

Comment: 5000 sq. ft., needs repair, presence of asbestos/lead paint, most recent use—shed, off-site use only.

7 Bldgs.

Property #: 21199920278

Fort Lewis

Ft. Lewis Co: Pierce WA 98433-

Location: F0002, F0004, F0003, F0005, F0006, F0008, F0009

Status: Excess

Comment: various sq. ft., needs repair, presence of asbestos/lead paint, most recent use—storehouse, off-site use only.

Bldg. F0022A

Property #: 21199920279

Fort Lewis

Ft. Lewis Co: Pierce WA 98433-

Status: Excess

Comment: 4373 sq. ft., needs repair, presence of asbestos/lead paint, most recent use—gen. inst., off-site use only.

Bldg. F0022B

Property #: 21199920280

Fort Lewis

Ft. Lewis Co: Pierce WA 98433-

Status: Excess

Comment: 3100 sq. ft., needs repair, presence of asbestos/lead paint, most recent use—storage, off-site use only.

Bldg. C0120

Property #: 21199920281

Fort Lewis

Ft. Lewis Co: Pierce WA 98433-

Status: Excess

Comment: 384 sq. ft., needs repair, presence of asbestos/lead paint, most recent use—scale house, off-site use only.

Bldg. A0220

Property #: 21199920282

Fort Lewis

Ft. Lewis Co: Pierce WA 98433-

Status: Excess

Comment: 2284 sq. ft., needs repair, presence of asbestos/lead paint, most recent use—club facility, off-site use only.

18 Bldgs.

Property #: 21199920283

Fort Lewis

Ft. Lewis Co: Pierce WA 98433-

Location: A0337, A0617, B0820, B0821, C0319, C0833, C0310, C0311, C0318, C1019, D0712, D0713, D0720, D0721, D1108, D1153, C1011, C1018

Status: Excess

Comment: 1144 sq. ft., needs repair, presence of asbestos/lead paint, most recent use—day room, off-site use only.

Bldg. A0334

Property #: 21199920284

Fort Lewis

Ft. Lewis Co: Pierce WA 98433-

Status: Excess

Comment: 1092 sq. ft., needs repair, presence of asbestos/lead paint, most recent use—sentry station, off-site use only.

7 Bldgs.

Property #: 21199920285

Fort Lewis

Ft. Lewis Co: Pierce WA 98433-

Location: C0302, C0303, C0306, C0322, C0323, C0326, C0327

Status: Excess

Comment: 2340 sq. ft., needs repair, presence of asbestos/lead paint, most recent use—barracks, off-site use only.

12 Bldgs.

Property #: 21199920287

Fort Lewis

Ft. Lewis Co: Pierce WA 98433-

Location: C1002, C1003, C1006, C1007, C1022, C1023, C1026, C1027, C1207, C1301, C13333, C1334

Status: Excess

Comment: 2360 sq. ft., needs repair, presence of asbestos/lead paint, most recent use—barracks, off-site use only.

Bldg. E1010

Property #: 21199920288

Fort Lewis

Ft. Lewis Co: Pierce WA 98433-

Status: Excess

Comment: 148 sq. ft., needs repair, presence of asbestos/lead paint, most recent use—gas station, off-site use only.

Bldg. D1154

Property #: 21199920289

Fort Lewis

Ft. Lewis Co: Pierce WA 98433-

Status: Excess

Comment: 1165 sq. ft., needs repair, presence of asbestos/lead paint, most recent use—day room, off-site use only.

Bldg. 01205

Property #: 21199920290

Fort Lewis

Ft. Lewis Co: Pierce WA 98433-

Status: Excess

Comment: 87 sq. ft., needs repair, presence of asbestos/lead paint, most recent use—storehouse, off-site use only.

Bldg. 01259

Property #: 21199920291

Fort Lewis

Ft. Lewis Co: Pierce WA 98433-

Status: Excess

Comment: 16 sq. ft., needs repair, presence of asbestos/lead paint, most recent use—storage, off-site use only.

Bldg. 01266

Property #: 21199920292

Fort Lewis

Ft. Lewis Co: Pierce WA 98433-

Status: Excess

Comment: 45 sq. ft., needs repair, presence of asbestos/lead paint, most recent use—shelter, off-site use only.

Bldg. B1410

Property #: 21199920293

Fort Lewis

Ft. Lewis Co: Pierce WA 98433-

Status: Excess

Comment: 3108 sq. ft., needs repair, presence of asbestos/lead paint, most recent use—motor repair, off-site use only.

Bldg. 1445

Property #: 21199920294

Fort Lewis

Ft. Lewis Co: Pierce WA 98433-

Status: Excess

Comment: 144 sq. ft., needs repair, presence of asbestos/lead paint, most recent use—generator bldg., off-site use only.

Bldg. 02082

Property #: 21199920295

Fort Lewis

Ft. Lewis Co: Pierce WA 98433-

Status: Excess

Comment: 16 sq. ft., needs repair, presence of asbestos/lead paint, most recent use—storage, off-site use only.

Bldgs. 03091, 03099

Property #: 21199920296

Fort Lewis

Ft. Lewis Co: Pierce WA 98433-

Status: Excess

Comment: Various sq. ft., needs repair, presence of asbestos/lead paint, most recent use—sentry station, off-site use only.

Bldgs. 03100, 3101

Property #: 21199920297

Fort Lewis

Ft. Lewis Co: Pierce WA 98433-

Status: Excess

Comment: Various sq. ft., needs repair, presence of asbestos/lead paint, most recent use—storage, off-site use only.

Bldgs. 4040

Property #: 21199920298

Fort Lewis

Ft. Lewis Co: Pierce WA 98433-

Status: Excess

Comment: 8,326 sq. ft., needs repair, presence of asbestos/lead paint, most recent use—shed, off-site use only.

Bldgs. 4072, 5104

Property #: 21199920299

Fort Lewis

Ft. Lewis Co: Pierce WA 98433-

Status: Excess

Comment: 24/36 sq. ft., needs repair, presence of asbestos/lead paint, off-site use only.

Bldgs. 4295

Property #: 21199920300

Fort Lewis

Ft. Lewis Co: Pierce WA 98433-

Status: Excess

Comment: 48 sq. ft., needs repair, presence of asbestos/lead paint, most recent use—storage, off-site use only.

Bldgs. 5170

Property #: 21199920301

Fort Lewis

Ft. Lewis Co: Pierce WA 98433-

Status: Excess

Comment: 19,411 sq. ft., needs repair, presence of asbestos/lead paint, most recent use—store, off-site use only.

Bldgs. 6191

Property #: 21199920303

Fort Lewis

Ft. Lewis Co: Pierce WA 98433-

Status: Excess

Comment: 3,663 sq. ft., needs repair, presence of asbestos/lead paint, most recent use—exchange branch, off-site use only.

Bldgs. 08076, 08080

Property #: 21199920304

Fort Lewis

Ft. Lewis Co: Pierce WA 98433-

Status: Excess

Comment: 3,660/412 sq. ft., needs repair, presence of asbestos/lead paint, off-site use only.

Bldgs. 08093

Property #: 21199920305

Fort Lewis

Ft. Lewis Co: Pierce WA 98433-

Status: Excess

Comment: 289 sq. ft., needs repair, presence of asbestos/lead paint, most recent use—boat storage, off-site use only.

Bldgs. 8279

Property #: 21199920306

Fort Lewis

Ft. Lewis Co: Pierce WA 98433-

Status: Excess

Comment: 210 sq. ft., needs repair, presence of asbestos/lead paint, most recent use—fuel disp. fac., off-site use only.

Bldgs. 8280, 8291

Property #: 21199920307

Fort Lewis

Ft. Lewis Co: Pierce WA 98433-

Status: Excess

Comment: 800/464 sq. ft., needs repair, presence of asbestos/lead paint, most recent use—storage, off-site use only.

Bldgs. 8956

Property #: 21199920308

Fort Lewis

Ft. Lewis Co: Pierce WA 98433-

Status: Excess

Comment: 100 sq. ft., needs repair, presence of asbestos/lead paint, most recent use—storage, off-site use only.

Bldgs. 9530

Property #: 21199920309

Fort Lewis

Ft. Lewis Co: Pierce WA 98433-

Status: Excess

Comment: 64 sq. ft., needs repair, presence of asbestos/lead paint, most recent use—sentry station, off-site use only.

Bldgs. 9574

Property #: 21199920310

Fort Lewis

Ft. Lewis Co: Pierce WA 98433-

Status: Excess

Comment: 6,005 sq. ft., needs repair, presence of asbestos/lead paint, most recent use—veh. shop., off-site use only.

Bldgs. 9596

Property #: 21199920311

Fort Lewis

Ft. Lewis Co: Pierce WA 98433-

Status: Excess

Comment: 36 sq. ft., needs repair, presence of asbestos/lead paint, most recent use—gas station, off-site use only.

Bldgs. 9939

Property #: 21199920313

Fort Lewis

Ft. Lewis Co: Pierce WA 98433-

Status: Excess

Comment: 600 sq. ft., needs repair, presence of asbestos/lead paint, most recent use—recreation, off-site use only.

Bldg. E0324

Property #: 21199920314

Fort Lewis

Ft. Lewis Co: Pierce WA 98433-

Status: Excess

Comment: 2207 sq. ft., needs repair, presence of asbestos/lead paint, most recent use—storage, off-site use only.

COE

Arkansas

Land

Parcel 01

Property #: 31199010071

DeGray Lake

Section 12

Arkadelphia Co: Clark AR 71923-9361

Status: Unutilized

Comment: 77.6 acres.

Parcel 02

Property #: 31199010072

DeGray Lake

Section 13

Arkadelphia Co: Clark AR 71923-9361

Status: Unutilized

Comment: 198.5 acres.

Parcel 03

Property #: 31199010073

DeGray Lake

Section 18

Arkadelphia Co: Clark AR 71923-9361

Status: Unutilized

Comment: 50.46 acres.

Parcel 04

Property #: 31199010074

DeGray Lake

Sections 24, 25, 30 and 31

Arkadelphia Co: Clark AR 71923-9361

Status: Unutilized

Comment: 236.37 acres.

Parcel 05

Property #: 31199010075

DeGray Lake

Section 16

Arkadelphia Co: Clark AR 71923-9361

Status: Unutilized

Comment: 187.30 acres.

Parcel 06

Property #: 31199010076

DeGray Lake

Section 13

Arkadelphia Co: Clark AR 71923-9361

Status: Unutilized

Comment: 13.0 acres.

Parcel 07

Property #: 31199010077

DeGray Lake

Section 34

Arkadelphia Co: Hot Spring AR 71923-9361

Status: Unutilized

Comment: 0.27 acres.

Parcel 08

Property #: 31199010078

DeGray Lake

Section 13

Arkadelphia Co: Clark AR 71923-9361

Status: Unutilized

Comment: 14.6 acres.

Parcel 09

Property #: 31199010079

DeGray Lake

Section 12

Arkadelphia Co: Clark AR 71923-9361

Status: Unutilized

Comment: 6.60 acres.

Parcel 10

Property #: 31199010080

DeGray Lake

Section 12

Arkadelphia Co: Hot Spring AR 71923-9361

Status: Unutilized

Comment: 4.5 acres.

Parcel 11

Property #: 31199010081

DeGray Lake

Section 19

Arkadelphia Co: Hot Spring AR 71923-9361

Status: Unutilized

Comment: 19.50 acres.

Lake Greeson

Property #: 31199010083

Sections 7, 8, and 18

Murfreesboro Co: Pike AR 71958-9720

Status: Unutilized

Comment: 46 acres.

Kansas

Building

Project Residence

Property #: 31199940001

Perry Lake Drive

Perry Co: Jefferson KS 66073-9727

Status: Excess

Comment: 1440 sq. ft., off-site use only.

Land

Parcel 1

Property #:31199010064

El Dorado Lake

Section 13, 24, and 18

(See County) Co: Butler KS

Status: Unutilized

Comment: 61 acresl most recent use—recreation.

Kentucky

Building

Green River Lock & Dam #3

Property #:31199010022

Rochester Co: Butler KY 42273-

Location: SR 70 west from Morgantown, KY., approximately 7 miles to site.

Status: Unutilized

Comment: 980 sq. ft.; 2 story wood frame; two story residence; potential utilities; needs major rehab.

Kentucky River Lock and Dam 3

Property #:31199010060

Pleasureville Co: Henry KY 40057-

Location: SR 421 North from Frankfort, KY. to highway 561, right on 561 approximately 3 miles to site.

Status: Unutilized

Comment: 897 sq. ft.; 2 story frame; structural deficiencies.

Bldg. 1

Property #:311990111628

Kentucky River Lock and Dam

Carrolton Co: Carroll KY 41008-

Location: Take I-71 to Carrolton, KY exit, go east on SR #227 to Highway 320, then left for about 1.5 miles to site.

Status: Unutilized

Comment: 1530 sq. ft.; 2 story frame house; subject to periodic flooding; needs rehab.

Bldg. 2

Property #:311990111629

Kentucky River Lock and Dam 3

Carrolton Co: Carroll KY 41008-

Location: Take I-71 to Carrolton, KY exit, go east on SR #227 to Highway 320, then left for about 1.5 miles to site.

Status: Unutilized

Comment: 1530 sq. ft.; 2 story frame house; subject to periodic flooding; needs rehab.

Utility Bldg, Nolin River Lake

Property #:31199320002

Moutardrier Recreation Site

Co: Edmonson KY

Status: Unutilized

Comment: 541 sq. ft.; concrete block, off-site use only.

Bldg. 3

Property #:31199920001

Rough River Lake Project

Louisville Co: Breckenridge KY 40232-

Status: Excess

Comment: 496 sq. ft.; concrete block, most recent use—water treatment, off-site use only.

Land

Tract 2625

Property #:31199010025

Barkley Lake, Kentucky, and Tennessee

Cadiz Co: Trigg KY 42211-

Location: Adjoining the village of Rockcastle.

Status: Excess

Comment: 2.57 acres; rolling and wooded.

Tract 2709-10 and 2710-2

Property #:31199010026

Barkley Lake, Kentucky, and Tennessee

Cadiz Co: Trigg KY 42211-

Location: 2½ miles in a southerly direction from the village of Rockcastle.

Status: Excess

Comment: 2.00 acres; steep and wooded.

Tract 2708-1

Property #:31199010027

Barkley Lake, Kentucky, and Tennessee

Cadiz Co: Trigg KY 42211-

Location: 2½ miles in a southerly direction from the village of Rockcastle.

Status: Excess

Comment: 3.59 acres; rooling and wooded; no utilities.

Tract 2800

Property #:31199010028

Barkley Lake, Kentucky, and Tennessee

Cadiz Co: Trigg KY 42211-

Location: 4½ miles in a southeasterly direction from the village of Rockcastle.

Status: Excess

Comment: 5.44 acres; steep and wooded.

Tract 2915

Property #:31199010029

Barkley Lake, Kentucky, and Tennessee

Cadiz Co: Trigg KY 42211-

Location: 6½ miles west of Cadiz.

Status: Excess

Comment: 5.76 acres; steep and wooded; no utilities.

Tract 2702

Property #:31199010031

Barkley Lake, Kentucky, and Tennessee

Cadiz Co: Trigg KY 42211-

Location: 1 mile in a southerly direction from the village of Rockcastle.

Status: Excess

Comment: 4.90 acres; wooded; no utilities.

Tract 4318

Property #:31199010032

Barkley Lake, Kentucky, and Tennessee

Canton Co: Trigg KY 42212-

Location: Trigg Co. adjoining the city of Canton, KY on the waters of Hopson Creek.

Status: Excess

Comment: 8.24 acres; steep and wooded.

Tract 4502

Property #:31199010033

Barkley Lake, Kentucky, and Tennessee

Canton Co: Trigg KY 42212-

Location: 3½ miles in a southerly direction from Canton, KY.

Status: Excess

Comment: 4.26 acres; steep and wooded.

Tract 4611

Property #: 31199010034

Barkley Lake, Kentucky and

Tennessee

Canton Co: Trigg KY 42212-

Location: 5 miles south of Canton, KY.

Status: Excess

Comment: 10.51 acres; steep and wooded; no utilities.

Tract 4619

Property #: 31199010035

Barkley Lake, Kentucky and

Tennessee

Canton Co: Trigg KY 42212-

Location: 4½ miles south from Canton, KY.

Status: Excess

Comment: 2.02 acres; steep and wooded; no utilities.

Tract 4817

Property #: 31199010036

Barkley Lake, Kentucky and

Tennessee

Canton Co: Trigg KY 42212-

Location: 6½ miles south of Canton, KY.

Status: Excess

Comment: 1.75 acres; wooded.

Tract 1217

Property #: 31199010042

Barkley Lake, Kentucky and

Tennessee

Eddyville Co: Lyon KY 42030-

Location: On the north side of the Illinois Central Railroad.

Status: Excess

Comment: 5.80 acres; steep and wooded.

Tract 1906

Property #: 31199010044

Barkley Lake, Kentucky and

Tennessee

Eddyville Co: Lyon KY 42030-

Location: Approximately 4 miles east of Eddyville, KY.

Status: Excess

Comment: 25.86 acres; rolling steep and partially wooded; no utilities.

Tract 1907

Property #: 31199010045

Barkley Lake, Kentucky and

Tennessee

Eddyville Co: Lyon KY 42030-

Location: On the waters of Pilfen Creek, 4 miles east of Eddyville, Ky

Status: Excess

Comment: 8.71 acres; rolling steep and wooded; no utilities.

Tract 2001 #1

Property #: 31199010046

Barkley Lake, Kentucky and

Tennessee

Eddyville Co: Lyon KY 42030-

Location: Approximately 4½ miles east of Eddyville, KY.

Status: Excess

Comment: 47.42 acres; steep and wooded; no utilities.

Tract 2001 #2

Property #: 31199010047

Barkley Lake, Kentucky and

Tennessee

Eddyville Co: Lyon KY 42030-

Location: Approximately 4½ miles east of Eddyville, KY.

Status: Excess

Comment: 8.64 acres; steep and wooded; no utilities.

Tract 2005

Property #: 31199010048

Barkley Lake, Kentucky and

Tennessee

Eddyville Co: Lyon KY 42030-

Location: Approximately 5½ miles east of Eddyville, KY.

Status: Excess

Comment: 4.62 acres; steep and wooded; no utilities.

Tract 2307

Property #: 31199010049

Barkley Lake, Kentucky and

Tennessee

Eddyville Co: Lyon KY 42030-

Location: Approximately 7½ miles southeasterly of Eddyville, KY.

Status: Excess

Comment: 11.43 acres; steep; rolling and wooded; no utilities.

Tract 2403

Property #: 31199010050

Barkley Lake, Kentucky and

Tennessee

Eddyville Co: Lyon KY 42030-

Location: 7 miles southeasterly of Eddyville, KY.

Status: Excess

Comment: 1.56 acres; steep and wooded; no utilities.

Tract 2504

Property #: 31199010051

Barkley Lake, Kentucky and

Tennessee

Eddyville Co: Lyon KY 42030-

Location: 9 miles southeasterly of Eddyville, KY.

Status: Excess

Comment: 24.46 acres; steep and wooded; no utilities.

Tract 214

Property #: 31199010052

Barkley Lake, Kentucky and

Tennessee

Grand Rivers Co: Lyon KY 42045-

Location: South of the Illinois Central Railroad, 1 mile east of the Cumberland River.

Status: Excess

Comment: 5.5 acres; wooded; no utilities.

Tract 215

Property #: 31199010053

Barkley Lake, Kentucky and

Tennessee

Grand Rivers Co: Lyon KY 42045-

Location: 5 miles southwest of Kuttawa

Status: Excess

Comment: 1.40 acres; wooded; no utilities.

Tract 241

Property #: 31199010054

Barkley Lake, Kentucky and

Tennessee

Grand Rivers Co: Lyon KY 42045-

Location: Old Henson Ferry Road, 6 miles west of Kuttawa, KY.

Status: Excess

Comment: 1.26 acres; steep and wooded; no utilities.

Tracts 306, 311, 315 and 325

Property #: 31199010055

Barkley Lake, Kentucky and

Tennessee

Grand Rivers Co: Lyon KY 42045-

Location: 2.5 miles southwest of Kuttawa, KY. on the waters of Cypress Creek.

Status: Excess

Comment: 38.77 acres; steep and wooded; no utilities.

Tracts 2305, 2306, and 2400-1

Property #: 31199010056

Barkley Lake, Kentucky and Tennessee

Eddyville Co: Lyon KY 42030-

Location: 6½ miles southeasterly of Eddyville, KY.

Status: Excess

Comment: 97.66 acres; steep rolling and wooded; no utilities.

Tracts 5203 and 5204

Property #: 31199010058

Barkley Lake, Kentucky and Tennessee

Linton Co: Trigg KY 42212-

Location: Village of Linton, KY state highway 1254.

Status: Excess

Comment: 0.93 acres; rolling, partially wooded; no utilities.

Tract 5240

Property #: 31199010059

Barkley Lake, Kentucky and Tennessee

Linton Co: Trigg KY 42212-

Location: 1 mile northwest of Linton, KY.

Status: Excess

Comment: 2.26 acres; steep and wooded; no utilities.

Tract 4628

Property #: 31199011621

Barkley Lake, Kentucky and Tennessee

Canton Co: Trigg KY 42212-

Location: 4½ miles south from Canton, KY.

Status: Excess

Comment: 3.71 acres; steep and wooded; subject to utility easements.

Tract 4619-B

Property #: 31199011622

Barkley Lake, Kentucky and Tennessee

Canton Co: Trigg KY 42212-

Location: 4½ miles south from Canton, KY.

Status: Excess

Comment: 1.73 acres; steep and wooded; subject to utility easements.

Tract 2403-B

Property #: 31199011623

Barkley Lake, Kentucky and Tennessee

Eddyville Co: Lyon KY 42038-

Location: 7 miles southeasterly from Eddyville, KY.

Status: Utilized

Comment: 0.70 acres, wooded; subject to utility easements.

Tract 241-B

Property #: 31199011624

Barkley Lake, Kentucky and Tennessee

Grand Rivers Co: Lyon KY 42045-

Location: South of Old Henson Ferry Road, 6 miles west of Kuttawa, KY.

Status: Excess

Comment: 11.16 acres; steep and wooded; subject to utility easements.

Tracts 212 and 237

Property #: 311990011625

Barkley Lake, Kentucky and Tennessee

Grand Rivers Co: Lyon KY 42045-

Location: Old Henson Ferry Road, 6 miles west of Kuttawa, KY.

Status: Excess

Comment: 2.44 acres; steep and wooded; subject to utility easements.

Tract 215-B

Property #: 31199011626

Barkley Lake, Kentucky and Tennessee

Grand Rivers Co: Lyon KY 42045-

Location: 5 miles southwest of Kuttawa

Status: Excess

Comment: 1.00 acres; wooded; subject to utility easements.

Tract 233

Property #: 31199011627

Barkley Lake, Kentucky and Tennessee

Grand Rivers Co: Lyon KY 42045-

Location: 5 miles southwest of Kuttawa

Status: Excess

Comment: 1.00 acres; wooded; subject to utility easements.

Tract B—Markland Locks & Dam

Property #: 31199130002

Hwy 42, 3.5 miles downstream of Warsaw

Warsaw Co: Gallatin KY 41095-

Status: Unutilized

Comment: 10 acres, most recent use—recreational, possible periodic flooding.

Tract A—Markland Locks & Dam

Property #: 31199130003

Hwy 42, 3.5 miles downstream of Warsaw

Warsaw Co: Gallatin KY 41095-

Status: Unutilized

Comment: 8 acres, most recent use—recreational, possible periodic flooding.

Tract C—Markland Locks & Dam

Property #: 31199130005

Hwy 42, 3.5 miles downstream of Warsaw

Warsaw Co: Gallatin KY 41095-

Status: Unutilized

Comment: 4 acres, most recent use—recreational, possible periodic flooding.

Tract N-819

Property #: 31199140009

Dale Hollow Lake & Dam Project

Illwill Creek, Hwy 90

Hobart Co: Clinton KY 42601-

Status: Underutilized

Comment: 91 acres, most recent use—hunting, subject to existing easements.

Portion of Lock & Dam No. 1

Property #: 31199320003

Kentucky River

Carrolton Co: Carroll KY 41008-0305

Status: Unutilized

Comment: Approx. 3.5 acres (sloping) access monitored.

Portion of Lock & Dam No. 2

Property #: 31199320004

Kentucky River

Lockport Co: Henry KY 40036-9999

Status: Underutilized

Comment: Approx. 13.14 acres (sloping), access monitored.

Louisiana

Land

Wallace Lake Dam and Reservoir

Property #: 31199011009

Shreveport Co: Caddo LA 71103-

Status: Unutilized

Comment: 10.81 acres; wildlife/ forestry; no utilities.

Bayou Bodcau Dam and Reservoir

Property #: 31199011010

Location: 35 miles Northeast of Shreveport, La.

Status: Unutilized

Comment: 203 acres; wildlife/forestry; no utilities.

Minnesota

Land

Parcel D

Property #: 31199011038

Pine River

Cross Lake Co: Crow Wing MN 56442-

Location: 3 miles from city of Cross Lake, between highways 6 and 371.

Status: Excess

Comment: 17 acres; no utilities.

Tract 92

Property #: 31199011040

Sandy Lake

McGregor Co: Aitkins MN 55760-

Location: 4 miles west of highway 65, 15 miles from city of McGregor.

Status: Excess

Comment: 4 acres; no utilities.

Tract 98

Property #: 31199011041

Leech Lake

Benedict Co: Hubbard MN 56641-

Location: 1 mile from city of Federal Dam, Mn.

Status: Excess

Comment: 7.3 acres; no utilities.

Mississippi

Land

Parcel 7

Property #: 31199011019

Grenada Lake

Grenada Lake

Sections 22, 23, T24N

Grenada Co: Yalobusha MS 38901-0903

Status: Underutilized

Comment: 100 acres; no utilities; intermittently used under lease—expires 1994.

Parcel 8

Property #: 31199011020

Grenada Lake

Section 20, T24N

Grenada Co: Yalobusha MS 38901-0903

Status: Underutilized

Comment: 30 acres: no utilities; intermittently used under lease—expires 1994.

Parcel 9

Property #: 31199011021

Grenada Lake

Section 20, T24N, R7E

Grenada Co: Yalobusha MS 38901-0903

Status: Underutilized

Comment: 23 acres; no utilities; intermittently used under lease—expires 1994.

Parcel 10

Property #: 31199011022

Grenada Lake

Sections 16, 17, 18 T24N

R8E

Grenada Co: Calhoun MS 38901-0903

Status: Underutilized

Comment: 490 acres; no utilities; intermittently used under lease—expires 1994.

Parcel 2

Property #: 31199011023

Section 20 and T23N, R5E

Grenada Co: Grenada MS 38901-0903

Status: Underutilized

Comment: 60 acres; no utilities; most recent use—wildlife and forestry management.

Parcel 3

Property #: 31199011024

Section 4, T23N, R5E

Grenada Co: Yalobusha MS 38901-0903

Status: Underutilized

Comment: 120 acres; no utilities; most recent use—wildlife and forestry management; (13.5 acres/agriculture lease).

Parcel 4

Property #: 31199011025

Grenada Lake

Section 2 and 3. T23N, R5E

Grenada Co: Yalobusha MS 38901-0903

Status: Underutilized

Comment: 60 acres; no utilities; most recent use—wildlife and forestry management.

Parcel 5

Property #: 31199011026

Grenada Lake

Section 7, T24N, R6E

Grenada Co: Yalobusha MS 38901-0903

Sttus: Underutilized

Comment: 20 acres; no utilities; most recent use—wildlife and forestry management; (14 acres/agriculture lease).

Parcel 6

Property #: 31199011027

Grenada Lake

Section 9, T24N, R6E

Grenada Co: Yalobusha MS 38903-0903

Status: Underutilized

Comment: 80 acres; no utilities; most recent use—wildlife and forestry management.

Parcel 11

Property #: 31199011028

Grenada Lake

Section 20, T24N, R8E

Grenada Co: Calhoun MS 38901-0903

Status: Underutilized

Comment: 30 acres; no utilities; most recent use—wildlife and forestry management.

Parcel 12

Property #: 31199011029

Grenada Lake

Section 25, T24N, R7E

Grenada Co: Yalobusha MS 38390-10903

Status: Underutilized

Comment: 30 acres; no utilities; most recent use—wildlife and forestry management.

Parcel 13

Property #: 31199011030

Grenada Lake

Section 34, T24N, R7E

Grenada Co: Yalobusha MS 38903-0903

Status: Underutilized

Comment: 35 acres; no utilities; most recent use—wildlife and forestry management; (11 acres/agriculture lease).

Parcel 14

Property #: 31199011031

Grenada Lake

Section 3, T23N, R6E

Grenada Co: Yalobusha MS 28901-0903

Status: Underutilized

Comment: 15 acres; no utilities; most recent use—wildlife and forestry management.

Parcel 15

Property #: 31199011032

Grenada Lake

Section 4, T24N, R6E

Grenada Co: Yalobusha MS 38901-0903

Status: Underutilized

Comment: 40 acres; no utilities; most recent use—wildlife and forestry management;

Parcel 16

Property #: 31199011033

Grenada Lake

Section 9, T23N, R6E

Grenada Co: Yalobusha MS 38901-0903

Status: Underutilized

Comment: 70 acres; no utilities; most recent use—wildlife and forestry management;

Parcel 17

Property #: 31199011034

Grenada Lake

Section 17, T23N, R7E

Grenada Co: Yalobusha MS 28901-0903

Status: Underutilized

Comment: 35 acres; no utilities; most recent use—wildlife and forestry management;

Parcel 18

Property #: 31199011035

Grenada Lake

Section 22, T23N, R7E

Grenada Co: Yalobusha MS 28902-0903

Status: Underutilized

Comment: 10 acres; no utilities; most recent use—wildlife and forestry management;

Parcel 19

Property #: 31199011036

Grenada Lake

Section 9, T22N, R7E

Grenada Co: Yalobusha MS 28901-0903

Status: Underutilized

Comment: 20 acres; no utilities; most recent use—wildlife and forestry management;

Missouri

Land

Harry S Truman Dam & Reservoir

Property #: 31199030014

Warsaw Co: Benton MO 65355-

Location: Triangular shaped parcel southwest of access road “B”, part of Bledsoe Ferry Park Tract 150.

Status: Underutilized

Comment: 1.7 acres; potential utilities.

Ohio

Building

Barker Historic House

Property #: 31199120018

Willow Island Locks and Dam

Newport Co: Washington OH 45768-9801

Location: Located at lock site, downstream of lock and sam structure

Status: Underutilized

Comment: 1600 sq. ft. bldg. with ½ acre of land, 2 story brick frame, needs rehab. on Natl Register of Historic Places, no utilities, off-site use only.

Dwelling No. 2

Property #: 31199810005

Delaware Lake, Highway 23

North

Delaware OH 43015-

Status: Excess

Comment: 2-story brick w/basement, most recent use—residential presence of asbestors/lead paint, off-site use only.

Oklahoma

Building

Water Treatment Plant

Property #: 31199630001

Belle Starr, Eufaula Lake

Eufaula Co. McIntosh OK 74432-

Status: Excess

Comment: 16′x16′ metal, off-site use only.

Water Treatment Plant

Property #: 31199630002

Gentry Creek, Eufaula Lake

Eufaula Co. McIntosh OK 74432-

Status: Excess

Comment: 12′ x16′ metal, off-site use only.

Land

Pine Creek Lake

Property #: 31199010923

(See County) Co: McCurtain OK

Status: Unutilized

Comment: 3 acres; no utilities; subject to right of way for Oklahoma State Highway 3.

Pennsylvania

Building

Mahoning Creek Reservior

Property #: 31199210008

New Bethlehem Co: Armstrong PA 16242-

Status: Unutilized

Comment: 1015 sq. ft., 2 story brick residence, off-site use only.

Dwelling

Property #: 31199620008

Lock & Dam 6, Allegheny River, 1260 River Rd.

Freeport Co: Armstrong PA 16229-2023

Status: Unutilized

Comment: 2652 sq. ft., 3-story brick house, in close proximity to Lock and Dam, available for interim use for nonresidential purposes.

Govt. Dwelling

Property #: 31199640002

Youghiogheny River Lake

Confluence Co: Fayette PA 15424-9103

Status: Unutilized

Comment: 1421 sq. ft., 2-story brick w/basement, most recent use—residential.

Dwelling

Property #: 31199710009

Lock & Dam 4, Allegheny River

Natrona Co: Allegheny PA 15065-2609

Status: Unutilized

Comment: 1664 sq. ft., 2-story brick residence, needs repair, off-site use only.

Dwelling #1

Property #: 31199740002

Crooked Creek Lake

Ford City Co: Armstrong PA 16226-8815

Status: Excess

Comment: 2030 sq. ft., most recent use—residential, good condition, off-site use only.

Dwelling #2

Property #: 31199740003

Crooked Creek Lake

Ford City Co: Armstrong PA 16226-8815

Status: Excess

Comment: 3045 sq. ft., most recent use—residential, good condition, off-site use only.

Dwelling #3

Property #: 31199740004

Crooked Creek Lake

Ford City Co: Armstrong PA 16226-8815

Status: Excess

Comment: 1847 sq. ft., most recent use—office, good condition, off-site use only.

Govt Dwelling

Property #: 31199740005

East Branch Lake

Wilcox Co: Elk PA 15870-9709

Status: Underutilized

Comment: Approx. 5299 sq. ft., 1-story, most recent use—residence, off-site use only.

Dwelling #1

Property #: 31199740006

Loyalhanna Lake

Saltsburg Co: Westmoreland PA 15681-9302

Status: Excess

Comment: 1996 sq. ft., most recent use—residential, good condition, off-site use only.

Dwelling #2

Property #: 31199740007

Loyalhanna Lake

Saltsburg Co: Westmoreland PA 15681-9302

Status: Excess

Comment: 1996 sq. ft., most recent use—residential, good condition, off-site use only.

Dwelling #1

Property #: 31199740008

Woodcock Creek Lake

Saegertown Co: Crawford PA 16433-0629

Status: Excess

Comment: 2106 sq. ft., most recent use—residential, good condition, off-site use only.

Dwelling #2

Property #: 31199740009

Lock & Dam 6, 1260 River Road

Freeport Co: Armstrong PA 16229-2023

Status: Excess

Comment: 2652 sq. ft., most recent use—residential, good condition, off-site use only.

Dwelling #2

Property #: 31199830003

Youghiogheny River Lake

Confluence Co: Fayette PA 15424-9103

Status: Excess

Comment: 1421 sq. ft., 2-story + basement, most recent use—residential.

Residence/Office

Property #: 31199940002

Cowanesque Lake Project

Lawrenceville Co: Tioga PA 16929-

Status: Unutilized

Comment: 1653 sq. ft. residence, and 2,640 sq. ft. storage bldg., need major repairs, no operating sanitary facilities.

Land

Mahoning Creek Lake

Property #: 31199010018

New Bethlehem Co: Armstrong PA 16242-9603

Location: Route 28 north to Belknap, Road #4

Status: Excess

Comment: 2.58 acres; steep and densely wooded.

Tracts 610, 611, 612

Property #: 31199011001

Shenango River Lake

Sharpsville Co: Mercer PA 16150-

Location: I-79 North, I-80 West, Exit Sharon. R18 North 4 miles, left on R518, right on Mercer Avenue.

Status: Excess

Comment: 24.09 acres; subject to flowage easement.

Tracts L24, L26

Property #: 31199011011

Crooked Creek Lake

Co: Armstrong PA 03051-

Location: Left bank—55 miles downstream of dam.

Status: Unutilized

Comment: 7.59 acres; potential for utilities.

Portion of Tract L-21A

Property #: 31199430012

Crooked Creek Lake, LR 03051

Ford City Co.: Armstrong PA 16226-

Status: Unutilized

Comment: Approximately 1.72 acres of undeveloped land, subject to gas rights.

Tennessee

Building

Cheatham Lock & Dam

Property #: 31199520003

Tract D, Lock Road

Nashville Co: Davidson TN 37207-

Status: Unutilized

Comment: 1100 sq. ft. w/storage blgds on 7 acres, needs major rehab, contamination issues, 1 acre in fldwy, off-site use only modif. to struct. subj. to approval of St. Hist. Presv. Ofc.

Land

Tract 6827

Property #: 31199010927

Barkley Lake

Dover Co: Stewart TN 37058-

Location: 2½ miles west of Dover, TN.

Status: Excess

Comment: .57 acres; subject to existing easements

Tracts 6002-2 and 6010

Property #: 31199010928

Barkley Lake

Dover Co: Stewart TN 37058-

Location: 3½ miles south of village of Tabaccoport.

Status: Excess

Comment: 100.86 acres; subject to existing easements.

Tract 11516

Property #: 31199010929

Barkley Lake

Ashland City Co: Dickson TN 37015-

Location: ½ mile downstream from Cheatham Dam

Status: Excess

Comment: 26.25 acres; subject to existing easements.

Tract 2319

Property #: 31199010930

J. Percy Priest Dam and Resorvoir

Murfreesboro Co: Rutherford TN 37130-

Location: West of Buckeye Bottom Road

Status: Excess

Comment: 14.48 acres; subject to existing easement.

Tract 2227

Property #: 31199010931

J. Percy Priest Dam and Resorvoir

Murfreesboro Co: Rutherford TN 37130-

Location: Old Jefferson Pike

Status: Excess

Comment: 2.27 acres; subject to existing easements.

Tract 2107

Property #: 31199010932

J. Percy Priest Dam and Reservoir

Murfreesboro Co: Rutherford TN 37130-

Location: Across Fall Creek near Fall Creek camping area.

Status: Excess

Comment: 14.85 acres; subject to existing easements.

Tracts 2601, 2602, 2603, 2604

Property #: 31199010933

Cordell Hull Lake and Dam Project

Doe Row Creek

Gainesboro Co: Jackson TN 38562-

Location: TN Highway 56

Status: Unutilized

Comment: 11 acres; subject to existing easements.

Tract 1911

Property #: 31199010934

J. Percy Priest Dam and Reservoir

Murfreesboro Co: Rutherford TN 37130-

Location: East of Lamar Road

Status: Excess

Comment: 15.31 acres; subject to existing easements.

Tract 2321

Property #: 31199010935

J. Percy Priest Dam and Reservoir

Murfreesboro Co: Rutherford TN 37130-

Location: South of Old Jefferson Pike

Status: Excess

Comment: 12 acres; subject to existing easements.

Tract 7206

Property #: 31199010936

Barkley Lake

Dover Co: Stewart TN 37058-

Location: 2½ miles SE of Dover, TN.

Status: Excess

Comment: 10.15 acres; subject to existing easements.

Tract 8813, 8814

Property #: 31199010937

Barkley Lake

Cumberland Co: Stewart TN 37050-

Location: 2½ miles East of Cumberland City.

Status: Excess

Comment: 96 acres; subject to existing easements.

Tract 8911

Property #: 31199010938

Barkley Lake

Cumberland City Co: Montgomery TN 37050-

Location: 4 miles east of Cumberland City.

Status: Excess

Comment: 7.7 acres; subject to existing easements.

Tract 11503

Property #: 31199010939

Barkley Lake

Ashland City Co: Cheatham TN 37015-

Location: 2 miles downstream from Cheatham Dam.

Status: Excess

Comment: 1.1 acres; subject to existing easements.

Tracts 11523, 11524

Property #: 31199010940

Barkley Lake

Ashland City Co: Cheatham TN 37015-

Location: 2½ miles downstream from Cheatham Dam.

Status: Excess

Comment: 19.5 acres; subject to existing easements.

Tract 6410

Property #: 31199010941

Barkley Lake

Bumpus Mills Co: Stewart TN 37028-

Location: 4½ miles SW. of Bumpus Mills.

Status: Excess

Comment: 17 acres; subject to existing easements.

Tract 9707

Property #: 31199010943

Barkley Lake

Palmyer Co: Montgomery TN 37142-

Location: 3 miles NE of Palmyer, TN. Highway 149

Status: Excess

Comment: 6.6 acres; subject to existing easements.

Tract 6949

Property #: 31199010944

Barkley Lake

Dover Co: Stewart TN 37058-

Location: 1½ miles SE of Dover, TN.

Status: Excess

Comment: 29.67 acres; subject to existing easements.

Tracts 6005 and 6017

Property #: 31199011173

Barkley Lake

Dover Co: Stewart TN 37058-

Location: 3 miles south of Village of Tobaccoport.

Status: Excess

Comment: 5 acres; subject to existing easements.

Tracts K-1191, K-1135

Property #: 31199130007

Old Hickory Lock and Dam

Hartsville Co: Trousdale TN 37074-

Status: Underutilized

Comment: 92 acres (38 acres in floodway), most recent use—recreation.

Tract A-102

Property #: 31199140006

Dale Hollow Lake & Dam Project

Canoe Ridge, State Hwy 52

Celina Co: Clay TN 38551-

Status: Underutilized

Comment: 351 acres, most recent use—hunting, subject to existing easements.

Tract A-120

Property #: 31199140007

Dale Hollow Lake & Dam Project

Swann Ridge, State Hwy No. 53

Celina Co: Clay TN 38551-

Status: Underutilized

Comment: 883 acres, most recent use—hunting, subject to existing easements

Tracts A-20, A-21

Property #: 31199140008

Dale Hollow Lake & Dam Project

Red Oak Ridge, State Hwy No. 53

Celina Co: Clay TN 38551-

Status: Underutilized

Comment: 821 acres, most recent use—recreation, subject to existing easements.

Tract D-185

Property #: 31199140010

Dale Hollow Lake & Dam Project

Ashburn Creek, Hwy No. 53

Livingston Co: Clay TN 38570-

Status: Underutilized

Comment: 883 acres, most recent use—hunting, subject to existing easements.

Virginia

Building

Metal Bldg.

Property #: 31199620009

John H. Kerr Dam & Reservoir

Co: Boydton VA

Status: Excess

Comment: 800 sq. ft., most recent use—storage, off-site use only.

West Virginia

Building

Dwelling 1

Property #: 31199810003

Summersville Lake

Summersville Co: Nicholas WV 26651-9802

Status: Excess

Comment: 1200 sq. ft., presence of asbestos/lead paint, most recent use—residential, off-site use only.

Dwelling 2

Property #: 31199810004

Sutton Lake

Sutton Co: Braxton WV 26651-9802

Status: Excess

Comment: 1100 sq. ft., most recent use— residential, off-site use only.

Wisconsin

Building

Former Lockmaster's Dwelling

Property #: 31199011524

Cedar Locks

4527 East Wisconsin Road

Appleton Co: Outagamie WI 54911-

Status: Unutilized

Comment: 1224 sq. ft., 2 story brick/wood frame residence; needs rehab; secured area with alternate access.

Former Lockmaster's Dwelling

Property #: 31199011525

Appleton 4th Lock

905 South Lowe Street

Appleton Co: Outagamie WI 54911-

Status: Unutilized

Comment: 908 sq. ft., 2 story wood frame residence; needs rehab.

Former Lockmaster's Dwelling

Property #: 31199011527

Kaukauna 1st Lock

301 Canal Street

Kaukauna Co: Outagamie WI 54131-

Status: Unutilized

Comment: 1290 sq. ft.; 2 story wood frame residence; needs rehab; secured area with alternate access.

Former Lockmaster's Dwelling

Property #: 31199011531

Appleton 1st Lock

905 South Oneida Street

Appleton Co: Outagamie WI 54911-

Status: Unutilized

Comment: 1300 sq. ft.; potential utilities; 2 story wood frame residence; needs rehab; secured area with alternate access.

Former Lockmaster's Dwelling

Property #: 31199011533

Rapid Croche Lock

Lock Road

Wrightstown Co: Outagamie WI 54180-

Location: 3 miles southwest of intersection State Highway 96 and Canal Road.

Status: Unutilized

Comment: 1952 sq. ft.; 2 story wood frame residence; potential utilities; needs rehab.

Former Lockmaster's Dwelling

Property #: 31199011535

Little KauKauna Lock

Little KauKauna

Lawrence Co: Brown WI 54130-

Location: 2 miles southeasterly from intersection of Lost Dauphin Road (County Trunk Highway “D”) and River Street.

Status: Unutilized

Comment: 1224 sq. ft.; 2 story brick/wood frame residence; needs rehab.

Former Lockmaster's Dwelling

Property #: 31199011536

Little Chute, 2nd Lock

214 Mill Street

Little Chute Co: Outagamie WI 54140-

Status: Unutilized

Comment: 1224 sq. ft.; 2 story brick/wood frame residence; potential utilities; needs rehab; secured area with alternate access.

DOT

California

Building

3 Bachelor Enlisted Quarters

Property #: 87199810001

U.S. Coast Guard Station

Humboldt Bay

Samoa CA 95564-9999

Status: Unutilized

Comment: 2550 sq. ft. each, 2-story, wood, most recent use—residential, needs rehab, off-site use only.

Massachusetts

Building

Plymouth Light

Property #: 87199420003

Plymouth Co: Plymouth MA

Status: Unutilized

Comment: 250 sq. ft. tower, and 2096 sq. ft. dwelling, wood frame, most recent use—aid to navigation/housing.

ENERGY

Missouri

Building

Bldg. 82

Property #: 41199930031

Kansas City Plant

Bannister Road

Kansas City Co: MO 00000-

Status: Excess

Comment: 128 sq. ft., concrete, off-site use only.

Bldg. 83

Property #: 41199930032

Kansas City Plant

Bannister Road

Kansas City Co: MO 00000-

Status: Excess

Comment: 166 sq. ft., concrete, off-site use only.

GSA

California

Building

Calexico Border Patrol Station

Property #: 54199930007

813 Andrade Avenue

Calexico Co: CA 00000-

Status: Excess

Comment: 7420 sq. ft.

GSA Number: 9-J-CA-1539

District of Columbia

Building

William A. White Bldg.

Property #: 54199930006

2700 Martin Luther King Ave., SE

Washington Co: 20032-

Status: Excess

Comment: 150,952 sq. ft. on 2 acres, needs repair, presence of asbestos/lead paint, controlled access, mental hospital campus.

GSA Number: 4-F-DC-479

Florida

Building

Crooked River Lighthouse

Property #: 54199940017

Carrabelle Co: Franklin FL 32322-

Status: Excess

Comment: Lighthouse on 1.29 acres, possible lead base paint, listed on National Register of Historic Places.

GSA Number: 4-U-FL-1165

Illinois

Building

Homewood Natl Guard Facility

Property #: 54199940002

1300 West 187th Street

Homewood Co: Cook IL 60430-

Status: Excess

Comment: 4 old barracks, 5 storage bldgs., 1 guard house, need major repairs.

GSA Number: 5-D-IL-651

Army Reserve Center

Property #: 54199940008

1881 East Fremont Street

Galesburg Co: Know IL 61401-

Status: Excess

Comment: 2 brick buildings (6117 & 1325 sq. ft.), utilities turned off, need repairs, most recent use—storage

GSA Number: 1-D-IL-720

Kentucky

Land

Segments 15-19

Property #: 54199940009

South Williamson Project

S. Williamson Co: Pike KY 41503-

Status: Excess

Comment: 30.4 acres/105 tracts, special floodplain restrictions

GSA Number: 4-D-KY-608

Louisiana

Land

Sulphur Mines Well Site

Property #: 54199930026

Highway 90-W

Sulphur Co: Calcasieu Parish LA 70663-

Status: Surplus

Comment: 68.02 acres w/4 capped brine injection wells, majority of land densely wooded, located on Gulf Coastal Plain

GSA Number: 7-B-UT-431-M

Maryland

Building

Washington Court Apartments

Property #: 54199940005

Maryland Rt. 755

Edgewood Co: Harford MD 21040-

Status: Excess

Comment: 55 bldgs. housing 276 apartments, (2 to 4 bedrooms), need repairs, presence of lead based paint

GSA Number: 4-D-MD-559

Minnesota

Building

GAP Filler Radar Site

Property #: 54199910009

St. Paul Co: Rice MN 55101-

Status: Excess

Comment: 1266 sq. ft., concrete block, presence of asbestos/lead paint, most recent use—storage, zoning requirements

GSA Number: 1-GR (1)-MN-475

MG Clement Trott Mem. USARC

Property #: 54199930003

Walker Co: Cass MN 56484-

Status: Excess

Comment: 4320 sq. ft. training center and 1316 sq. ft. vehicle maintenance shop, presence of environmental conditions

GSA Number: 1-D-MN-575

Missouri

Building

Hardesty Federal Complex

Property #: 54199940001

607 Hardesty Avenue

Kansas City Co: Jackson MO 64124-3032

Status: Excess

Comment: 7 warehouses and support buildings (540 to 216,000 sq. ft.) on 17.47 acres, major rehab, most recent use—storage/office, utilities easement

GSA Number: 7-G-MO-637

New Jersey

Building

Barnegat Recreation Facility

Property #: 54199930001

Corner 7th St/Longbeach Blvd.

Barnegat Light Co: NJ 08006-

Status: Surplus

Comment: 2700 Sq. Ft. Cottage on 0.69 acres, presence of asbestos/lead paint, eligible for Historic Register, floodplain, endangered species in area

GSA Number: 1-U-NJ-0641

New York

Building

“Terry Hill”

Property #: 541998830008

County Road 51

Manorville NY

Status: Surplus

Comment: 2 block structures, 780/272 sq. ft., no sanitary facilities, most recent use—storage/comm. facility, w/6.19 acres in fee and 4.99 acre easement, remote area

GSA Number: 1-D-NY-864

Binghampton Depot

Property #: 54199910015

Nolans Road

Binghampton Co: NY 00000-

Status: Excess

Comment: 45,977 sq. ft., needs repair, presence of asbestos, most recent use—office

GSA Number: 1-G-NY-760A

Ohio

Building

Lorain Housing

Property #: 54199840006

238-240 Augusta Ave.

Lorain OH 44051-

Status: Excess

Comment: 3000 sq. ft. duplex, 2-story, good condition, possible lead based paint, existing easements

GSA Number: 1-U-OH-814

Land

Jersey Tower Site

Property #: 54199910013

Tract No. 100 & 100E

Jersey Co: Licking OH 00000-

Status: Surplus

Comment: 4.24 acres, subject to preservation of wetlands

GSA Number: 1-W-OH-813

Pennsylvania

Building

Rices Landing

Property #: 54199930009

Tracts A-L; 1-4

Old Lock & Dam #6

Rices Landing Co: Greene PA 15357-

Status: Excess

Comment: 2 residences—1400 sq. ft. ea., need repairs, 1 metal warehouse 1 shed, possible asbestos/lead paint

GSA Number: 4-D-PA-0786

Puerto Rico

Land

Bahia Rear Range Light

Property #: 51499940003

Ocean Drive

Catano Co: PR 00632-

Status: Excess

Comment: 0.167 w/skeletal tower, fenced, aid to navigation

GSA Number: 1-T-PR-508

Tennessee

Building

3 Facilities, Guard Posts

Property #: 51499930011

Volunteer Army Ammunition

Plant

Chattanooga Co: Hamilton TN 37421-

Status: Surplus

Comment: 48-64 sq. ft., most recent use—access control

GSA Number: 4-D-TN-594F

4 Bldgs.

Property #: 51499930012

Volunteer Army Ammunition

Plant

Railroad System Facilities

Chattanooga Co: Hamilton TN 37421-

Status: Surplus

Comment: 144-2,420 sq. ft., most recent use—storage/rail weighing facilities/dock, potential use restrictions

GSA Number: 4-D-TN-594F

8 Bldgs.

Property #: 51499930013

Volunteer Army Ammunition

Plant

Missile Assembly

Chattanooga Co: Hamilton TN 37421-

Status: Surplus

Comment: concrete block bldgs. on approx. 100 acres, most recent use—assembly/storage/buffer, potential use restrictions

GSA Number: 4-D-TN-594F

200 bunkers

Property #: 51499930014

Volunteer Army Ammunition

Plant

Storage Magazines

Chattanooga Co: Hamilton TN 37421-

Status: Surplus

Comment: approx. 200 concrete bunkers covering a land area of approx. 4000 acres, most recent use—storage/buffer area, potential use restrictions

GSA Number: 4-D-TN-594F

Bldg 232

Property #: 51499930020

Volunteer Army Ammunition

Plant

Chattanooga Co: Hamilton TN 37421-

Status: Surplus

Comment: 10,000 sq. ft., most recent use—office, presence of asbestos, approx. 5 acres associated w/bldg., potential use restrictions

GSA Number: 4-D-TN-594F

2 Laboratories

Property #: 51499930021

Volunteer Army Ammunition

Plant

Chattanooga Co: Hamilton TN 37421-

Status: Surplus

Comment: 2000-12,000 sq. ft., potential use/lease restrictions

GSA Number: 4-D-TN-594F

3 Facilities

Property #: 54199930022

Volunteer Army Ammunition

Plant

Water Distribution

Facilities

Chattanooga Co: Hamilton TN 37421-

Status: Surplus

Comment: 256-15,204 sq. ft., 35.86 acres associated w/bldgs., most recent use—water distribution system, potential use/lease restrictions

GSA Number: 4-D-TN-594F

Land

1500 acres

Property #: 54199930015

Volunteer Army Ammunition

Plant

Chattanooga Co: Hamilton TN 37421-

Status: Surplus

Comment: scattered throughout facility, most recent use—buffer area, steep topography, potential use restrictions

GSA Number: 4-D-TN-594F

Texas

Building

Formerly Naval Rsv Center

Property #: 54199940019

1818 N. Confederate St.

Tyler Co: Smith TX 75702-

Status: Surplus

Comment: 11,370 sq. ft. bldg./.96 acres, most recent use—reserve center/office, subject to existing easements

GSA Number: 7-N-TX-984A

Utah

Building

Salt Lake City Admin. Bldg.

Property #: 54199930005

1745 W 1700 S

Salt Lake City Co: UT 84104-

Status: Surplus

Comment: 36,060 sq. ft., 2-story concrete/brick, needs repair, presence of asbestos, most recent use—office/storage

GSA Number: 7-G-UT-429

Land

Monticello Mill Tailings Site

Property #: 54919940020

Monticello Co: San Juan UT 00000-

Status: Excess

Comment: 383.24 acres, listed as an EPA NPL Site—clean up in process, floodplain

GSA Number: 7-B-UT-431-M

Virginia

Building

Army Reserve Center

Property #: 54199930010

1 West Church St.

Martinsville Co: Henry VA 24112-

Status: Excess

Comment: 12,225 sq. ft., 3 stories, most recent use—office, 2,250 sq. ft. leased to Postal Service

GSA Number: 4-D-VA-719

Washington

Building

Moses Lake U.S. Army Rsv Ctr

Property #: 21199630118

Grant County Airport

Moses Lake Co: Grant WA 98837-

Status: Surplus

Comment: 4499 sq. ft./2.86 acres, most recent use—admin., temporary permit from COE granted to an organization, FAA recommended land not be used for residential use due to aircraft noise problem, restriction

GSA Number: 9-D-WA-1141

Wisconsin

Building

Naval Reserve Center

Property #: 541999830002

215 South Eagle Street

Oshkosh Co: Winnebago WI 54903-

Status: Excess

Comment: 16,260 sq. ft., excellent condition, presence of asbestos/lead paint, most recent use—office

GSA Number: 1-N-WI-596

Army Reserve Center

Property #: 54199940004

401 Fifth Street

Kewaunee Co: WI 54216-1838

Status: Excess

Comment: 2 admin. bldgs. (15,593 sq. ft.), 1 garage (1325 sq. ft.), need repairs

GSA Number: 1-D-WI-597

INTERIOR

Arizona

Land

Harry B. Christman Property

Property #: 61199910012

N. of Missile Base Road

Case No. 91-012

Marana Co: Pinal AZ 85245-

Status: Unutilized

Comment: 2.97 acres of vacant desert

Massachusetts

Building

Crowell Shed

Property #: 61199940010

Tract 41-8673

Chatham Co: Barnstable MA 02633-

Status: Unutilized

Comment: 120 sq. ft. storage shed, access via 4-wheel drive only over sand trail, off-site use only

Katz, Tract 17-2724

Property #: 61199940002

10 Old King‘s Highway

Truro Co: Barnstable MA 02666-

Status: Unutilized

Comment: 878 sq. ft., cement block, most recent use—residential, off-site use only

Carnelia, Tract 17-2725

Property #: 61199940003

12 Old King‘s Highway

Truro Co: Barnstable MA 02666-

Status: Unutilized

Comment: 1391 sq. ft., concrete block, most recent use—residential, off-site use only

Simons, Tract 17-2787

Property #: 61199940004

6 Head of Pamet Way

Truro Co: Barnstable MA 02666-

Status: Unutilized

Comment: 1600 sq. ft., most recent use—residential, off-site use only

Moss, Tract 17-2788

Property #: 61199940005

425 Ocean View Drive

Truro Co: Barnstable MA 02666-

Status: Unutilized

Comment: 2496 sq. ft. residence plus 2 outbuildings, off-site use only

Barracks 38, 39

Property #: 61199940006

Off Old Dew Line Road

Truro Co: Barnstable MA 02666-

Status: Unutilized

Comment: 5710 sq. ft., 2-story presence of asbestos, off-site use only

Gips, Tract 21-4837

Property #: 61199940007

188 Way #626

Wellfleet Co: Barnstable MA 02667-

Status: Unutilized

Comment: 2015 sq. ft., concrete block, most recent use—residential off-site use only

Weidlinger 19-4136

Property #: 61199940008

Valley Road

Wellfleet Co: Barnstable MA 02667-

Status: Unutilized

Comment: 1855 sq. ft., most recent use—residential, off-site use only

Mississippi

Building

Quarters 163

Property #: 61199910003

Natchez Trace Parkway

Ridgeland Co: Madison MS 39157-

Status: Excess

Comment: 1121 sq. ft., most recent use—residential, presence of asbestos, off-site use only

Quarters 183

Property #: 61199910004

Natchez Trace Parkway

Kosciusko Co: Attala MS 39090-

Status: Excess

Comment: 1121 sq. ft., presence of absbestos, most recent use—residential, off-site use only.

Quarters 190

Property #: 61199910005

Natchez Trace Parkway

Port Gibson Co: Claiborne MS 39050-

Status: Excess

Comment: 1121 sq. ft., presence of absbestos, most recent use—residential, off-site use only.

Quarters 194

Property #: 61199910006

Natchez Trace Parkway

Ackerman Co: Choctaw MS 39725-

Status: Excess

Comment: 1121 sq. ft., presence of absbestos, most recent use—residential, off-site use only.

Quarters 258

Property #: 61199910007

Natchez Trace Parkway

Carlisle Co: Claiborne MS 39049-

Status: Excess

Comment: 1121 sq. ft., presence of absbestos, most recent use—residential, off-site use only.

New Mexico

Building

Roberts, Thomas A

Property #: 61199910017

#70, County Rd. 2900

Aztec Co: San Juan NM 87410-

Status: Excess

Comment: 2895 sq. ft., most recent use—residential, off-site use only.

Tennessee

Building

01-200

Property #: 61199910018

Stones River Natl

Battlefield

Murfreesboro Co: Rutherford TN 37129-

Status: Excess

Comment: 1596 sq. ft., most recent use—residential, off-site use only.

01-201

Property #: 61199910019

Stones River Natl

Battlefield

2042 Mansion Pike

Murfreesboro Co: Rutherford TN 37129-

Status: Excess

Comment: 3196 sq. ft., most recent use—residential, off-site use only.

Texas

Building

Tract 105-79

Property #: 61199910013

9047 Espada Rd,

San Antonio Co: Bexar TX 78214-

Status: Unutilized

Comment: 712 sq. ft., most recent use—residence, off-site use only.

NAVY

California

Building

Bldg. 105QA

Property #: 77199830002

Naval Station, San Diego

Mission Gorge Recreation Center

San Diego CA 92136-

Status: Excess

Comment: 1000 sq. ft., needs repair, most recent use—water treatment facility, off-site use only.

Bldg. 102QA

Property #: 77199830003

Naval Station, San Diego

Mission Gorge Recreation Center

San Diego CA 92136-

Status: Excess

Comment: 6138 sq. ft., needs repair, most recent use—pro shop, off-site use only.

Bldg. 118QA

Property #: 77199830004

Naval Station, San Diego

Mission Gorge Recreation Center

San Diego CA 92136-

Status: Excess

Comment: 5635 sq. ft., needs repair, most recent use—coffee shop-grille, off-site use only.

Bldg. 119QA

Property #: 77199830005

Naval Station, San Diego

Mission Gorge Recreation Center

San Diego CA 92136-

Status: Excess

Comment: 1277 sq. ft., needs repair, most recent use—lockers, off-site use only.

Bldg. 129QA

Property #: 77199830006

Naval Station, San Diego

Mission Gorge Recreation Center

San Diego CA 92136-

Status: Excess

Comment: 2832 sq. ft., needs repair, most recent use—patio cover, off-site use only.

Bldg. 140QA

Property #: 77199830007

Naval Station, San Diego

Mission Gorge Recreation Center

San Diego CA 92136-

Status: Excess

Comment: 1648 sq. ft., needs repair, most recent use—golf cart battery shop, off-site use only.

Bldg. 176QA

Property: #: 77199830008

Naval Station, San Diego Mission Gorge Recreation Center

San Diego CA 92136-

Status: Excess

Comment: 5200 sq. ft., needs repair, most recent use—golf cart shelter, off-site use only.

Bldg. 193

Property: #77199830112

Naval Station

San Diego CA 92136-5294

Status: Excess

Comment: 780 sq. ft., needs major repairs, most recent use—utility plant, off-site use only.

Bldg. 203

Property: #77199830113

Naval Station

San Diego CA 92136-5294

Status: Excess

Comment: 360 sq. ft., needs major repairs, most recent use—valve house, off-site use only.

Bldg. 228

Property: #77199830114

Naval Station

San Diego CA 92136-5294

Status: Excess

Comment: 6142 sq. ft., needs major repairs, most recent use—workshop, off-site use only.

Bldg. 286

Property: #77199830115

Naval Station

San Diego CA 92136-5294

Status: Excess

Comment: 23,760 sq. ft., needs major repairs, most recent use—shop, off-site use only.

Bldg. 308

Property: #77199830116

Naval Station

San Diego CA 92136-5294

Status: Excess

Comment: 3400 sq. ft., needs major repairs, most recent use—workshop, off-site use only.

Bldg. 314

Property: #77199830117

Naval Station

San Diego CA 92136-5294

Status: Excess

Comment: 160 sq. ft., most recent use—use—water treatment facility, off-site use only.

Bldg. 315

Property: #77199830118

Naval Station

San Diego CA 92136-5294

Status: Excess

Comment: 160 sq. ft., needs major repairs, most recent use—water treatment facility, off-site use only.

Bldg. 335

Property: #77199830119

Naval Station

San Diego CA 92136-5294

Status: Excess

Comment: 14,000 sq. ft., needs major repairs, most recent use—workshop, off-site use only.

Bldg. 398

Property: #77199830120

Naval Station

San Diego CA 92136-5294

Status: Excess

Comment: 1530 sq. ft., needs major repairs, most recent use—admin., off-site use only.

Bldg. 3201

Property: #77199830121

Naval Station

San Diego CA 92136-5294

Status: Excess

Comment: 1750 sq. ft., needs major repairs, most recent use—workshop, off-site use only.

Connecticut

Building

Pier 7

Property: #77199710063

Naval Undersea Warfare Center

New London Co: New London CT 06320-5594

Status: Excess

Comment: 700′ long by 30′ wide, rectangular shaped reinforced concrete pier

Bldg. 84, Anx. of Gilmore Hall

Property: #77199830009

Naval Submarine Base New London

Groton Co: New London CT 06349-

Status: Excess

Comment: 5400 sq. ft., 2-story, presence of asbestos/lead paint, needs rehab, off-site use only.

Bldg. 150, McNeil Hall

Property: #: 77199830010

Naval Submarine Base New London

Groton Co: New London CT 06349-

Status: Excess

Comment: 27,120 sq. ft., 4-story, presence of asbestos/lead paint, needs rehab, off-site use only.

Bldg. 437, Fife Hall

Property: #77199830011

Naval Submarine Base New London

Groton Co: New London CT 06349-

Status: Excess

Comment: 51,790 sq. ft., 3-story, presence of asbestos/lead paint, needs rehab, off-site use only.

Bldg. 295

Property: #77199830012

Naval Submarine Base New London

Groton Co: New London CT 06349-

Status: Excess

Comment: presence of asbestos/lead paint, needs rehab, off-site use only.

Facility CH-901

Property #: 77199830045

Naval Submarine Base

Co: New London CT

Status: Excess

Comment: 6161 sq. ft., needs rehab, presence of asbestos/lead paint, most recent use—community center, off-site use only.

3 Bldgs

Property #: 77199910019

Naval Submarine Base

R121444, R121458, R121469

Ledyard Co: New London CT 06335-

Status: Unutilized

Comment: Various sq. ft., wood, possible asbestos/lead paint, most recent use—storage, off-site use only.

DG-12, DG-14, DG28-DG46

Property #: 77199930026

Naval Submarine Base New London

Gorton Co: New London CT 06349-

Status: Unutilized

Comment: 19 detached garages, off-site use only.

Hawaii

Building

Bldg. S87, Radio Trans. Facility

Property #: 77199240011

Lualualei, Naval Station, Eastern Pacific

Wahiawa Co: Honolulu HI 96786-3050

Status: Unutilized

Comment: 7566 sq. ft., 1-story, needs rehab, most recent use—storage, off-site use only.

Bldg. 64, Radio Trans. Facility

Property #: 77199310004

Naval Computer & Telecommunications Area

Wahiawa Co: Honolulu HI 96786-3050

Status: Unutilized

Comment: 3612 sq. ft., 1-story, access restrictions, needs rehab, most recent use—storage, off-site use only.

Bldg. 442

Property #: 77199630088

Naval Station, Ford Island

Pearl Harbor Co: Honolulu HI 96860-

Status: Excess

Comment: 192 sq. ft., most recent use—storage, off-site use only.

Bldg. S180

Property #: 77199640039

Naval Station, Ford Island

Pearl Harbor Co: Honolulu HI 96860-

Status: Unutilized

Comment: 3412 sq. ft., 2-story, most recent use—bomb shelter, off-site use only, relocation may not be feasible.

Bldg. S181

Property #: 77199640040

Naval Station, Ford Island

Pearl Harbor Co: Honolulu HI 96860-

Status: Unutilized

Comment: 4248 sq. ft., 1-story, most recent use—bomb shelter, off-site use only, relocation may not be feasible.

Bldg. 219

Property #: 77199640041

Naval Station, Ford Island

Pearl Harbor Co: Honolulu HI 96860-

Status: Unutilized

Comment: 620 sq. ft., most recent use—damage control, off-site use only, relocation may not be feasible.

Bldg. 220

Property #: 77199640042

Naval Station, Ford Island

Pearl Harbor Co: Honolulu HI 96860-

Status: Unutilized

Comment: 620 sq. ft., most recent use—damage control, off-site use only, relocation may not be feasible.

Bldg. 160

Property #: 77199840002

Naval Station, Pear Harbor

Pearl Harbor Co: Honolulu HI 96860-

Status: Excess

Comment: 6070 sq. ft., needs rehab, presence of lead paint, most recent use—storage/office, off-site use only.

Facility No. 92

Property #: 77199930076

Naval Computer & Telecom.

Area Master Station

Wahiawa Co: HI 96786-

Status: Excess

Comment: 1008 sq. ft., needs rehab, most recent use—storage, off-site use only.

Facility No. 99

Property #: 77199930077

Naval Computer & Telecom.

Area Master Station

Wahiawa Co: HI 96786-

Status: Excess

Comment: 544 sq. ft., concrete, needs rehab, presence of asbestos, most recent use—storage, off-site use only.

Facility No. 127

Property #: 77199930078

Naval Computer & Telecom.

Area Master Station

Wahiawa Co: HI 96786-

Status: Excess

Comment: 198 sq. ft., needs rehab, presence of asbestos, most recent use—storage, off-site use only.

Facility No. 227

Property #: 77199930079

Naval Computer & Telecom.

Area Master Station

Wahiawa Co: HI 96786-

Status: Excess

Comment: 2240 sq. ft., needs rehab, presence of asbestos, most recent use—weight room, off-site use only.

Facility No. 285

Property #: 77199930080

Naval Computer & Telecom.

Area Master Station

Wahiawa Co: HI 96786-

Status: Excess

Comment: 418 sq. ft., needs rehab, most recent use—storage, off-site use only.

Bldg. 5175

Property #: 77199940033

Naval Public Works

Iroquois Ave.

Ewa Beach Co: Honolulu HI 96706-

Status: Excess

Comment: 1328 sq. ft., possible asbestos/lead paint, most recent use—residence, off-site use only.

Bldg. 5179

Property #: 77199940034

Naval Public Works

Iroquois Ave.

Ewa Beach Co: Honolulu HI 96706-

Status: Excess

Comment: 1328 sq. ft., possible asbestos/lead paint, most recent use—residence, off-site use only.

Bldg. 5183

Property #: 77199940035

Naval Public Works

Iroquois Ave.

Ewa Beach Co: Honolulu HI 96706-

Status: Excess

Comment: 1328 sq. ft., possible asbestos/lead paint, most recent use—residence, off-site use only.

Bldg. 5187

Property #: 77199940036

Naval Public Works

Iroquois Ave.

Ewa Beach Co: Honolulu HI 96706-

Status: Excess

Comment: 1328 sq. ft., possible asbestos/lead paint, most recent use—residence, off-site use only.

Bldg. 5191

Property #: 77199940037

Naval Public Works

Iroquois Ave.

Ewa Beach Co: Honolulu HI 96705-

Status: Excess

Comment: 1328 sq. ft., possible asbestos/lead paint, most recent use—residence, off-site use only.

Bldg. 5193

Property #: 77199940038

Naval Public Works

Iroquois Ave.

Ewa Beach Co: Honolulu HI 96706-

Status: Excess

Comment: 1328 sq. ft., possible asbestos/lead paint, most recent use—residence, off-site use only.

Maine

Building

Bldg. 22

Property #: 77199840008

Naval Air Station

Brunswick Co: Cumberland ME 04011-

Status: Excess

Comment: 2687 sq. ft., needs rehab, presence of asbestos/lead paint, most recent use—storage, off-site use only.

Bldg. 36

Property #: 77199840009

Naval Air Station

Brunswick Co: Cumberland ME 04011-

Status: Excess

Comment: 8840 sq. ft., most recent use—storage, off-site use only.

Bldg. 38

Property #: 77199840010

Naval Air Station

Brunswick Co: Cumberland ME 04011-

Status: Excess

Comment: 19,612 sq. ft., needs rehab, presence of asbestos/lead paint, most recent use—office, off-site use only.

Bldg. 234

Property #: 77199840011

Naval Air Station

Brunswick Co: Cumberland ME 04011-

Status: Excess

Comment: 768 sq. ft., presence of asbestos/lead paint, most recent use—generator bldg., off-site use only.

Bldg. 4

Property #: 77199930005

Naval Air Station

Brunswick Co: 04011-

Status: Excess

Comment: 16,644 sq. ft., presence of asbestos/lead paint, most recent use—headquarters building, off-site use only.

Bldg. 8

Property #: 77199930006

Naval Air Station

Brunswick Co: ME 04011-

Status: Excess

Comment: 7413 sq. ft., presence of asbestos/lead paint, most recent use—public works building, off-site use only.

Bldg. 12

Property #: 77199930007

Naval Air Station

Brunswick Co: ME 04011-

Status: Excess

Comment: 25,353 sq. ft., presence of asbestos/lead paint, most recent use—admin., off-site use only.

Bldg. 41

Property #: 77199930008

Naval Air Station

Brunswick Co: ME 04011-

Status: Excess

Comment: 10,526 sq. ft., presence of asbestos/lead paint, most recent use—security building, off-site use only.

Bldg. 224

Property #: 77199930009

Naval Air Station

Brunswick Co: Me 04011-

Status: Excess

Comment: 8000 sq. ft., presence of asbestos/lead paint, most recent use—thrift shop, off-site use only.

Bldg. 6

Property #: 77199940039

NAS Brunswick

Brunswick Co: Cumberland ME 04011-

Status: Excess

Comment: 1973 sq. ft., presence of asbestos/lead paint, most recent use—storage, off-site use only.

Bldg. 9

Property #: 77199940040

NAS Brunswick

Brunswick Co: Cumberland ME 04011-

Status: Excess

Comment: 8888 sq. ft., presence of asbestos/lead paint, most recent use—housing office, off-site use only.

Bldg. 28

Property #: 77199940041

NAS Brunswick

Brunswick Co: Cumberland ME 04011-

Status: Excess

Comment: 784 sq. ft., presence of asbestos/lead paint, most recent use—liquid oxygen bldg., off-site use only.

Bldg. 48

Property #: 77199940042

NAS Brunswick

Brunswick Co: Cumberland ME 04011-

Status: Excess

Comment: 3260 sq. ft., presence of asbestos/lead paint, most recent use—carpenter shop, off-site use only.

Bldg. 51

Property #: 77199940043

NAS Brunswick

Brunswick Co: Cumberland ME 04011-

Status: Excess

Comment: 1870 sq. ft., presence of asbestos/lead paint, most recent use—paint shop, off-site use only.

Bldg. 73

Property #: 77199940044

NAS Brunswick

Brunswick Co: Cumberland ME 04011-

Status: Excess

Comment: 64 sq. ft., presence of asbestos/lead paint, most recent use—storage, off-site use only.

Bldg. 74

Property #: 77199940045

NAS Brunswick

Brunswick Co: Cumberland ME 04011-

Status: Excess

Comment: 3072 sq. ft., presence of asbestos/lead paint, most recent use—storage, off-site use only.

Bldg. 75

Property #: 77199940046

NAS Brunswick

Brunswick Co: Cumberland ME 04011-

Status: Excess

Comment: 332 sq. ft., presence of asbestos/lead paint, most recent use—storage, off-site use only.

Bldg. 88

Property #: 77199940047

NAS Brunswick

Brunswick Co: Cumberland ME 04011-

Status: Excess

Comment: 1462 sq. ft., presence of asbestos/lead paint, most recent use—storage, off-site use only.

Bldg. 94

Property #: 77199940048

NAS Brunswick

Brunswick Co: Cumberland ME 04011-

Status: Excess

Comment: 64 sq. ft., presence of asbestos/lead paint, most recent use—storage, off-site use only.

Bldg. 209

Property #: 77199940049

NAS Brunswick

Brunswick Co: Cumberland ME 04011-

Status: Excess

Comment: 2283 sq. ft., presence of asbestos/lead paint, most recent use—union bldg., off-site use only.

Bldg. 233

Property #: 77199940050

NAS Brunswick

Brunswick Co: Cumberland ME 04011-

Status: Excess

Comment: 24,048 sq. ft., presence of asbestos/lead paint, most recent use—heating plant, off-site use only.

Bldg. 1157

Property #: 77199940051

NAS Brunswick

Brunswick Co: Cumberland ME 04011-

Status: Excess

Comment: 1474 sq. ft., presence of asbestos/lead paint, most recent use—storage, off-site use only.

New Hampshire

Building

Bldg. 246

Property #: 77199820028

Portsmouth Naval Shipyard

Portsmouth NH 03804-5000

Status: Unutilized

Comment: metal frame structure, off-site use only.

Bldg. 335

Property #: 77199820029

Portsmouth Naval Shipyard

Portsmouth NH 03804-5000

Status: Unutilized

Comment: 1000 sq. ft., brick, off-site use only.

Bldg. 128

Property #: 77199830015

Portsmouth Naval Shipyard

Portsmouth NH 03804-5000

Status: Excess

Comment: 10,900 sq. ft., needs rehab, presence of asbestos, most recent use—storage, off-site use only.

Bldg. 185

Property #: 77199830016

Portsmouth Naval Shipyard

Portsmouth NH 03804-5000

Status: Excess

Comment: 2310 sq. ft., needs rehab, presence of asbestos, most recent use—office, off-site use only.

Bldg. 314

Property #: 77199830017

Portsmouth Naval Shipyard

Portsmouth NH 03804-5000

Status: Excess

Comment: cement block bldg., needs rehab, presence of asbestos, most recent use—storage, off-site use only.

Bldg. 336

Property #: 77199830018

Portsmouth Naval Shipyard

Portsmouth NH 03804-5000

Status: Excess

Comment: metal bldg w/cement block foundation, off-site use only.

Bldg. H-2

Property #: 77199910044

Portsmouth Naval Shipyard

Portsmouth NH Co: 03804-5000

Status: Unutilized

Comment: 1103 sq. ft., possible asbestos, off-site use only.

Bldg. IY44

Property #: 77199910045

Portsmouth Naval Shipyard

Portsmouth NH Co: 03804-5000

Status: Unutilized

Comment: 1100 sq. ft., possible asbestos, most recent use—small arms magazine, off-site use only.

Bldg. 160

Property #: 77199910046

Portsmouth Naval Shipyard

Portsmouth NH Co: 03804-5000

Status: Unutilized

Comment: 6080 sq. ft., possible asbestos, most recent use—storage, off-site use only.

Bldg. 97

Property #: 77199920064

Portsmouth Naval Shipyard

Portsmouth NH 03804-5000

Status: Unutilized

Comment: 573 sq. ft., most recent use—scale house/storage, off-site use only.

New Jersey

Building

Naval Reserve Center

Property #: 77199930038

53 Hackensack Ave.

Kearny Co: Hudson NJ 07302-

Status: Excess

Comment: 12,180 sq. ft., minor repairs needed on 2.63 acres, most recent use—office.

Bldg. D1-A

Property #: 77199940024

Naval Weapons Station

Colts Neck Co: NJ 07722-

Status: Unutilized

Comment: 1134 sq. ft., presence of lead paint, most recent use—smokehouse/lunchroom, off-site use only.

Bldg. HA-1A

Property #: 77199940025

Naval Weapons Station

Colts Neck Co: NJ 07722-

Status: Unutilized

Comment: 120 sq. ft., most recent use—storage, off-site use only.

New York

Building

101 Housing Units

Property #: 77199810093

Mitchel Complex

82B Mitchel Avenue

East Meadow Co: Nassau NY 11554-

Status: Unutilized

Comment: 422 sq. ft., frame 2-story, presence of asbestos/lead paint, most recent use—residential, off-site use only.

36 Garages

Property #: 77199810094

Mitchel Complex

East Meadow Co: Nassau NY 11554-

Status: Unutilized

Comment: 350 sq. ft., masonary, most recent use—garage, off-site use only.

Naval Reserve Center

Property #: 77199840017

201 Third Avenue

Frankfort NY 13340-1419

Status: Unutilized

Comment: 10,000 sq. ft., most recent use—training facility.

Pennsylvania

Building

Bldg. 76

Property #: 77199730075

Naval Inventory Control Point

Philadelphia Co: Philadelphia PA 19111-5098

Status: Excess

Comment: 3475 sq. ft., cinder block/metal, most recent use—child care, needs repair, off-site use only.

Bldg. 44

Property #: 77199830093

Philadelphia Naval Shipyard

Philadelphia PA 19112-

Status: Excess

Comment: 2154 sq. ft., needs repair, presence of asbestos, most recent use—medical clinic, off-site use only.

Bldg. 48

Property #: 77199830094

Philadelphia Naval Shipyard

Philadelphia PA 19112-

Status: Excess

Comment: 2737 sq. ft., needs repair, presence of asbestos, most recent use—admin., off-site use only.

Bldg. 49

Property #: 77199830095

Philadelphia Naval Shipyard

Philadelphia PA 19112-

Status: Excess

Comment: 3263 sq. ft., needs repair, presence of asbestos, most recent use—admin., off-site use only.

Bldg. 64

Property #: 77199830096

Philadelphia Naval Shipyard

Philadelphia PA 19112-

Status: Excess

Comment: 3157 sq. ft., needs major repairs, presence of asbestos, most recent use—office, off-site use only

Bldg. 65 U/V

Property #: 77199830097

Philadelphia Naval Shipyard

Philadelphia PA 19112-

Status: Excess

Comment: 4829 sq. ft., needs repair, presence of asbestos, most recent use—quarters, off-site use only

Bldg. 133

Property #: 77199830098

Philadelphia Naval Shipyard

Philadelphia PA 19112-

Status: Excess

Comment: 27,600 sq. ft., needs repairs, presence of asbestos, most recent use—admin., off-site use only

Bldg. 337

Property #: 77199830099

Philadelphia Naval Shipyard

Philadelphia PA 19112-

Status: Excess

Comment: 1025 sq. ft., needs major repairs, presence of asbestos, most recent use—garage, off-site use only

Bldg. 418

Property #: 77199830100

Philadelphia Naval Shipyard

Philadelphia PA 19112-

Status: Excess

Comment: 2578 sq. ft., needs repair, presence of asbestos, most recent use—quarters, off-site use only

Bldg. 570

Property #: 77199830101

Philadelphia Naval Shipyard

Philadelphia PA 19112-

Status: Unutilized

Comment: 9123 sq. ft., needs repair, presence of asbestos, most recent use—tool room, off-site use only

Bldg. 605

Property #: 77199830102

Philadelphia Naval Shipyard

Philadelphia PA 19112-

Status: Excess

Comment: 1118 sq. ft., needs repair, presence of asbestos, most recent use—garage, off-site use only

Rhode Island

Building

Bldg. 69

Property #: 77199810052

Naval Education and Training Center

Newport Co: Newport RI 02841-

Status: Unutilized

Comment: 600 sq. ft., concrete, presence of asbestos, most recent use—storage, off-site use only

Bldg. A33

Property #: 77199810083

Navy Hospital Gate 5

Newport RI 02841-

Status: Underutilized

Comment: 1512 sq. ft., detached 5 stall garage, needs repair, presence of asbestos, off-site use only

Facility T

Property #: 77199810175

Naval Education and Training Center

Coddington Park

Newport Co: Newport RI 02841-1711

Status: Unutilized

Comment: 1610 sq. ft., needs rehab, possible asbestos/lead paint, most recent use— office, off-site use only

Facility U

Property #: 77199810176

Naval Education and Training Center

Coddington Park

Newport Co: Newport RI 02841-1711

Status: Unutilized

Comment: 1593 sq. ft., needs rehab, possible asbestos/lead paint, most recent use—maint. shop, off-site use only

Facility V

Property #: 77199810177

Naval Education and Training Center

Coddington Park

Newport Co: Newport RI 02841-1711

Status: Unutilized

Comment: 1593 sq. ft., needs rehab, possible asbestos/lead paint, most recent use—maint. shop, off-site use only

Facility W

Property #: 77199810178

Naval Education and Training Center

Coddington Park

Newport Co: Newport RI 02841-1711

Status: Unutilized

Comment: 1593 sq. ft., needs rehab, possible asbestos/lead paint, most recent use—training/office, off-site use only

Facility X

Property #: 77199810179

Naval Education and Training Center

Coddington Park

Newport Co: Newport RI 02841-1711

Status: Unutilized

Comment: 1593 sq. ft., needs rehab, possible asbestos/lead paint, most recent use—office, off-site use only

Facility Y

Property #: 77199810180

Naval Education and Training Center

Coddington Park

Newport Co: Newport RI 02841-1711

Status: Unutilized

Comment: 1593 sq. ft., needs rehab, possible asbestos/lead paint, most recent use—admin., off-site use only

Facility 322

Property #: 77199810181

Naval Education and Training Center

Coddington Park

Newport Co: Newport RI 02841-1711

Status: Unutilized

Comment: 800 sq. ft., possible asbestos/lead paint, most recent use—maint. shop, off-site use only

Facility 323

Property: #77199810182

Naval Education & Training Center

Coddington Park

Newport Co: Newport RI 02841-1711

Status: Unutilized

Comment: 800 sq. ft., needs rehab, possible asbestos/lead paint, most recent use—. shop, off-site use only

Facility 324

Property #: 77199810183

Naval Education & Training Center

Coddington Park

Newport Co: Newport RI 02841-1711

Status: Unutilized

Comment: 800 sq. ft., needs rehab, possible asbestos/lead paint, most recent use— maint. shop, off-site use only

Facility 325

Property #: 77199810184

Naval Education & Training Center

Coddington Park

Newport Co: Newport RI 02841-1711

Status: Unutilized

Comment: 800 sq. ft., needs rehab, possible asbestos/lead paint, most recent use— storage, off-site use only

Facility 326

Property #: 771998101825

Naval Education & Training Center

Coddington Park

Newport Co: Newport RI 02841-1711

Status: Unutilized

Comment: 800 sq. ft., needs rehab, possible asbestos/lead paint, most recent use— storage, off-site use only

Facility 327

Property #: 77199810186

Naval Education & Training Center

Coddington Park

Newport Co: Newport RI 02841-1711

Status: Unutilized

Comment: 800 sq. ft., needs rehab, possible asbestos/lead paint, most recent use— maint. shop, off-site use only

Bldg. 342

Property #: 77199810259

Coddington Point

Naval Education & Training Center

Newport RI 02841-1711

Status: Unutilized

Comment: 646 sq. ft., presence of asbestos/lead paint, most recent use— storage, off-site use only

Bldg. 340

Property #: 77199810260

Coddington Point

Naval Education & Training Center

Newport RI 02841-1711

Status: Unutilized

Comment: 96 sq. ft., needs repair, presence of asbestos/lead paint, most recent use— heating plant bldg., off-site use only

Bldg. 697

Property #: 77199810262

Coddington Cove

Naval Education & Training Center

Newport RI 02841-1711

Status: Unutilized

Comment: 960 sq. ft., presence of asbestos/lead paint, most recent use— self help shop, off-site use only

Bldg. 696

Property #: 77199810263

Coddington Cove

Naval Education & Training Center

Newport RI 02841-1711

Status: Unutilized

Comment: 960 sq. ft., presence of asbestos/lead paint, most recent use— elec/comm maint. shop, off-site use only

Bldg. 35

Property #: 77199810264

Coddington Cove

Naval Education & Training Center

Newport RI 02841-1711

Status: Unutilized

Comment: 2880 sq. ft., needs repair, presence of asbestos/lead paint, most recent use— auto storage, off-site use only

Bldg. 70

Property #: 77199840018

Naval Station, Newport

Middletown Co: Newport RI 02842-

Status: Unutilized

Comment: 1900 sq. ft., most recent use— storage, off-site use only

Bldg. 111

Property #: 77199840019

Naval Station, Newport

Middletown Co: Newport RI 02842-

Status: Unutilized

Comment: 560 sq. ft., most recent use— storage, off-site use only

Facility 700

Property #: 77199840029

Naval Station

Newport RI 02841-

Status: Unutilized

Comment: 6230 sq. ft., most recent use— wastewater treatment plant, off-site use only

Facility 994

Property #: 77199840030

Naval Station

Newport RI 02841-

Status: Unutilized

Comment: 960 sq. ft., most recent use— storage, off-site use only

Facility 449

Property #: 77199840031

Naval Station

Newport RI 02841-

Status: Unutilized

Comment: 140 sq. ft., most recent use— chlorination shed, off-site use only

Facility 1324

Property#: 77199840032

Naval Station

Newport RI 02841-

Status: Unutilized

Comment: 107 sq. ft., most recent use— lift station controls shed, off-site use only

Bldg. 118

Property #: 77199920065

Naval Undersea Warfare

Center

Middletown Co: Newport RI 02841-1708

Status: Excess

Comment: 1604 sq. ft., presence of asbestos/lead paint, most recent use—offices/storage, off-site use only

Bldg. 136

Property #: 77199920066

Naval Undersea Warfare

Center

Middletown Co: Newport RI 02841-1708

Status: Excess

Comment: 882 sq. ft., presence of asbestos/lead paint, most recent use—operations office, off-site use only

Virginia

Building

Bldg. SP-63A

Property #: 77199910017

Naval Base Norfolk

Norfolk Co: VA 23511-

Status: Excess

Comment: 480 sq. ft., needs rehab, presence of asbestos, most recent use—storage, off-site use only

Bldg. SP-63

Property #: 77199910018

Naval Base Norfolk

Norfolk Co: VA 23511-

Status: Excess

Comment: 1632 sq. ft., presence of asbestos, off-site use only

Bldg. MCE223

Property #: 77199910053

Norfolk Co: VA 23511-2895

Status: Excess

Comment: 256 sq. ft., presence of asbestos, most recent use—storage, off-site use only

Bldg. MCE221

Property #: 77199910054

Naval Station Norfolk

Norfolk Co: VA 23511-2895

Status: Excess

Comment: 4000 sq. ft., presence of asbestos, most recent use—storage, off-site use only

Structure NH-201

Property #: 77199920149

Atlantic Fleet Hdgts.

Support Activity

Norfolk Co: VA 23511-

Status: Excess

Comment: 4922 sq. ft., presence of asbestos/lead paint, most recent use—lab, off-site use only

Structure NH-203

Property #: 77199920150

Atlantic Fleet Hdgts.

Support Activity

Norfolk Co: VA 23511-

Status: Excess

Comment: 1874 sq. ft., presence of asbestos/lead paint, most recent use—maint. shop, off-site use only

Structure NH-213

Property #: 77199920151

Atlantic Fleet Hdgts.

Support Activity

Norfolk Co: VA 23511-

Status: Excess

Comment: 7840 sq. ft., presence of asbestos/lead paint, most recent use—storage, off-site use only

Washington

Building

149 Duplexes

Property #: 771999820118

Naval Transient Family Accom.

Eastpark

90 Magnuson Way

Bremerton WA 98310-

Location: Structures 002-148, 150, 152-153, 157

Status: Excess

Comment: 1286 sq. ft./1580 sq. ft., needs rehab, presence of asbestos/lead paint, most recent use—housing, off-site use only

9 Fourplexes

Property #: 771999820119

Naval Transient Family Accom.

Eastpark

90 Magnuson Way

Bremerton WA 98310-

Location: Structures 151, 155-156, 158-163

Status: Excess

Comment: 3082 sq. ft./3192 sq. ft., needs rehab, presence of asbestos/lead paint, most recent use—housing, off-site use only

2 Sixplexes

Property #: 77199820120

Naval Transient Family Accom.

Eastpark

90 Magnuson Way

Bremerton WA 98310-

Location: Structures 154, 189

Status: Excess

Comment: 4618 sq. ft., needs rehab, presence of asbestos/lead paint, most recent use—housing, off-site use only

1 Single Unit

Property #: 77199820121

Naval Transient Family Accom.

Eastpark

90 Magnuson Way

Bremerton WA 98310-

Location: Structure 149

Status: Excess

Comment: 790 sq. ft., needs rehab, presence of asbestos/lead paint, most recent use—housing, off-site use only

Storage Building

Property #: 77199820122

Navay Transient Family Accom.

Eastpark

90 Magnuson Way

Bremerton WA 98310-

Status: Excess

Comment: 2160 sq. ft., needs rehab, presence of asbestos/lead paint, most recent use—storge, off-site use only

Admin. Building, Structure 001

Property #:77199820123

Naval Transient Family Accom.

Eastpark

90 Magnuson Way

Bremerton WA 98310-

Status: Excess

Comment: 9550 sq. ft., needs rehab, presence of asbestos/lead paint, most recent use—housing, off-site use only

VA

Alabama

Land

VA Medical Center (VAMC)

Property #: 97199010053

Tuskegee Co: Macon AL 36083-

Status: Underutilized

Comment: 40 acres, buffer to VA medical Center, potential utilities, undeveloped.

California

Land

Land

Property #: 97199240001

4150 Clement Street

San Francisco Co: San Francisco CA 94121-

Status: Underutilized

Comment: 4 acres; landslide area.

Indiana

Building

Bldg. 105, VAMC

Property #: 97199230006

East 38th Street

Marion Co: Grant IN 46952-

Status: Excess

Comment: 310 sq. ft., 1 story stone structure no sanitary or heating facilities, Natl Register of Historic Places.

Bldg. 140, VAMC

Property #: 97199230007

East 38th Street

Marion Co: Grant IN 46952-

Status: Excess

Comment: 60 sq. ft., concrete block bldg., most recent use—trash house.

Bldg. 7

Property #: 97199810001

VA Northern Indiana Health Care System

Marion Campus, 1700 East 38th Street

Marion Co: Grant IN 46953-

Status: Underutilized

Comment: 16,864 sq. ft., presence of asbestos, most recent use— psychiatric ward, National Register of Historic Places.

Bldg. 10

Property #: 97199810002

VA Northern Indiana Health Care System

Marion Campus, 1700 East 38th Street

Marion Co: Grant IN 46953-

Status: Underutilized

Comment: 16,361 sq. ft., presence of asbestos, most recent use—psychiatric ward, National Register of Historic places.

Bldg. 11

Property #: 97199810003

VA Northern Indiana Health Care System

Marion Campus, 1700 East 38th Street

Marion Co: Grant IN 46953-

Status: Underutilized

Comment: 16,361 sq. ft., presence of asbestos, most recent use—psychiatric ward, National Register of Historic Places.

Bldg. 18

Property #: 97199810004

VA Northern Indiana Health Care System

Marion Campus, 1700 East 38th Street

Marion Co: Grant IN 46953-

Status: Underutilized

Comment: 13,802 sq. ft., presence of asbestos, most recent use—psychiatric ward, National Register of Historic Places.

Bldg. 25

Property #: 97199810005

VA Northern Indiana Health Care System

Marion Campus, 1700 East 38th Street

Marion Co: Grant IN 46953-

Status: Unutilized

Comment: 32,892 sq. ft., presence of asbestos, most recent use—psychiatric ward, National Register of Historic Places.

Iowa

Land

40.66 acres

Property #: 97199740002

VA Medical Center

1515 West Pleasant St.

Knoxville Co: Marion IA 50138-

Status: Unutilized

Comment: Golf course, easement requirements.

Maryland

Land

VA Medical Center

Property #: 97199010020

9500 North Point Road

Fort Howard Co: Baltimore MD 21052-

Status: Underutilized

Comment: Approx. 10 acres, wetland and periodically floods, most recent use—dump site for leaves.

Pennsylvania

Building

Bldg. 25, VA Medical Center

Property #: 97199210001

Delafield Road

Pittsburgh Co: Allegheny PA 15215-

Status: Unutilized

Comment: 133 sq. ft., one story bick guard house, needs rehab.

Bldg. 3, VAMC

Property #: 97199230012

1700 South Lincoln Avenue

Lebanon Co: Lebanon PA 17042-

Status: Underutilized

Comment: Portion of bldg. (3850 and 4360 sq. ft.), most recent use—storage; second floor lacks elevator access.

Texas

Land

Land

Property #: 97199010079

Olin E. Teague Veterans Center

1901 South 1st Street

Temple Co: Bell TX 76504-

Status: Underutilized

Comment: 13 acres, portion formerly landfill, portion near flammable materials, railroad crosses property, potential utilities.

Wisconsin

Building

Bldg. 8

Property #: 97199010056

VA Medical Center

County Highway E

Tomah Co: Monroe WI 54660-

Status: Underutilized

Comment: 2200 sq. ft., 2 story wood frame, possible asbestos, potential utilities, structural deficiencies, needs rehab.

Land

VA Medical Center

Property #: 97199010054

County Highway E

Tomah Co: Monroe WI 54660-

Status: Underutilized

Comment: 12.4 acres, serves as buffer between center and private property, no utilities.

SUITABLE AND UNAVAILABLE

AIR FORCE

Colorado

Building

Bldg. 9023

Property #: 18199730010

U.S. Air Force Academy

Colorado Springs Co: El Paso CO 80814-2400

Status: Underutilized

Reason: Utilized.

Bldg. 9027

Property #: 18199730011

U.S. Air Force Academy

Colorado Springs Co: El Paso CO 80814-2400

Status: Underutilized

Reason: Utilized.

Idaho

Building

Bldg. 224

Property #: 18199840008

Mountain Home Air Force Co: Elmore ID 83648-

Status: Unutilized

Reason: Extension of runway.

Iowa

Building

Bldg. 00627

Property #: 18199310001

Siox Gateway Airport

Siox City Co: Woodbury IA 51110-

Status: Unutilized

Reason: Will be transferred to Siox City.

Bldg. 00669

Property #: 18199310002

Siox Gateway Airport

Siox City Co: Woodbury IA 51110-

Status: Unutilized

Reason: Will be transferred to Siox City.

Michigan

Building

Bldg. 50

Property #: 18199010790

Calumet Air Force Station

Calumet Co: Keweenaw MI 49913-

Status: Excess

Reason: Renewal of lease.

Bldg. 14

Property #: 18199010833

Calumet Air Force Station

Calumet Co: Keweenaw MI 49913-

Status: Excess

Reason: Renewal of lease.

Bldg. 16

Property #: 18199010834

Calumet Air Force Station

Calumet Co: Keweenaw MI 49913-

Status: Excess

Reason: Renewal of lease.

Bldg. 15

Property #: 18199010864

Calumet Air Force Station

Calumet Co: Keweenaw MI 49913-

Status: Excess

Reason: Renewal of lease.

Nebraska

Building

Bldg. 64

Property #: 18199720040

Offutt AFB

Silver Creek Co: Nance NE 68663-

Status: Unutilized

Reason: Utilized.

Land

Land/Offutt Comm. Annex No. 4

Property #: 18199720041

Silver Creek Co: Nance NE 68113-

Status: Unutilized

Reason: Asbestos in underground bunker.

New Hampshire

Building

Bldg. 127

Property #: 18199320057

New Boston Air Force Station

Amherst Co: Hillsborough NH 03031-1514

Status: Excess

Reason: Ongoing installation mission consideration.

New Mexico

Building

16 Bldgs., Type A

Property #: 18199910013

Kirtland AFB

Duplex Houses

Kirtland AFB Co: Bernalillo NM 87117-5000

Status: Unutilized

Reason: Under demolition.

12 Bldgs., Type B

Property #: 18199910014

Kirtland AFB

Duplex Houses

Kirkland AFB Co: Bernalillo NM 87117-5000

Status: Unutilized

Reason: Under demolition.

15 Bldgs., Type C

Property #: 18199910015

Kirtland AFB

Duplex Houses

Kirtland AFB Co: Bernalillo NM 87117-5000

Status: Unutilized

Reason: Under demolition.

6 Bldgs., Type D

Property #: 18199910016

Kirtland AFB

Duplex Houses

Kirtland AFB Co: Bernalillo NM 87717-5000

Status: Unutilized

Reason: Under demolition.

9 Bldgs., Type E

Property #: 18199910017

Kirtland AFB

Single Units

Kirtland AFB Co: Bernalillo NM 87117-5000

Status: Unutilized

Reason: Under demolition.

12 Bldgs.

Property #: 18199940006

Kirtland AFB

#862-867, 869, 870, 873-876

Kirtland AFB Co: Bernalillo NM 87117-5000

Status: Unutilized

Reason: Under demolition.

Bldgs. 871, 872

Property #: 18199940007

Kirtland AFB

Kirtland AFB Co: Bernalillo NM 87117-5000

Status: Unutilized

Reason: Under demolition.

ARMY

Alaska

Building

Bldg. 806

Property #: 21199930115

Fort Richardson

Ft. Richardson Co AK 99505-

Status: Excess

Reason: Fully utilized.

Georgia

Building

Bldg. 4090

Property #: 21199930007

Fort Benning

Ft. Benning Co: Muscogee GA 31905-

Status: Underutilized

Reason: Plan to utilize as a museum.

Kansas

Building

Bldg. P-295

Property #: 21199810296

Fort Leavenworth

Leavenworth Co: Leavenworth KS 66027-

Status: Unutilized

Reason: Reutilized.

New York

Building

Bldg. T-2215

Property #: 21199840161

Fort Drum

Co: Jefferson NY 13602-

Status: Unutilized

Reason: Reutilization.

Bldg. T-2216

Property #: 21199840162

Fort Drum

Co: Jefferson NY 13602-

Status: Unutilized

Reason: Reutilization.

North Carolina

Land

92 Acre—Land

Property #: 21199610728

Military Ocean Terminal, Sunny Point

Southport Co: Brunswick NC 28461-5000

Status: Underutilized

Reason: Contains well owned by Town; within an explosive buffer zone.

10 Acre—Land

Property #: 21199610729

Militry Ocean Terminal, Sunny Point

Southport Co: Brunswick NC 28461-5000

Status: Underutilized

Reason: Within an explosives buffer zone.

257 Acre—Land

Property #: 21199610730

Military Ocean Terminal, Sunny Point

Southport Co: Brunswick NC 28461-5000

Status: Underutilized

Reason: Within an explosvies buffer zone.

24.83 acres—Tract of Land

Property #: 21199620685

Military Ocean Terminal, Sunny Point

Southport Co: Brunswick NC 28461-5000

Status: Underutilized

Reason: Explosive Buffer Zone.

Texas

Building

Bldg. P-2000, Fort Sam Houston

Property #: 21199220389

San Antonio Co: Bexar TX 78234-5000

Status: Underutilized

Reason: Area programmed for future use.

Bldg. P-2001, Fort Sam Houston

Property #: 21199220390

San Antonio Co: Bexar TX 78234-5000

Status: Underutilized

Reason: Area programmed for future use.

Land

Vacant Land, Fort Sam Houston

Property #: 21199220438

All of Block 1800, Portions of Blocks 1900, 3100 and 3200

San Antonio Co: Bexar TX 78234-5000.

Status: Unutilized

Reason: Clean-up process.

COE

California

Building

Santa Fe Flood Control Basin

Property #: 31199011298

Irwindale Co: Los Angeles CA 91706-

Status: Unutilized

Reason: Needed for contract personnel.

Illinois

Buildings

Bldg.7

Property #: 31199010001

Ohio River Locks & Dam No. 53

Grand Chain Co: Pulaski IL 62941-9801

Status: Unutilized

Reason: Project integrity and security; safety liability.

Bldg. 6

Property #: 31199010002

Ohio River Locks & Dam No. 53

Grand Chain Co: Pulaski IL 62941-9801

Status: Unutilized

Reason: Project integrity and security; safety liability.

Bldg. 5

Property #: 31199010003

Ohio River Locks & Dam No. 53

Grand Chain Co: Pulaski IL 62941-9801

Status: Unutilized

Reason: Project integrity and security; safety liability.

Bldg. 4

Property #: 31199010004

Ohio River Locks & Dam No. 53

Grand Chain Co: Pulaski IL 62941-9801

Status: Unutilized

Reason: Project integrity and security; safety liability.

Bldg. 3

Property #: 31199010005

Ohio River Locks & Dam No. 53

Grand Chain Co: Pulaski IL 62941-9801

Status: Unutilized

Reason: Project integrity and security; safety liability.

Bldg. 2

Property #: 31199010006

Ohio River Locks & Dam No. 53

Grand Chain Co: Pulaski IL 62941-9801

Status: Unutilized

Reason: Project integrity and security; safety liability.

Bldg. 1

Property #: 31199010007

Ohio River Locks & Dam No. 53

Grand Chain Co: Pulaski IL 62941-9801

Status: Unutilized

Reason: Project integrity and security; safety liability.

Land

Lake Shelbyville

Property #: 31199240004

Shelbyville Co: Shelby & Moultrie IL 62565-9804

Status: Unutilized

Reason: Disposal action initiated.

Kentucky

Land

Portion of Tract 3300

Property #: 31199830002

Fishtrap Lake

Co: Pike KY 41548-

Status: Excess

Reason: Encroachment.

Ohio

Building

Bldg.—Berlin Lake

Property #: 31199640001

7400 Bedell Road

Berlin Center Co: Mahoning OH 44401-9797

Status: Unutilized

Reason: Utilized as construction office.

Oklahoma

Land

Land

Property #: 31199820002

Lake Texoma

Texoma Co: Bryan OK

Status: Excess

Reason: To be conveyed to Rural Sewer District.

Pennsylvania

Building

Tract 353

Property #: 31199430019

Grays Landing Lock & Dam Project

Greensboro Co: Greene PA 15338-

Status: Unutilized

Reason: To be transferred to Borough.

Tract 403A

Property #: 31199430021

Grays Landing Lock & Dam Project

Greensboro Co: Greene PA 15338-

Status: Unutilized

Reason: To be transferred to Borough.

Tract 403B

Property #: 31199430022

Grays Landing Lock & Dam Project

Greensboro Co: Greene PA 15338-

Status: Unutilized

Reason: To be transferred to Borough.

Tract 403C

Property #: 31199430023

Grays Landing Lock & Dam Project

Greensboro Co: Greene PA 15338-

Status: Unutilized

Reason: To be transferred to Borough.

Tract 434

Property #: 31199430024

Grays Landing Lock & Dam Project

Greensboro Co: Greene PA 15338-

Status: Unutilized

Reason: To be transferred to Borough.

Tract No. 224

Property #: 31199440001

Grays Landing Lock & Dam Project

Greensboro Co: Green PA 15338-

Status: Unutilized

Reason: Disposal action initiated.

Land

East Branch Clarion River Lake

Property #: 31199011012

Wilcox Co: Elk PA

Status: Underutilized

Reason: Location near damsite.

Dashields Locks and Dam (Glenwillard, PA)

Property #: 31199210009

Crescent Twp. Co: Allegheny PA 15046-0475

Status: Unutilized

Reason: Leased to Township.

Texas

Land

Parcel #222

Property #: 31199010421

Lake Texoma

Co: Grayson TX

Status: Excess

Reason: Landfill to be investigated.

Wisconsin

Building

Former Lockmaster's Dwelling

Property #: 31199011526

DePere Lock

100 James Street

De Pere Co: Brown WI 54115-

Status: Unutilized

Reason: In negotiation for transfer to the State.

DOT

Alaska

Building

Bldgs. 001A&B

Property #: 87199720001

Spruce Cape Loran Station

Kodiak Co: Kodiak Is. Bor. AK 99615-

Status: Excess

Reason: Currently utilized by Navy.

Georgia

Land

Land—St. Simons Boathouse

Property #: 87199540003

St. Simons Island Co: Glynn GA 31522-0577

Status: Unutilized

Reason: Reversionary clause in deed.

Maine

Building

Mount Desert Rock Light

Property #: 87199240023

U.S. Coast Guard

Southwest Harbor Co: Hancock ME 04679-

Status: Unutilzied

Reason: No electrical service.

Little River Light

Property #: 87199240026

U.S. Cost Guard

Cutler Co: Washington ME

Status: Unutilized

Reason: Well contamination.

Burnt Island Light

Property #: 87199240027

U.S. Coast Guard

Southport Co: Lincoln ME 04576-

Status: Unutilized

Reason: Under a historic lease.

Massachusetts

Building

Keepers Dwelling

Property #: 87199240024

Cape Ann Light, Thachers Island

U.S. Coast Guard

Rockport Co: Essex MA 01966-

Status: Unutilized

Reason: Under a license agreement.

Assistant Keepers Dwelling

Property #: 871992400025

Cape Ann Light, Thachers Island

U.S. Coast Guard

Rockport Co: Essex MA 01966-

Status: Unutilized

Reason: Under a license agreement.

ENERGY

Idaho

Building

Bldg. CFA-613

Property #: 41199630001

Central Facilities Area

Idaho National Engineering Lab

Scoville Co: Butte ID 83415-

Status: Unutilized

Reason: Historical issues.

GSA

Alaska

Building

10 Office Buildings

Property #: 54199710002

Anchorage Native Medical Center

255 Gambell St.

Anchorage Co: Anchorage AK 99501-

Status: Surplus

GSA Number: 9-F-AK-750

Reason: City interest.

3 Stoage Buildings

Property #: 541999710003

Anchorage Native Medical Center

255 Gambell St.

Anchorage Co: Anchorage AK 99501-

Status: Surplus

GSA Number: 9-F-AK-750

Reason: City interest.

1 Hospital

Property #: 54199710004

Anchorage Native Medical Center

255 Gambell St.

Anchorage Co: Anchorage AK 99501-

Status: Surplus

GSA Number: 9-F-AK-750

Reason: City interest.

California

Building

112 Bldgs.—Skaggs Island

Property #: 54199730001

Naval Security Group

Skaggs Island Co: Sonoma CA

GSA Number: 9-N-CA-1488

Status: Excess

Reason: Public benefit interest.

Marine Culture Laboratory

Property #: 54199830011

Granite Canyon

34500 Coast Highway

Monterey CA 93940-

Status: Surplus

GSA Number: 9-C-CA-1499

Reason: Wildlife Conservation.

Natl Weather Svc Station

Property #: 54199840007

Blue Canyon Airport

Emigrant Gap CA 95715-

Status: Surplus

GSA Number: 9-C-CA-1521

Reason: Advertised.

Naval & Marine Corps Readiness

Property #: 54199910005

1700 Stadium Way

Los Angeles Co: Los Angeles CA 90012-

Status: Excess

GSA Number: 9-N-CA-1523

Reason: Emergency Service pending.

Eureka Federal Building

Property #: 54199930024

5th & H Streets

Eureka Co: CA 95501-

Status: Excess

GSA Number: 9-G-CA-1529

Reason: Federal need.

Land

Mira Loma Parcel

Property #: 54199910007

March Comm. Annex No. 2

Mira Loma Co: Riverside CA

Status: Excess

GSA Number: 9-G-CA-1505

Reason: Advertised.

Reclamation Unit LC-2, Par. B

Property #: 54199910008

Texas Ave/Old Lewiston Rd

Lewiston Co: Trinity CA

Status: Excess

GSA Number: 9-I-CA-1509

Reason: Advertised.

Redding Reserve Site

Property #: 54199920001

Redding Co: Shasta CA 96049-

Status: Unutilized

GSA Number: 9-D-CA-1524

Reason: City interest.

Delaware

Building

Unaccompanied Pers. Housing

Property #: 54199840009

800 Inlet Road

Rehoboth Beach Co: Sussex DE 19971-2698

Status: Excess

GSA Number: 4-U-DE-462

Reason: Park Interest.

Georgia

Building

Phil Landrum Federal Bldg.

Property #: 54199810008

35 W. Church Street

Jasper Co: Pickens GA 30143-

Status: Surplus

GSA Number: 4-G-GA-854

Reason: Public benefit interest.

Federal Building

Property #: 54199910014

109 N. Main Street

Lafayette Co: Walker GA 30728-

Status: Excess

GSA Number: 4-G-GA-858

Reason: Homeless interest.

Illinois

Building

Radar Communication Link

Property #: 54199820013

½ mi east of 116th St.

Co: Will IL

Status: Excess

GSA Number: 2-U-IL-696

Reason: negotiated sale.

Natl Weather Svc. Meter. Obs.

Property #: 54199820014

Morris Blacktop Rd.

Miller Township Co: LaSalle IL 61341-

Status: Excess

GSA Number: 1-C-IL-708

Reason: homeless interest

Indiana

Building

Vincennes Federal Building

Property #: 54199820015

501 Busseron St.

Vincennes Co: Knox IN 47591-

Status: Excess

GSA Number: 1-G-IN-592

Reason: Historic Interest.

Former Army Reserve Center

Property #: 54199920003

White Oak Park

LaPorte Co: LaPorte IN 00000-

Status: Excess

GSA Number: 1-GR(1)-IN-430E

Reason: Advertised.

Maine

Land

GWEN Site (Patten)

Property #: 18199640018

Loring AFB

Stacyville Co: Herseytown ME 04742-

Status: Excess

GSA Number: 1-D-ME-630

Reason: Advertised.

Maryland

Building

Cheltenham Naval Comm. Dtchmt.

Property #: 77199330010

9190 Commo Rd., AKA 77000

Redman Rd.

Clinton Co: Prince George MD 20397-5520

Status: Excess

GSA Number: 4-N-MD-544A

Reason: Public benefit interest.

Michigan

Building

Detroit Job Corps Center

Property #: 54199510002

10401 E. Jefferson & 1438 Garland;

1265 St. Clair

Detroit Co: Wayne MI 42128-

Status: Surplus

GSA Number: 2-L-MI-757

Reason: Education application.

Parcel #1

Property #: 54199730011

Old Lifeboat Station

East Tawas Co: Iosco MI

Status: Excess

GSA Number: 1-UU-MI-500

Reason: Advertised.

S. Haven Keeper's Dwelling

Property #: 54199740012

91 Michigan Ave.

South Haven Co: Van Buren MI 49090-

Status: Excess

GSA Number: 1-U-MI-475C

Reason: Negotiated sale to City.

Land

Parcel 3, Parcel B

Property #: 54199730013

East Tawas Co: Iosco MI

Status: Excess

GSA Number: 1-U-MI-500

Reason: Negotiated sale.

Minnesota

Building

Army Reserve Center

Property #: 54199920007

620 Turill St.

Le Sueur Co: MN 56058-

Status: Excess

GSA Number: 1-D-MN-568

Reason: Homeless interest.

Mississippi

Building

Federal Building

Property #: 54199910004

236 Sharkey Street

Clarksdale Co: Coahoma MS 38614-

Status: Excess

GSA Number: 4-G-MS-553

Reason: Will be leased back to Federal tenants.

New York

Building

Reserve Center

Property #: 21199710239

Sgt. H. Grover H. O'Connor

USARC

303 N. Lackawanna Street

Wayland Co: Steuben NY 14572-

Status: Unutilized

GSA Number: 1-D-NY-866

Reason: Advertised.

Land

Galeville Army Training Site

Property #: 21199510128

Shawangunk Co: Ulster NY 12589-

Status: Excess

GSA Number: 2-D-NY-807

Reason: Park application.

North Carolina

Building

Federal Building

Property #: 54199730022

146 North Main Street

Rutherfordton Co: Rutherford NC 28139-

Status: Excess

GSA Number: 4-G-NC-727

Reason: Homeless interest.

Tarheel Army Missile Plant

Property #: 54199820002

Burlington Co: Alamance NC 27215-

Status: Excess

GSA Number: 4-D-NC-593

Reason: Advertised.

Coinjock Station

Property #: 54199840010

Canal Road

Coinjock Co: Currituck NC 27293-

Status: Excess

GSA Number: 4-U-NC-734

Reason: Homeless Interest.

Bodie Island Lighttower

Property #: 54199910003

Cape Hatteras

Nags Head Co: Dare NC 27959-

Status: Excess

GSA Number: 4-U-NC-733

Reason: Expression of interest from National Park Service.

Land

Greenville Relay Station

Property #: 54199840013

Site C

Greenville Co: Pitt NC

Status: Excess

GSA Number: 4-GR-NC-0721-B

Reason: Education Interest.

Ohio

Building

Zanesville Federal Building

Property #: 54199520018

65 North Fifth Street

Zanesville Co: Muskingum OH

Status: Excess

GSA Number: 2-G-OH-781A

Reason: Public benefit interest from County.

Oklahoma

Building

Fed. Bldg./Courthouse

Property #: 54199820009

N. Washington & Broadway Streets

Ardmore Co: Carter OK 73402-

Status: Excess

GSA Number: 7-G-TX-559

Reason: Federal need.

Oregon

Building

Gus Solomon U.S. Courthouse

Property #: 54199730023

620 SW Main Street

Portland Co: Multnomah OR 97205-

Status: Underutilized

GSA Number: 7-G-OR-724

Reason: Pending lease with County government.

Puerto Rico

Land

La Hueca—Naval Station

Property #: 54199420006

Roosevelt Roads

Vieques PR 00765-

Status: Excess

Reason: Federal interest.

Texas

Building

Fairfield Federal Building

Property #: 54199920006

E. Main & Keechi St.

Fairfield Co: Freestone TX 75840-1556

Status: Excess

GSA Number: 7-G-TX-1051

Reason: Correctional interest.

Washington

Building

Vancouver Info Center

Interstate Rt 5

Property #: 541999740011

Vancouver Co: Clark WA 98663-

Status: Excess

GSA Number: 9-GR-WA-514E

Reason: Homeless interest.

747 Building Complex

805 Goethals Drive

Property #: 54199820005

Richland Co: Benton WA 99352-

Status: Surplus

GSA Number: 9-B-WA-1145

Reason: Educational discount.

West Virginia

Land

Segment 8

Property #: 54199910006

Matewan Redevelopment Site

Matewan Co: Mingo WV

Status: Excess

GSA Number: 4-D-WV-533

Reason: Written expression of interest.

Wisconsin

Building

Wausau Federal Building

Property #: 54199820016

317 First Street

Wausau Co: Marathon WI 54401-

Status: Excess

GSA Number: 1-G-WI-593

Reason: Public Benefit Interest.

Interior

California

Building

Visitor Motel—Upper Kaweah

Property #: 61199720007

Sequoia National Park

Three Rivers CA 93271-

Status: Unutilized

Reason: Scheduled for demolition.

Maryland

Building

Former Physioc Property

Property #: 61199820005

NPS Tract 402-29

Jugtown Co: Washington MD 21713-

Status: Excess

Reason: Scheduled for demolition.

Massachusetts

Building

Ziegler House

Property #: 61199830001

National Park, Virginia Road

Lincoln Co: Middlesex MA 10773-

Status: Unutilized

Reason: Removal by FNP to eliminate damage to historic/natural rsc.

Navy

Florida

Land

13.358 acres

Property #: 77199820141

Naval Air Station

Hwy 98 & Perimeter Drive

Pensacola Co: Escambia FL 32508-

Status: Unutilized

Reason: Federal Aid Project.

Maine

Building

Bldg. 376, Naval Air Station

Property #: 77199320011

Topsham Annex

Topsham Co: Sagadahoc ME

Status: Unutilized

Reason: Federal need.

Bldg. 383

Property #: 77199720025

Topsham Annex, Naval Air Station

Status: Unutilized

Reason: Pending special legislation.

Bldg. 382

Property #: 77199720026

Topsham Annex, Naval Air Station

Brunswick ME 04011-

Status: Unutilized

Reason: Pending special legislation.

Bldg. 381

Property 99720027

Topsham Annex, Naval Air Station

Property #: 77199720027

Brunswick ME 04011-

Status: Unutilized

Reason: Pending special legislation.

Ohio

Building

Naval & Marine Corps Res. Cntr

Property #: 77199320012

315 East LaClede Avenue

Youngstown OH

Status: Unutilized

Reason: Returning property to the city.

Puerto Rico

Building

Bldgs. 501 & 502

Property #: 77199530007

U.S. Naval Radio Transmitter Facility

State Road No. 2

Juana Diaz PR 00795-

Status: Underutilized

Reason: Department of Defense interest.

Virginia

Building

Naval Medical Clinic

Property #: 77199010109

6500 Hampton Blvd.

Norfolk Co: Norfolk VA 23508-

Status: Unutilized

Reason: Planned for expansion space.

Land

Naval Base

Property #: 77199010156

Norfolk Co: Norfolk VA 23508-

Status: Unutilized

Reason: Identified for use in developing admin. office space.

Land—CD area

Property #: 77199830022

Naval Base Norfolk

Norfolk VA 23511-2797

Status: Unutilized

Reason: outlease to Federal Credit Union.

VA

Indiana

Building

Bldg. 24, VAMC

Property #: 97199230005

East 38th Street

Marion Co: Grant IN 46952-

Status: Underutilized

Reason: Currently utilized

Bldg. 122

Property #: 97199810006

VA Northern Indiana Health Care System

Marion Campus, 1700 East 38th Street

Marion Co: Grant IN 46953-

Status: Unutilized

Reason: Fully utilized by construction contractor.

Iowa

Land

38 acres

Property #: 97199740001

VA Medical Center

1515 West Pleasant St.

Knoxville Co: Marion IA 50138-

Status: Unutilized

Reason: Enhanced-Use Legislation potential.

Michigan

Land

VA Medical Center

Property #: 97199010015

5500 Armstrong Road

Battle Creek Co: Calhoun MI 49016-

Status: Underutilized

Reason: Being used for patient and program activities.

New York

Land

VA Medical Center

Property #: 97199010017

Fort Hill Avenue

Canandaigua Co: Ontario NY 14424-

Status: Underutilized

Reason: Portion leased; portion landlocked.

Pennsylvania

Land

VA Medical Center

Property #: 97199010016

New Castle Road

Butler Co: Butler PA 16001-

Status: Underutilized

Reason: Used as natural drainage for facility property.

Land No. 645

Property #: 97199010080

VA Medical Center

Highland Drive

Pittsburgh Co: Allegheny PA 15206-

Status: Unutilized

Reason: Property is essential to security and safety of patients.

Land—34.16 acres

Property #: 97199340001

VA Medical Center

1400 Black Horse Hill Road

Coatesville Co: Chester PA 19320-

Status: Underutilized

Reason: Needed for mission related functions.

Tennessee

Land

44 acres

Property #: 97199740003

VA Medical Center

3400 Lebanon Rd.

Murfreesboro Co: Rutherford TN 37129-

Status: Underutilized

Reason: Enhanced-Use lease agreement pending.

Wisconsin

Building

Bldg. 2

Property #: 97199830002

VA Medical Center

5000 West National Ave.

Milwaukee WI 53295-

Status: Underutilized

Reason: Subject of leasing negotiations.

[FR Doc. 00-2892 Filed 2-10-00; 8:45 am]

BILLING CODE 4210-29-M